DEPARTMENT OF ENERGY

Privacy Act of 1974; Publication of Compilation of Systems of Records

AGENCY: Department of Energy.

ACTION: Notice.

SUMMARY: As required by the Privacy Act of 1974, 5 U.S.C. 552a, and the Office of Management and Budget (OMB) Circular A-130, the Department of Energy (DOE or Department) is publishing its compilation of Privacy Act Systems of Records. This notice provides an accurate and complete text of the agency's systems of records, and adopts many of the recommendations that were made to DOE in comments that were submitted concerning proposed amendments to the compilation published by DOE on May 16, 2001.

In addition, this notice proposes to amend an existing system of records and establish two new systems of records.

DATES: The revised compilation of Privacy Act Systems of Records is effective June 30, 2003. The proposed amendment to an existing system of records and the establishment of the two new systems of records will become effective without further notice, on August 14, 2003, unless comments dictate otherwise.

ADDRESSES: Written comments should be directed to Abel Lopez, Director, Freedom of Information Act and Privacy Act Group, U.S. Department of Energy, ME-74, 1000 Independence Avenue, SW., Washington, DC 20585.

FOR FURTHER INFORMATION CONTACT: Abel Lopez, Director, Freedom of Information Act and Privacy Act Group, ME-74, U.S. Department of Energy, 1000 Independence Avenue, SW., Washington, DC 20585, (202) 586-5955; Verlette Moore, Freedom of Information Act and Privacy Act Group, ME-74, 1000 Independence Avenue, SW., Washington, DC 20585, (202) 586-5958; and Isiah Smith, Office of the General Counsel, GC-77, U.S. Department of Energy, 1000 Independence Avenue, SW., Washington, DC 20585, (202) 586-8618.

SUPPLEMENTARY INFORMATION:

I. Background

II. Discussion of Comments

III. Proposed Amendment to an Existing System of Records

IV. Proposed New Systems of Records

V. Comment Procedures

I. Background

DOE published a proposed compilation of its Privacy Act systems of records on May 16, 2001, at 66 FR 27300. The notice provided an accurate and complete text of notices for the sixty systems of records established by DOE under the Privacy Act. Each system notice provided a description of the systems of records, identified the purpose and authority for collecting and maintaining the information, reflected administrative changes that had been made, identified the appropriate DOE locations, and incorporated all routine uses. In addition, the Federal Register notice proposed new routine uses for existing systems of records, deleted 10 systems of records, and established seven new systems of records.

A 30-day comment period was provided for the public to comment on the amendments to existing systems and proposed new systems. The comment discussion that refers to names of DOE offices is only relevant to the text of two systems of records. The names used are the names that existed at the time the comments were submitted, and not the current names of some of the offices. The Department received 13 internal comments and two public comments. An analysis of the comments and the response by the DOE are provided in this notice.

II. Discussion of Comments

Comment: The Department received several comments stating the text for DOE-31 “Firearms Qualifications Records” was omitted from the compilation.

Response: The comments were accurate. The text for this system has been incorporated with this notice.

Comment: Several comments were received requesting clarification of the “Notification Procedures” section of the Compilation of Privacy Act Systems of Records Notice. The commenters stated that it was not clear to whom Privacy Act requests should be directed for records maintained by various DOE Field sites that are managed and operated by contractors.

The “Notification Procedures” section stated that a request by an individual to determine if a system of records contains information about him/her should be directed to the Director, Headquarters Freedom of Information Act and Privacy Act Group, or the Privacy Act Officer at the appropriate address listed in the “System Location” section of the notice. However, since the Laboratories and Area Offices of the Department do not have a Privacy Act Officer on site it was unclear to whom a request should be directed when the system of records was located at one of these facilities.

Response: DOE agrees with the commenters and is revising the “Notification Procedures” section of the “Compilation of Privacy Act Systems of Records; Notice” to address these comments. Accordingly, the “Notification Procedures” section is revised to read as follows:

In accordance with the DOE regulation implementing the Privacy Act, title 10, Code of Federal Regulations, part 1008, a request by an individual to determine if a system of records contains information about him/her should be directed to the Director, Headquarters Freedom of Information Act and Privacy Act Group, U.S. Department of Energy, or the Privacy Act Officer at the appropriate address identified above under “System Locations.” For records maintained by a Laboratory or Area Office, requests should be directed to the Privacy Act Officer at the Operations Office that has jurisdiction over that facility. The request should include the requester's complete name, time period for which records are sought, and the office location(s) where the requester believes the records are located.

In addition, we have created a new section in the “Compilation of Privacy Act Systems of Records” entitled “Table Correlating DOE Field Locations and their Offices.” This section will identify each Operations Office and the Laboratories and Area Offices under their respective jurisdiction. This will enable a requester to identify the appropriate Privacy Act Officer to whom a requester should submit a request for agency records maintained by a Laboratory or Area Office.

Comment: Another commenter stated that any reference to a Laboratory or a non-DOE office as a “System Location” should be deleted. The commenter stated that Management and Operating (M&O) contractors may maintain on behalf of DOE certain systems of records identified in their respective contracts with DOE. The commenter proposed that only the DOE offices should be referenced as a system location.

Response: DOE disagrees with this commenter. DOE has consulted with the Office of Management and Budget (OMB), the agency charged with providing guidance on the Privacy Act to other Federal agencies, and OMB has advised that agencies should identify all locations where the records are maintained. It is the goal of the agency to inform the public what records the agency maintains, where the records are maintained, to whom the records pertain, and the uses of the records. Therefore, the commenter's suggestion is not adopted.

Comment: Comments also were received on the proposed amendments to DOE-1 “Grievance Records.” The commenter stated that, according to the notice, this system of records will maintain only grievance records subject to the negotiated grievance process under DOE Order 3771.1 “Grievance Policy and Procedures.” However, DOE Order 3771.1 does not apply to employees who are members of a bargaining unit and who are covered by negotiated grievance procedures. These employees are specifically excluded from coverage under that particular DOE Order. The commenter further stated that if the intent is to maintain records pertaining specifically to employees covered under a negotiated grievance process, the system should not reference DOE Order 3771.1. Thus, the commenter stated that Albuquerque Operations Office should not be listed as a system location because Albuquerque employees are not members of a bargaining unit and, therefore, not covered by the negotiated grievance process.

Response: The Freedom of Information Act and Privacy Act Group consulted the System Manager for DOE-1 and was informed that the system was established to include records of employees in both Headquarters and in Field components who are covered by both negotiated grievance procedures, and the Administrative Grievance process under DOE Order 3771.1. The system will maintain records that are a part of a negotiated grievance process and/or a grievance that is a part of the administrative grievance process. For this reason, the purpose section for DOE-1 has been written with greater clarity to include records of employees that are subject to either the negotiated grievance process or DOE's administrative grievance process under DOE Order 3771.1.

Comment: Comments were received concerning the type of records maintained in DOE-3 “Employee Concerns Program Records” and DOE-7 “Whistle Blower Investigations, Hearings and Appeals Records.” In the section entitled “Categories of Records in the System” of the systems of records, security documents are listed as a type of document maintained in the systems. The commenters stated security records should not be maintained in these systems but should be in DOE-43 “Personnel Security Clearance Files,” DOE-44 “Special Access Authorization for Categories of Classified Information,” or another appropriate system.

Response: The Freedom of Information Act and Privacy Act Group contacted the system managers for DOE-3 and DOE-7 and was informed that the records maintained in these systems are acquired from individuals who file informal and formal complaints. The Department does not obtain the records from an individual's security file, but the individual may submit such records with his or her complaint. The records provided by individuals are used in the Department's deliberative process. The Department is in compliance with section (e)(4)(C) of the Privacy Act and OMB's guidance to agencies that when describing “Categories of Records” in the public notice, the notice should describe the type of information maintained in a system. Therefore, the commenter's suggestion is not adopted.

Comment: The Department also received a comment on DOE-34 “Employee Assistance Program” (EAP) Records. The commenter suggested that the Albuquerque Operations Office, the Amarillo Area Office and the Kansas City Area Office should not be identified as locations for EAP records because these types of records are not maintained at those locations. In addition, the commenter pointed out that the Albuquerque Operations Office only maintains statistical information on the use of EAP records.

Response: The system manager for this system of records informed DOE's Freedom of Information Act and Privacy Act Group that service providers have contracts with the Albuquerque Operations Office, Amarillo Area Office, and the Kansas City Area Office. All DOE sites have service providers that provide counseling services for their employees. The records are maintained by the service provider for the Department and statistical information is sent to Albuquerque. However, the records are maintained at the locations listed in the notice. Therefore, the commenter's suggestion is not adopted.

Comment: One commenter noted that DOE offices that are part of the National Nuclear Security Administration (NNSA) should be referenced as such. When a particular system of records references only DOE and makes no mention of the NNSA, it could lead to confusion because it may be interpreted that the system only pertains to those offices or programs under DOE and not any function performed by the NNSA.

Response: DOE's Office of the Assistant General Counsel for General Law informed the Freedom of Information Act and Privacy Act Group that it is the policy of the Department to specifically identify NNSA in all appropriate notices and Departmental Orders. Therefore, the comment has been adopted and all of the systems of records have been revised in accordance with the comment.

Comment: The Department of Labor (DOL) expressed concern that DOE has added routine uses to a number of its systems of records so as to authorize DOE to disclose information from these systems of records to the Department of Health and Human Services (HHS), no similar routine use was added to authorize disclosure of this information to DOL. DOL stated that it also needs these types of information to administer and make determinations on claims filed under the Energy Employees Occupational Illness Compensation Program Act of 2000 (EEOICPA). In addition, DOL stated that there is no valid reason for DOE to provide information to HHS and not provide the same information to DOL when DOL is the agency that will issue actual determinations on claims made to DOL under EEOICPA.

DOL provided language for DOE to consider to modify the routine use language for those systems where DOE established a routine use authorizing disclosure to HHS. In addition, DOL suggested that DOE amend its systems notices to add a separate specific routine use that authorizes disclosure to DOL of the same information authorized for disclosure to HHS.

Response: The system manager for DOE-10 “Worker Advocacy Records” was contacted and agreed that DOL should be provided with the information it needs to administer its EEOICPA obligations. However, the system manager stated that a routine use already exists that allows disclosure to DOL. The routine use states that, “A record from this system may be disclosed as a routine use to the personnel, contractors, grantees, and cooperative agreement holders of the Federal agency or agencies and its components, designated by the President to implement the Federal compensation program established by the EEOICPA.” However, DOE has no objection to the language that DOL suggested. The routine use language has been modified accordingly.

Many of the comments submitted to DOE requested administrative changes to various systems. Appropriate administrative changes have been noted and adopted.

III. Proposed Amendment to an Existing System of Records

DOE-54 Investigative Files of the Inspector General

This notice proposes to amend DOE-54 “Investigative Files of the Inspector General” by establishing a new routine use to comply with the recently enacted Homeland Security Act of 2002.

Specifically, section 812(a) of the Homeland Security Act of 2002 amended the Inspector General Act of 1978 (5 U.S.C. App.) and provides, in part:

To ensure the proper exercise of the law enforcement powers authorized by this subsection, the Offices of Inspector General described under paragraph (3) shall, not later than 180 days after the date of enactment of this subsection, collectively enter into a memorandum of understanding to establish an external review process for ensuring that adequate internal safeguards and management procedures continue to exist within each office and within any office that later receives an authorization under paragraph (2). The review process shall be established in consultation with the Attorney General, who shall be provided with a copy of the memorandum of understanding that establishes the review process. Under the review process, the exercise of the law enforcement powers by each Office of Inspector General shall be reviewed periodically by another Office of Inspector General or by a committee of Inspectors General. The results of each review shall be communicated in writing to the applicable Inspector General and to the Attorney General.

The additional routine use would allow the disclosure of information to authorized officials within Offices of Inspectors General listed in the Inspector General Act of 1978, the Department of Justice, the Federal Bureau of Investigation, and the U.S. Marshals Service, as necessary, for the purpose of conducting qualitative assessment reviews of the Office of Inspector General's investigative operations to ensure that the adequate internal safeguards and management procedures are maintained. The proposed routine use is compatible with the purpose for which the information is being collected and maintained.

IV. Proposed New Systems of Records

DOE-16 Federal Employee Subsidy Program Records

The Department proposes to establish a new system of records entitled DOE-16 “Federal Employee Subsidy Program Records.” The system will cover all records that pertain to the DOE Child Care Tuition Assistance Program and the Transit Subsidy Program (also referred to as the Commuter Choice) at all DOE locations. The authorities for the Child Care Tuition Assistance Program are Public Law 106-58, section 643, and Executive Order 9397. The authorities for the Transit Subsidy Program are the Transportation Equity Act of 1998, Executive Order 13150, and 26 CFR parts 1 and 602.

The information in this system will pertain to DOE Federal employees and will be used by the Department to determine if an individual is eligible for benefits, to administer the programs, to make payments to child care providers or providers of transportation and/or parking services, and/or to reimburse employees for transportation and/or parking expenses.

The records that will be maintained in the proposed DOE-16 are application forms, earnings statements, income tax returns, and vouchers of payments distributed. The records will be stored as paper records and electronic data and may be retrieved by the name of the applicant or other personal identifier, such as a social security number.

The Department does not believe the maintenance of this system will have any substantial effect on privacy and other rights of individuals, particularly since the applications are initiated by the employees and payments or disbursements are made on behalf of the employees. The system is necessary to efficiently administer the programs that provide benefits to employees.

DOE-27 Foreign Travel Management System (FTMS)

The Department proposes to establish a system of records entitled DOE-27 “Foreign Travel Management System (FTMS).” This system of records will allow DOE (1) to track, monitor and record all official foreign travel by Federal employees and contractors; (2) to secure final travel approval by the DOE Program Office that is funding or has programmatic interest in the travel; and (3) to track and monitor attendance by Federal employees and contractors at international conferences.

The Department will collect information to obtain approval for foreign travel and to document and monitor such travel. Information maintained in this system of records will include background data, travel itineraries, estimated and actual trip costs, summary reports following the completion of travel, and international conference information.

The trip information maintained in this system of records will be used in the preparation of country cable requests sent to the Department of State to obtain clearance into the country to be visited. Specific reports can be generated that will provide the number of individuals who traveled to foreign countries, the purpose of the travel, conferences attended, time period, and funding.

The records will be stored as paper records and electronic media. Information may be retrieved by name of traveler, social security number and trip request number. The authorities for the FTMS are 42 U.S.C. 7101 et seq.; 50 U.S.C. 2401 et seq.; 5 U.S.C. 301 and 5 U.S.C. chapter 57.

The Department does not believe the maintenance of this system of records will have any substantial effect on the privacy and other rights of individuals. The system will simplify the collection of information required to efficiently monitor and approve foreign travel.

V. Comment Procedures

As provided by 5 U.S.C. 552a (e)(11), interested persons are invited to submit written data, views or comments related to the proposed amendment to DOE-54 and the two proposed new systems of records to the U.S. Department of Energy, Freedom of Information Act and Privacy Act Group, ME-74, 1000 Independence Avenue, SW., Washington, DC 20585. “Comments” should be written on the outside of the envelope and on the documents submitted to DOE with the designation “Department of Energy Privacy Act Systems of Records Proposals.” These comments and all other relevant information will be considered by DOE before the proposed amendment and proposed two new systems of records are adopted in their final form.

If DOE receives no substantial comments adverse to or critical of the amendment of an existing system of records and two new systems of records DOE has proposed, DOE will begin to operate the systems as proposed upon the expiration of the 40-day advance notice period for informing Congress and OMB of the amendment and proposed new systems as required by OMB Circular A-130.

The Department is submitting to Congress the reports on the amended system of records and the new systems as required by OMB Circular A-130, concurrently with publication of this Federal Register notice.

Set forth below is the compilation of DOE's Privacy Act Systems of Records that includes a Table of Contents, Correlation of Offices and the text of the individual systems of records.

Issued in Washington, DC on June 10, 2003.
James T. Campbell,
Acting Director, Office of Management, Budget and Evaluation/Acting Chief Financial Officer.

Compilation of Systems of Records

Correlation of DOE Field Locations and Their Offices

NNSA Service Center (Albuquerque) (Formerly Albuquerque Operations Office)

Pantex Site Office (formerly Amarillo Area Office)

Pantex Plant

Kansas City Site Office (formerly Kansas City Area Office)

Kansas City Plant

Los Alamos Site Office (formerly Los Alamos Area Office)

Los Alamos National Laboratory

Sandia Site Office (formerly Kirtland Area Office)

Sandia National Laboratory

Chicago Operations Office

Ames Laboratory

Argonne Area Office

Brookhaven Area Office

Environmental Measurements Laboratory

Fermi Area Office

Fermi National Accelerator Laboratory

Princeton Area Office

Princeton Plasma Physics Laboratory

New Brunswick Laboratory

Idaho Operations Office

Grand Junction Office

NNSA Service Center (Oakland) (formerly Oakland Operations Office)

Livermore Site Office

Lawrence Livermore National Laboratory

Lawrence Berkeley National Laboratory

Stanford Linear Accelerator Center

Oak Ridge Operations Office

Oak Ridge Gaseous Diffusion Plant (K-25)

Oak Ridge National Laboratory (X-10)

Melton Valley TRU Waste Storage Facility

NNSA Y-12 Site Office (formerly Y-12 Area Office)

Y-12 Plant

Spallation Neutron Source, Oak Ridge Reservation

Thomas Jefferson National Accelerator Facility

Weldon Spring Site Remedial Action Program

Oak Ridge Institute for Science and Education (ORISE)

Paducah Gaseous Diffusion Plant

Portsmouth Gaseous Diffusion Plant

Horizon Center

East Tennessee Mechanical Contractors

NNSA Service Center (Nevada) (formerly Nevada Operations Office)

Nevada Site Office (newly created)

Nevada Test Site

Savannah River Operations Office

NNSA Savannah River Site Office (formerly Savannah River Area Office)

NNSA Tritiam Facility

Office of Repository Development (Formerly Yucca Mountain Site Characteristic Office)

Table of Contents of All DOE Systems of Records as Adopted or Proposed

DOE-1 Grievance Records.

DOE-2 Supervisory Maintained Personnel Records.

DOE-3 Employee Concerns Program Records.

DOE-4 EIA-457—Survey Reports—Residential Energy Consumption Survey (RECS).

DOE-5 Personnel Records of Former Contractor Employees.

DOE-6 EIA Consumer Data Base.

DOE-7 Whistleblower Investigation, Hearings and Appeals Records.

DOE-8 Intergovernmental Personnel Act (IPA) Agreements.

DOE-9 Members of DOE Advisory Committees.

DOE-10 Worker Advocacy Records.

DOE-11 Emergency Locator Records.

DOE-12 Automated Materials Property System (AMPS).

DOE-13 Payroll and Leave Records.

DOE-14 Report of Compensation.

DOE-15 Intelligence Related Access Authorization.

DOE-16 Federal Employee Subsidy Program Records (Proposed New System-DOE Assigned Number Is Being Re-Issued).

DOE-17 [Deleted—Reserved]

DOE-18 Accounts Payable Financial System.

DOE-19 Accounts Receivable Financial System.

DOE-20 [Deleted—Reserved]

DOE-21 Emergency Defense Mobilization Files.

DOE-22 [Deleted—Reserved]

DOE-23 Property Accountability System.

DOE-24 Land Records System.

DOE-25 U.S. DOE Commuter Locator and Parking Space Information System.

DOE-26 Official Travel Records.

DOE-27 Foreign Travel Management System (FTMS) (Proposed New System-DOE Assigned Number Is Being Re-Issued).

DOE-28 General Training Records.

DOE-29 [Deleted—Reserved]

DOE-30 [Deleted—Reserved]

DOE-31 Firearms Qualifications Records.

DOE-32 [Deleted—Reserved]

DOE-33 Personnel Medical Records.

DOE-34 Employee Assistance Program.

DOE-35 Personnel Radiation Exposure Records.

DOE-36 [Deleted—Reserved].

DOE-37 [Deleted—Reserved].

DOE-38 Occupational and Industrial Accident Reports.

DOE-39 [Deleted—Reserved].

DOE-40 [Deleted—Reserved].

DOE-41 Legal Files (Claims, Litigation, Criminal Violations, Patents, and Others).

DOE-42 [Deleted—Reserved].

DOE-43 Personnel Security Clearance Files.

DOE-44 Special Access Authorization for Categories of Classified Information.

DOE-45 Weapons Data Access Control System.

DOE-46 Administrative Review Files.

DOE-47 [Deleted with this notice—Reserved].

DOE-48 Security Education and/or Infraction Reports.

DOE-49 Security Communications File.

DOE-50 Personnel Assurance Program Records.

DOE-51 Employee and Visitor Access Control Records.

DOE-52 Access Control Records of International Visits, Assignments, and Employment at Facilities and Contractor Sites.

DOE-53 Access Authorization for ADP Equipment.

DOE-54 Investigative Files of the Inspector General.

DOE-55 Freedom of Information and Privacy Act (FOIA/PA) Requests for Records.

DOE-56 Congressional Constituent Inquiries.

DOE-57 Congressional Profiles.

DOE-58 General Correspondence Files Office of the Secretary of Energy, Deputy Secretary and Under Secretary of Energy.

DOE-59 Mailing List for Requesters of Energy Related Information.

DOE-60 [Deleted—Reserved].

DOE-61 Census of High Energy Physicists.

DOE-62 Historical Files—Published Information Concerning Selected Persons in the Energy Field.

DOE-63 [Deleted—Reserved].

DOE-64 [Deleted—Reserved].

DOE-65 [Deleted—Reserved].

DOE-66 Power Sales to Individuals.

DOE-67 [Deleted—Reserved].

DOE-68 [Deleted—Reserved].

DOE-69 [Deleted—Reserved].

DOE-70 [Deleted—Reserved].

DOE-71 The Radiation Accident Registry.

DOE-72 The DOE Radiation Study Registry.

DOE-73 The US-DPTA Registry.

DOE-74 [Deleted—Reserved].

DOE-75 Call Detail Records.

DOE-76 [Deleted—Reserved].

DOE-77 Physical Fitness Test Records.

DOE-78 [Deleted—Reserved].

DOE-79 [Deleted—Reserved].

DOE-80 [Deleted—Reserved].

DOE-81 Counterintelligence Administrative and Analytical Records and Reports.

DOE-82 Grant and Contract Records for Research Projects, Science Education, and Related Activities.

DOE-83 Allegations Based Inspections Files of the Office of the Inspector General.

DOE-84 Counterintelligence Investigative Records.

DOE-85 [Reserved].

DOE-86 Human Radiation Experiments Records.

DOE-87 [Deleted—Reserved].

DOE-88 Epidemiologic and Other Health Studies, Surveys, and Surveillances.

Text of Systems of Records

DOE-1.

SYSTEM NAME:

Grievance Records.

SECURITY CLASSIFICATION:

Unclassified.

SYSTEM LOCATION:

U.S. Department of Energy, Headquarters, 1000 Independence Avenue, SW., Washington, DC 20585.

U.S. Department of Energy, Alaska Power Administration, Federal Records Center, San Point Way, NE., Seattle, WA 98115.

U.S. Department of Energy, NNSA Service Center Albuquerque, PO Box 5400, Albuquerque, NM 87185-5400.

U.S. Department of Energy, Bonneville Power Administration, PO Box 3621, Portland, OR 97208.

U.S. Department of Energy, Chicago Operations Office, 9800 South Cass Avenue, Argonne, IL 60439.

U.S. Department of Energy, Grand Forks Energy Technology Center, PO Box 8213, University Station, Grand Forks, ND 58201.

U.S. Department of Energy, Idaho Operations Office, 850 Energy Drive, Idaho Falls, ID 83401.

U.S. Department of Energy, Laramie Energy Technology Center, PO Box 3395, University Station, Laramie, WY 82070.

U.S. Department of Energy, National Energy Technology Laboratory (Morgantown), PO Box 880, Morgantown, WV 26505.

U.S. Department of Energy, National Energy Technology Laboratory (Pittsburgh), PO Box 10940, Pittsburgh, PA 15122.

U.S. Department of Energy, National Petroleum Technology Office, William Center Tower One, 1 West Third Street, Suite 1400, Tulsa, OK 74103.

U.S. Department of Energy, NNSA Service Center Nevada, PO Box 98518, Las Vegas, NV 89193-8518.

U.S. Department of Energy, Oak Ridge Operations Office, PO Box E, Oak Ridge, TN 37830.

U.S. Department of Energy, NNSA Service Center Oakland, 1301 Clay Street, Oakland, CA 94612.

U.S. Department of Energy, Ohio Field Office, PO Box 3020, Miamisburg, OH 45342.

U.S. Department of Energy, Pittsburgh Naval Reactors, PO Box 109, Pittsburgh, PA 15122.

U.S. Department of Energy, Richland Operations Office, PO Box 550, Richland, WA 99352.

U.S. Department of Energy, Rocky Flats Field Office, 10808 Highway 93, Unit A, Golden, CO 90403-8200.

U.S. Department of Energy, Savannah River Operations Office, PO Box A, Aiken, SC 29801.

U.S. Department of Energy, Schenectady Naval Reactors Office, PO Box 1069, Schenectady, NY 12301.

U.S. Department of Energy, Southeastern Power Administration, 1166 Athens Tech Road, Elberton GA 30635-4578.

U.S. Department of Energy, Southwestern Power Administration, Williams Tower One, One West Third Street, Tulsa, OK 74103.

U.S. Department of Energy, Western Area Power Administration, PO Box 3402, Golden, CO 80401.

U.S. Department of Energy, Office of Repository Development, PO Box 364629, North Las Vegas, NV 89036-8629.

CATEGORIES OF INDIVIDUALS COVERED BY THE SYSTEM:

Current and former Department of Energy (DOE) employees including National Nuclear Security Administration (NNSA) employees, consultants, board members, and applicants.

CATEGORIES OF RECORDS IN THE SYSTEM:

Grievances; names; social security numbers; work and home addresses; work and home telephone numbers; job titles, series, and grade levels; organization; supervisors' names and telephone numbers; copies of employee records, such as personnel actions, performance appraisals, pay and leave records, and security clearance documents; management reports; witness statements; affidavits; checklists; notes; and relevant correspondence.

AUTHORITY FOR MAINTENANCE OF THE SYSTEM:

42 U.S.C. 7101 et seq.; 50 U.S.C. 2401 et seq.; 5 U.S.C. 7121, and 5 CFR part 771.

PURPOSE(S):

The records maintained in the system pertain to grievances subject to the negotiated grievance process and the agency's administrative grievance process. The records in this system will be used by management officials in the resolution of employee concerns about working conditions, administration of the agency's grievance process, employee-supervisor relations, work processes, or other similar issues.

ROUTINE USES OF RECORDS MAINTAINED IN THE SYSTEM, INCLUDING CATEGORIES OF USERS AND THE PURPOSES OF SUCH USES:

1. A record from this system may be disclosed as a routine use to union officials acting in their official capacity as a representative of the grievant or affected employees under 5 U.S.C. chapter 71.

2. A record from this system may be disclosed as a routine use to a member of Congress submitting a request involving a constituent when the constituent has requested assistance from the member concerning the subject matter of the record. The member of Congress must provide a copy of the constituent's request for assistance.

3. A record from this system may be disclosed as a routine use to an appropriate Federal, State, or local agency that is authorized to review and resolve the issue(s) raised in the grievance.

4. A record from this system may be disclosed as a routine use for the purpose of an investigation, settlement of claims, or the preparation and conduct of litigation to (1) a person representing the Department or assisting in such representation; (2) others involved in the matter, their representatives and persons assisting such persons; and (3) witnesses, potential witnesses, their representatives and assistants, and any other persons possessing information pertaining to the matter when it is necessary to obtain information or testimony relevant to the matter.

5. A record from this system may be disclosed as a routine use to a contractor of the Department who is authorized to review and resolve the issue(s) raised in the grievance, including a mediator or arbitrator in the performance of their duties. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as paper records and electronic media.

RETRIEVABILLITY:

Records may be retrieved by the name of the grievant or complainant or other personal identifier, such as social security number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director of Human Resources Management, U.S. Department of Energy, 1000 Independence Avenue, SW., Washington, DC 20585.

Field Offices: The Human Resources Directors of the “System Locations” listed above are the system managers for their respective portions of this system.

NOTIFICATION PROCEDURES:

In accordance with the DOE regulation implementing the Privacy Act, at Title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, the request should be directed to the Privacy Act Officer at the Operations Office that has jurisdiction over that office or facility. The request should include the requester's complete name, time period for which records are sought, and the office locations(s) where the requester believes the records are located.

RECORDS ACCESS PROCEDURES:

Same as Notification Procedures above. Records generally are kept at locations where the work is performed. In accordance with the DOE Privacy Act regulation, proper identification is required before a request is processed.

CONTESTING RECORD PROCEDURES:

Same as Notification Procedures above.

RECORD SOURCE CATEGORIES:

The grievant or complainant, applicable management officials, program office records, congressional offices, and fact finders' notes and reports.

SYSTEM EXEMPTED FROM CERTAIN PROVISIONS OF THE ACT:

None.

DOE-2

SYSTEM NAME:

DOE—Personnel Supervisor Maintained Personnel Records.

SECURITY CLASSIFICATION:

Unclassified.

SYSTEM LOCATION:

U.S. Department of Energy, Headquarters, 1000 Independence Avenue, SW., Washington, DC 20585.

U.S. Department of Energy, Alaska Power Administration, Federal Records Center, San Point Way, NE., Seattle, WA 98115.

U.S. Department of Energy, NNSA Service Center Albuquerque, PO Box 5400, Albuquerque, NM 87185-5400.

U.S. Department of Energy, Bonneville Power Administration, PO Box 3621, Portland, OR 97208.

U.S. Department of Energy, Chicago Operations Office, 9800 South Cass Avenue, Argonne, IL 60439.

U.S. Department of Energy, Grand Forks Energy Technology Center, PO Box 8213, University Station, Grand Forks, ND 58201.

U.S. Department of Energy, Idaho Operations Office, 850 Energy Drive, Idaho Falls, ID 83401.

U.S. Department of Energy, Laramie Energy Technology Center, PO Box 3395, University Station, Laramie, WY 82070.

U.S. Department of Energy, National Energy Technology Laboratory (Morgantown), PO Box 880, Morgantown, WV 26505.

U.S. Department of Energy, National Energy Technology Laboratory (Pittsburgh), PO Box 10940, Pittsburgh, PA 15236-0940.

U.S. Department of Energy, National Petroleum Technology Office, William Center Tower One, 1 West Third Street, Suite 1400, Tulsa, OK 74103.

U.S. Department of Energy, NNSA Service Center Nevada, PO Box 98518, Las Vegas, NV 89193-8518.

U.S. Department of Energy, Oak Ridge Operations Office, PO Box E, Oak Ridge, TN 37830.

U.S. Department of Energy, NNSA Service Center Oakland, 1301 Clay Street, Oakland, CA 94612.

U.S. Department of Energy, Ohio Field Office, PO Box 3020, Miamisburg, OH 45342.

U.S. Department of Energy, Pittsburgh Naval Reactors, PO Box 109, Pittsburgh, PA 15122.

U.S. Department of Energy, Richland Operations Office, PO Box 550, Richland, WA 99352.

U.S. Department of Energy, Rocky Flats Field Office, 10808 Highway 93, Unit A, Golden, CO 90403-8200.

U.S. Department of Energy, Savannah River Operations Office, PO Box A, Aiken, SC 29801.

U.S. Department of Energy, Schenectady Naval Reactors Office, PO Box 1069, Schenectady, NY 12301.

U.S. Department of Energy, Southeastern Power Administration, 1166 Athens Tech Road, Elberton, GA 30635-4578.

U.S. Department of Energy, Southwestern Power Administration, Williams Tower One, One West Third Street, Tulsa, OK 74103.

U.S. Department of Energy, Western Area Power Administration, PO Box 3402, Golden, CO 80401.

U.S. Department of Energy, Office of Repository Development, PO Box 364629, North Las Vegas, NV 89036-8629.

CATEGORIES OF INDIVIDUALS COVERED BY THE SYSTEM:

Current and former Department of Energy (DOE) employees including National Nuclear Security Administration (NNSA) employees, who have departed within the last year, assigned military or detailed personnel, and applicants for employment.

CATEGORIES OF RECORDS IN THE SYSTEM:

Copies and summaries of employment history; SF-171; job description; education; address; next of kin; home and work telephone numbers; date of birth; awards and commendations received; participation in professional or community activities; training; earnings and leave data; travel actions; certification or qualification examinations; injury reports; appraisals; copy of ADP-produced Form 702; Form 50; assignment records; security infraction notices; records of supervisor-employee discussions; supervisor observations; reprimands; admonitions; adverse actions; commendations; contingency planning data; security clearance status; and Government property in employee possession.

AUTHORITY FOR MAINTENANCE OF THE SYSTEM:

42 U.S.C. 7101 et seq. and 50 U.S.C. 2401 et seq.

PURPOSE(S):

The records are maintained and used by DOE to maintain a file of personnel information that would allow DOE managers to make informed personnel and management decisions concerning employees.

ROUTINE USES OF RECORDS MAINTAINED IN THE SYSTEM, INCLUDING CATEGORIES OF USERS AND THE PURPOSES OF SUCH USES:

1. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

2. A record from the system may be disclosed as a routine use to DOE contractors in performance of their contracts, and their officers and employees who have a need for the record in the performance of their duties. Those provided information under this routine use are subject to the same limitations applicable to Department officers and employees under the Privacy Act.

3. A record from this system may be disclosed as a routine use to a member of Congress submitting a request involving the constituent when the constituent has requested assistance from the member concerning the subject matter of the record. The member of Congress must provide a copy of the constituent's request for assistance.

POLICIES AND PRACTICES FOR STORING, RETRIEVING, ACCESSING, RETAINING, AND DISPOSING OF RECORDS IN THE SYSTEM:

STORAGE:

Records may be stored as paper records and electronic media.

RETRIEVABILITY:

Records may be retrieved by name and social security number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters and Field Offices: The immediate supervisor of the subject of the record(s).

NOTIFICATION PROCEDURES:

In accordance with the DOE regulation implementing the Privacy Act, at title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with DOE Privacy Act regulation, proper identification is required before a request is processed.

CONTESTING RECORD PROCEDURES:

Same as Notification Procedures above.

RECORD SOURCE CATEGORIES:

The subject employee, employee's supervisor(s), personnel action documents, payroll documents, and personnel security documents.

SYSTEM EXEMPTED FROM CERTAIN PROVISION OF THE ACT:

None.

DOE-3

SYSTEM NAME:

Employee Concerns Program Records.

SECURITY CLASSIFICATION:

Unclassified.

SYSTEM LOCATION:

U.S. Department of Energy, Headquarters, 1000 Independence Avenue, SW., Washington, DC 20585.

U.S. Department of Energy, NNSA Service Center Albuquerque, PO Box 5400, Albuquerque, NM 87185-5400.

U.S. Department of Energy, Chicago Operation Office, 9800 South Cass Avenue, Argonne, IL 60439.

U.S. Department of Energy, Idaho Operations Office, 850 Energy Drive, Idaho Falls, ID 83401.

U.S. Department of Energy, NNSA Service Center Nevada, PO Box 98518, Las Vegas, NV 89193-8518.

U.S. Department of Energy, Oak Ridge Operations Office, PO Box 200 Administration Road, Oak Ridge, TN 37831.

U.S. Department of Energy, NNSA Service Center Oakland, 1301 Clay Street, Oakland, CA 94612-5208.

U.S. Department of Energy, Ohio Field Office, 1 Mound Road, Miamisburg, OH 45342.

U.S. Department of Energy, Office of River Protection, PO Box 550, MS A1-61, Richland, WA 99352.

U.S. Department of Energy, Pittsburgh Naval Reactors Office, PO Box 109, West Mifflin, PA 151122-0109.

U.S. Department of Energy, Rocky Flats Field Office, 10808 Highway 93 Unite A, Golden, CO 80402.

U.S. Department of Energy, Richland Operations Office, PO Box 550, Richland, WA 99352.

U.S. Department of Energy, Savannah River Operations Office, Road 1A, Aiken, SC 29802.

U.S. Department of Energy, Southeastern Power Administration, 1166 Athens Tech Road, Elberton, GA 30635-4578.

U.S. Department of Energy, Southwestern Power Administration, Williams Tower One, One West Third Street, Tulsa, OK 74103.

U.S. Department of Energy, Western Area Power Administration, PO Box 3402, Golden, CO 80401.

U.S. Department of Energy, Office of Repository Development, PO Box 364629, North Las Vegas, NV 89036-8629.

CATEGORIES OF INDIVIDUALS COVERED BY THE SYSTEM:

Current and former Department of Energy (DOE) employees and DOE contractor and subcontractor employees who file concerns or complaints with the DOE Employee Concerns Program offices.

CATEGORIES OF RECORDS IN THE SYSTEM:

Employee concerns, informal whistleblower reprisal complaints, names, social security numbers, work and home addresses and telephone numbers, job titles, series, grade or pay levels; organization; supervisors names and telephone numbers; copies of employee records such as personnel actions, performance appraisals, pay and leave records and security clearance documents; management reports; witness statements; affidavits; checklists; notes; and relevant correspondence.

AUTHORITY FOR MAINTENANCE OF THE SYSTEM:

42 U.S.C. 7101 et seq.; 50 U.S.C. 2401 et seq.; 42 U.S.C. 2201(p); 42 U.S.C. 7254; 42 U.S.C. 5801(a).

RETRIEVABILITY:

Records may be retrieved by name and social security number.

PURPOSE(S):

The records are maintained and used by the Department to document and resolve employee concerns about environmental, safety and health issues, employee-supervisor relations, work processes and practices, and other work-related issues.

ROUTINE USES OF RECORDS MAINTAINED IN THE SYSTEM, INCLUDING CATEGORIES OF USERS AND THE PURPOSES OF SUCH USES:

1. A record from this system may be disclosed as a routine use to union officials acting in their official capacity as a representative of the grievant or affected employees under 5 U.S.C. chapter 71.

2. A record from this system may be disclosed as a routine use to a member of Congress submitting a request involving a constituent when the constituent has requested assistance from the member of Congress with respect to the subject matter of the record. The member of Congress must provide a copy of the constituent's request for assistance.

3. A record from the system may be disclosed as a routine use to the appropriate local, State or Federal agency when records alone or in conjunction with other information, indicates a violation or potential violation of law whether civil, criminal, or regulatory in nature, and whether arising by general statute or particular program pursuant thereto.

4. A record from this system may be disclosed as a routine use for the purpose of an investigation, settlement of claims, or the preparation and conduct of litigation to (1) a person representing the Department or assisting in such representation; (2) others involved in the matter, their representatives and persons assisting such persons; and (3) witnesses, potential witnesses, their representatives and assistants, and any other persons possessing information pertaining to the matter when it is necessary to obtain information or testimony relevant to the matter.

5. A record from this system may be disclosed as a routine use to DOE contractors in performance of their contracts, and their officers and employees who have a need for the record in the performance of their duties. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as paper records and electronic media.

RETRIEVABILITY:

Records may be retrieved by the name of the concerned employee or complainant or other personal identifier, such as social security number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE records schedules that have been approved by NARA.

SYSTEM MANAGER(S) AND ADDRESS:

Headquarters: Director, Office of Employee Concerns, U.S. Department of Energy, 1000 Independence Avenue, SW., Washington, DC 20585. Field Offices: The Director of the Office of Employee Concerns at the “System Locations” listed above are the system managers for their respective portions of this system.

NOTIFICATION PROCEDURES:

In accordance with the DOE regulation implementing the Privacy Act, at title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records generally are kept at locations where the work is performed. In accordance with the DOE Privacy Act regulation, proper identification is required before a request is processed.

CONTESTING RECORD PROCEDURES:

Same as Notification Procedures above.

RECORD SOURCE CATEGORIES:

The concerned employee or complainant; applicable management officials; program office records; and congressional offices.

SYSTEM EXEMPTED FROM CERTAIN PROVISIONS OF THE ACT:

The system is exempt under subsections 552a(k)(1), (2) and (5) of the Privacy Act to the extent that information within the system meets the criteria of those subsections of the Act. Such information has been exempted from the provisions of subsections (c)(3); 5 U.S.C. 552a(d); 5 U.S.C. 552a(e)(1) of the Act; see the Department's Privacy Act regulation at 10 CFR part 1008.

DOE-4

SYSTEM NAME:

FORM EIA-457 Survey Reports (Residential Energy Consumption Survey (RECS)).

SECURITY CLASSIFICATION:

Unclassified.

SYSTEM LOCATION:

U.S. Department of Energy, Energy Information Administration (EIA), 1000 Independence Avenue, SW., Washington, DC 20585.

Roper Starch Worldwide, Inc., Response Analysis Division, 1060 State Road, Princeton, NJ 08540.

CATEGORIES OF INDIVIDUALS COVERED BY THE SYSTEM:

Persons responding to the FORM EIA-457 (Residential Energy Consumption Survey (RECS)) or a sample thereof.

CATEGORIES OF RECORDS IN THE SYSTEM:

Name, age, gender, race, ethnicity, home address, home telephone number, income, family size and composition, characteristics of housing unit, household vehicles, name and address of landlord, name and address of fuel suppliers, and records of energy purchases.

AUTHORITY FOR MAINTENANCE OF THE SYSTEM:

42 U.S.C. 7101 et seq. and 50 U.S.C. 2401 et seq.

PURPOSE(S):

The information is collected and maintained by the DOE to measure the levels of energy consumption used by homeowners and the cost of heating fuel. The information also is used for monitoring, modeling and making policy decisions regarding energy use in U.S. households.

ROUTINE USES OF RECORDS MAINTAINED IN THE SYSTEM, INCLUDING CATEGORIES OF USERS AND THE PURPOSES OF SUCH USES:

A record from the system may be disclosed as a routine use to DOE contractors in performance of their contracts, and their officers and employees who have a need for the record in the performance of their duties. Those provided information under this routine use are subject to the same limitations applicable to DOE officers and employees under the Privacy Act.

POLICIES AND PRACTICES FOR STORING, RETRIEVING, ACCESSING, RETAINING, AND DISPOSING OF RECORDS IN THE SYSTEM:

STORAGE:

Records may be stored as paper records and electronic media.

RETRIEVABILITY:

Records may be retrieved by name and identification number.

SAFEGUARDS:

Paper records are maintained in locked cabinets and desks. Electronic records are controlled through established DOE computer center procedures (personnel screening and physical security), and they are password protected. Passwords are known only by the system manager. Access is limited to those whose official duties require access to the records.

RENTENTION AND DISPOSAL:

Records retention and disposal authorities are contained in the National Archives and Records Administration (NARA) General Records Schedule and DOE record schedules that have been approved by NARA.

SYSTEM MANAGER(S) AND ADDRESS:

Headquarters: Administrator, Energy Information Administration, U.S. Department of Energy, 1000 Independence Avenue, SW., Washington, DC 20585.

NOTIFICATION PROCEDURES:

In accordance with the DOE regulation implementing the Privacy Act, at title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The subject individual and energy supply companies.

SYSTEM EXEMPTED FROM CERTAIN PROVISIONS OF THE ACT:

None.

DOE-5

SYSTEM NAME:

Personnel Records of Former Contractor Employees.

SECURITY CLASSIFICATION:

Unclassified.

SYSTEM LOCATION:

U.S. Department of Energy, Headquarters, 1000 Independence Avenue, SW., Washington, DC 20585.

U.S. Department of Energy, NNSA Service Center Albuquerque, PO Box 5400, Albuquerque, NM 87185-5400.

U.S. Department of Energy, Chicago Operations Office, 9800 South Cass Avenue, Argonne, IL 60439.

U.S. Department of Energy, Grand Junction Office, 2597 B 3/4/ Road, Grand Junction, CO 81503.

U.S. Department of Energy, Idaho Operations Office, 850 Energy Drive, Idaho Falls, ID 83401.

U.S. Department of Energy, Naval Petroleum Reserves in California, PO Box 11, Tupman, CA 93276.

U.S. Department of Energy, Naval Petroleum and Oil Shale Reserves, 907 North Poplar, Suite 150, Casper, WY 82601.

U.S. Department of Energy, NNSA Service Center Nevada, PO Box 98518, Las Vegas, NV 89193-8518.

U.S. Department of Energy, NNSA Service Center Oakland, 1301 Clay Street, Oakland, CA 94612-5208.

U.S. Department of Energy, Ohio Field Office, PO Box 3020, Miamisburg, OH 45343-3020.

U.S. Department of Energy, Pittsburgh Naval Reactors, PO Box 109, West Mifflin, PA 15122-0109.

U.S. Department of Energy, Richland Operations Office, 825 Jadwin Avenue, PO Box 550 Richland, WA 99352.

U.S. Department of Energy, Rocky Flats Field Office, 10808 Highway 93, Unit A, Golden, CO 80403-8200.

U.S. Department of Energy, Savannah River Operations Office, PO Box A, Aiken, SC 29801.

U.S. Department of Energy, Schenectady Naval Reactors Office, PO Box 1069, Schenectady, NY 12301.

U.S. Department of Energy, Strategic Petroleum Reserve Project Office, 900 Commerce Road East, New Orleans, LA 70123.

CATEGORIES OF INDIVIDUALS COVERED BY THE SYSTEM:

Former employees of companies that currently have or have had a contract with the Department of Energy (DOE).

CATEGORIES OF RECORDS IN THE SYSTEM:

Name, employment history, earnings, medical history, and other related information.

AUTHORITY FOR MAINTENANCE OF THE SYSTEM:

42 U.S.C. 7101 et seq., 50 U.S.C. 2401 et seq. and the Memorandum of Understanding between the Department of Energy and the Department of Health and Human Services, 56 FR 9701, March 7, 1991.

PURPOSE(S):

The records are maintained and used by the DOE to verify employment of contractor employees who have worked at a DOE facility or for a prime management and operating contractor for the DOE to settle or pay claims associated their employment.

ROUTINE USES OF RECORDS MAINTAINED IN THE SYSTEM, INCLUDING CATEGORIES OF USERS AND THE PURPOSES OF SUCH USES:

1. A record from the system may be disclosed as a routine use to the appropriate local, State or Federal agency when records alone or in conjunction with other information, indicates a violation or potential violation of law whether civil, criminal, or regulatory in nature, and whether arising by general statute or particular program pursuant thereto.

2. A record from the system may be disclosed as a routine use to a Federal, State, or local agency to obtain information relevant to a Departmental decision concerning the hiring or retention of an employee, the issuance of a security clearance, the reporting of an investigation of an employee, the letting of a contract, or the issuance of a license, grant, or other benefit. The Department must deem such disclosure to be compatible with the purpose for which the Department collected the information.

3. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; and (3) witness, potential witness, or their representatives and assistants, and any person possesses information pertaining to the matter when it is necessary to obtain information or testimony relevant to the matter.

4. A record from this system may be disclosed as a routine use in court or administrative proceedings to the tribunals, counsel, other parties, witnesses, and the public (in publicly available pleadings, filings or discussion in open court) when such disclosure: (1) Is relevant to, and necessary for, the proceeding; and (2) compatible with the purpose for which the Department collected the records; and (3) the proceedings involve:

(a) The Department, its predecessor agencies, current or former contractor of the Department, or other United States Government agencies and their components, or

(b) A current or former employee of the Department and its predecessor agencies, current or former contractors of the Department, or other United States Government agencies and their components, who is acting in an official capacity or in any individual capacity where the Department or other United States Government agency has agreed to represent the employee.

5. A record from the system may be disclosed as a routine use to DOE contractors in performance of their contracts, and their officers and employees who have a need for the record in the performance of their duties. Those provided information under this routine use are subject to the same limitations applicable to DOE officers and employees under the Privacy Act.

6. A record from the system of records may be disclosed to a member of Congress submitting a request involving the constituent when the constituent has requested assistance from the member concerning the subject matter of the record. The member of Congress must provide a copy of the constituent's request for assistance.

7. A record from the system of records may be disclosed to contractor personnel, grantees, and cooperative agreement holders of components of the Department of Health and Human Services, including the National Institute for Occupational Safety and Health and the National Center for Environmental Health of the Centers for Disease Control and Prevention, and the Agency for Toxic Substances and Disease Registry pursuant to Memoranda of Understanding between the Department and the Department of Health and Human Services or its components.

8. A record from the system may be disclosed to contractors, grantees, participants in cooperative agreements, collaborating researchers, or their employees, in performance of health studies or related health or environmental duties pursuant to their contracts, grants, and cooperating or collaborating research agreements. In order to perform such studies, the Department, its contractors, grantees, participants in cooperative agreements, and collaborating researchers may disclose a record to: Federal, State and local health and medical agencies or authorities; to subcontractors in order to determine a subject's vital status or cause of death; to health care providers to verify a diagnosis or cause of death; or to third parties to obtain current addresses for participants in health-related studies, surveys, and surveillance. All recipients of such records are required to comply with the Privacy Act, to follow prescribed measures to protect personal privacy, and to disclose or use personally identifiable information only for the above described research purposes.

9. A record from this system may be disclosed to members of DOE advisory committees, the Department of Health and Human Services Advisory Committee on Projects Related to Department of Energy Facilities, and to designated employees of Federal, State, or local government or government-sponsored entities authorized to provide advice to the DOE concerning health, safety, or environmental issues. All recipients of such records are required to comply with the Privacy Act, to follow prescribed measures to protect personal privacy, and to disclose or use personally identifiable information only for the purpose of providing advice to the DOE or to the Department of Health and Human Services.

10. A record from this system may be disclosed to Department of Health and Human Services, their contractors, grantees, and cooperative agreement holders, pursuant to the Energy Employees Occupational Illness Compensation Program Act of 2000, to estimate radiation doses and other workplace exposures received by Department of Energy and contractor employees. Those provided information under this routine use are subject to the same limitations applicable to Department officers and employees under the Privacy Act.

POLICIES AND PRACTICES FOR STORING, RETRIEVING, ACCESSING, RETAINING, AND DISPOSING OF RECORDS IN THE SYSTEM:

STORAGE:

Records are stored as paper records.

RETRIEVABILITY:

Records may be retrieved by name.

SAFEGUARDS:

Paper records are maintained in locked cabinets and desks. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Contractor Human Resource Management, U.S. Department of Energy, 1000 Independence Avenue, SW., Washington, DC 20585.

Field Offices: The Managers of the “System Locations” listed above are the system managers for their respective portions of the system.

NOTIFICATION PROCEDURES:

In accordance with the DOE regulation implementing the Privacy Act, at title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The employer of the subject individual.

SYSTEM EXEMPTED FROM CERTAIN PROVISIONS OF THE ACT:

None.

DOE-6

SYSTEM NAME:

EIA Customer Data Base.

SECURITY CLASSIFICATION:

Unclassified.

SYSTEM LOCATION:

U.S. Department of Energy (DOE), Energy Information Administration (EIA), 1000 Independence Avenue, SW., Washington, DC 20585.

CATEGORIES OF INDIVIDUALS COVERED BY THE SYSTEM

Persons requesting energy related information.

CATEGORIES OF RECORDS COVERED BY THE SYSTEM:

The following information may be maintained in the system: EIA contact name, date of contact, contact method, address, e-mail address, telephone number, fax number, description of information or services requested, description of services, and energy interests.

AUTHORITY FOR MAINTENANCE OF THE SYSTEM:

42 U.S.C. 7101 et seq. and 50 U.S.C. 2401 et seq.

PURPOSE(S):

The records are used and maintained by the DOE to analyze, evaluate and better serve EIA customers, their needs, and their interests.

ROUTINE USES OF RECORDS MAINTAINED IN THE SYSTEM, INCLUDING CATEGORIES OF USERS AND THE PURPOSES OF SUCH USES:

A record from the system may be disclosed as a routine use to DOE contractors in performance of their contracts, and their officers and employees who have a need for the record in the performance of their duties. Those provided information under this routine use are subject to the same limitations applicable to DOE officers and employees under the Privacy Act.

POLICIES AND PRACTICES FOR STORING, RETRIEVING, ACCESSING, RETAINING, AND DISPOSING OF RECORDS IN THE SYSTEM:

STORAGE:

Records may be stored as paper records and electronic media.

RETRIEVABILITY:

Records may be retrieved by name, e-mail address, or telephone number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Administrator, Energy Information Administration, U.S. Department of Energy, 1000 Independence Avenue, SW., Washington, DC 20585.

NOTIFICATION PROCEDURES:

In accordance with the DOE regulation implementing the Privacy Act, at title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The subject individual.

SYSTEM EXEMPTED FROM CERTAIN PROVISIONS OF THE ACT:

None.

DOE-7

SYSTEM NAME:

Whistleblower Investigation, Hearings, and Appeals Records.

SECURITY CLASSIFICATION:

Classified and unclassified.

SYSTEM LOCATION:

These records are maintained at the Office of Hearings and Appeals, U.S. Department of Energy, 1000 Independence Avenue, SW., Washington, DC 20585-0107.

CATEGORIES OF INDIVIDUALS COVERED BY THE SYSTEM:

Current and former employees of the Department of Energy (DOE) including National Nuclear Security Administration (NNSA) employees, contractors and subcontractors whose complaints are received at the Office of Hearings and Appeals pursuant to title 10, Code of Federal Regulations, part 708, and pursuant to Section 3164 of the National Defense Authorization Act for FY 2000, Pub. L. 106-65, codified at 42 U.S.C. 7239.

CATEGORIES OF RECORDS IN THE SYSTEM:

Whistleblower reprisal complaints; names, social security numbers, work and home addresses and telephone numbers, job titles, series, grade or pay levels; organization information; supervisors' names and telephone numbers; copies of employee records such as personnel actions, performance appraisals, pay and leave records, and security clearance documents; management reports; witness statements; affidavits; checklists; notes; reports of investigation; and relevant correspondence.

AUTHORITY FOR MAINTENANCE OF THE SYSTEM:

42 U.S.C. 7101 et seq.; 50 U.S.C. 2401 et seq.; 42 U.S.C. 2201(b), (c), (I), (p), 5814, 5815, 7251, 7254, 7255, 7257; 42 U.S.C. 7239.

PURPOSE(S):

The records are maintained and used by the DOE to document and resolve complaints made by employees of DOE and its contractors and subcontractors who allege retaliation by their employer for disclosure of information concerning danger to public or worker health or safety, substantial violations of law, or gross mismanagement; for participation in Congressional proceedings; or for refusal to participate in dangerous activities.

ROUTINE USES OF RECORDS MAINTAINED IN THE SYSTEM, INCLUDING CATEGORIES OF USERS AND PURPOSES OF SUCH USES:

1. A record from this system may be disclosed to any source from which additional information is requested when necessary to obtain information relevant to the processing of a whistleblower complaint by the Office of Hearings and Appeals. The source will be provided such information from the system of records only to the extent necessary to identify the individual, inform the source of the purpose(s) of the request, and to identify the type of information requested.

2. A record from this system may be disclosed as a routine use to the appropriate local, State or Federal agency in the event that a record within this system of records, alone or in conjunction with other information, indicates a violation or potential violation of law whether civil, criminal, or regulatory in nature, and whether arising by general statute of particular program pursuant thereto.

3. A record from this system may be disclosed as a routine use for the purpose of an investigation, settlement of claims, or the preparation and conduct of litigation to (1) persons representing the Department or assisting in such representation; (2) others involved in the matter, their representatives and assistants; and any other person possessing information pertaining to the matter, when it is necessary to obtain information or testimony relevant to the matter.

4. A record from this system may be disclosed as a routine use in court or administrative proceedings to the tribunals, counsel, other parties, witnesses, and the public (in publicly available pleadings, filings, or discussion in open court) when such disclosure (1) is relevant to, and necessary for, the proceeding, and (2) is compatible with the purpose for which the Department collected the record; and (3) the proceeding involves:

(a) The Department, its predecessor agencies, current or former contractor of the Department, or other United States Government agencies and their components, or

(b) A current or former employee of the Department and its predecessor agencies, current or former contractors of the Department, or United States Government agencies and their components, who is acting in an official capacity, or in any individual capacity where the Department or other United States Government agency has agreed to represent the employee.

5. A record from this system may be disclosed as a routine use to DOE contractors in performance of their contracts, and their officers and employees who have a need for the record in the performance of their duties. Those provided information under this routine use are subject to the same limitations applicable to DOE officers and employees under the Privacy Act.

6. A record from this system may be disclosed as a routine use to a member of Congress submitting a request involving a constituent when the constituent has requested assistance from the member with respect to the subject matter of the record. The member of Congress must provide a copy of the constituent's request for assistance.

7. Decisions, opinions, reports of investigation, orders and other determinations signed by investigators, hearing officers or the Director of the Office of Hearings and Appeals that are records contained in this system of records may be published for the general public, for precedential or educational purposes, in paper format and electronically on the Office of Hearings and Appeals' Web site, the current address of which is http://www.oha.doe.gov.

POLICIES AND PRACTICES FOR STORING, RETRIEVING, ACCESSING, RETAINING, AND DISPOSING OF RECORDS IN THE SYSTEM:

STORAGE:

Records may be stored as paper records and electronic media.

RETRIEVABILITY:

Records may be retrieved by complainant's name or other personal identifier or case number.

SAFEGUARDS:

Paper records are maintained in locked cabinets and desks. Electronic records are controlled through established DOE computer center procedures (personnel screening and physical security), and they are password protected. Passwords are known only to the system manager. Access is limited to those whose official duties require access to the records.

RETENTION AND DISPOSAL:

Records retention and disposal authorities are contained in the National Archives and Records Administration (NARA) General Records Schedule and DOE records schedules that have been approved by NARA.

SYSTEM MANAGER(S) AND ADDRESS:

Director, Office of Hearings and Appeals, U.S. Department of Energy, 1000 Independence Avenue, SW., Washington, DC 20585-0107.

NOTIFICATION PROCEDURES:

In accordance with the DOE regulation implementing the Privacy Act, at title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The complainant; individuals and organizations that have pertinent knowledge about the subject of the complaint; those authorized by the complainant to furnish information; confidential informants; and Congressional offices.

SYSTEM EXEMPTED FROM CERTAIN PROVISIONS OF THE ACT:

The system is exempt under subsections (k)(1), (2) and (5) of the Privacy Act to the extent that information within the system meets the criteria of those subsections of the Act. Such information has been exempted from the provisions of subsections (c)(3); 5 U.S.C. 552a (d); 5 U.S.C. 552a, (d) and (e)(1) of the Act; see the DOE Privacy Act regulation at title 10, Code Federal Regulations, part 1008.

DOE-8

SYSTEM NAME:

Intergovernmental Personnel Act (IPA) Agreements.

SECURITY CLASSIFICATION:

Unclassified.

SYSTEM LOCATION:

U.S. Department of Energy, Headquarters, Forrestal Building, 1000 Independence Avenue, SW., Washington, DC 20585.

U.S. Department of Energy, Headquarters, Germantown, 19901 Germantown Road, Germantown, MD 20585.

U.S. Department of Energy, Alaska Power Administration, Federal Records Center, San Point Way, NE., Seattle, WA 98115.

U.S. Department of Energy, NNSA Service Center Albuquerque, PO Box 5400, Albuquerque, NM 87185-5400.

U.S. Department of Energy, Bonneville Power Administration, PO Box 3621, Portland, OR 97208.

U.S. Department of Energy, Chicago Operations Office, 9800 South Cass Avenue, Argonne, IL 60439.

U.S. Department of Energy, Golden Field Office, 1617 Cole Boulevard, Golden, CO 80401.

U.S. Department of Energy, Idaho Operations Office, 850 Energy Drive, Idaho Falls, ID 83401.

U.S. Department of Energy, National Energy Technology Laboratory (Morgantown), PO Box 880, Morgantown, WV 26507.

U.S. Department of Energy, National Energy Technology Laboratory (Pittsburgh), PO Box 10940, Pittsburgh, PA 15236-0940.

U. S. Department of Energy, National Petroleum Technology Office, William Center Tower One, 1 West Third Street, Suite 1400, Tulsa, OK 74103.

U.S. Department of Energy, Office of Naval Reactors, Crystal City, VA 22202.

U.S. Department of Energy, NNSA Service Center Nevada, PO Box 98518, Las Vegas, NV 89193-8518.

U.S. Department of Energy, Oak Ridge Operations Office, PO Box 2001, Oak Ridge, TN 37831.

U.S. Department of Energy, NNSA Service Center Oakland, 1301 Clay Street, Oakland, CA 94612-5208.

U.S. Department of Energy, Ohio Field Office, PO Box 3020, Miamisburg, OH 45343-3020.

U.S. Department of Energy, Richland Operations Office, 825 Jadwin Avenue, PO Box 550, Richland, WA 99352.

U.S. Department of Energy, Rocky Flats Field Office, 10808 Highway 93, Unit A, Golden, CO 80403-8200.

U.S. Department of Energy, Savannah River Operations Office, PO Box A, Aiken, SC 29801.

U.S. Department of Energy, Schenectady Naval Reactors Office, PO Box 1069, Schenectady, NY 12301.

U.S. Department of Energy, Southeastern Power Administration, 1166 Athens Tech Road, Elberton, GA 30635-4578.

U.S. Department of Energy, Southwestern Power Administration, Williams Tower One, One West Third Street, Tulsa, OK 74103.

U.S. Department of Energy, Strategic Petroleum Reserve Project Office, 900 Commerce Road East, New Orleans, LA 70123.

U.S. Department of Energy, Western Area Power Administration, PO Box 3402, Golden, CO 80401.

U.S. Department of Energy, Office of Repository Development, PO Box 364629, North Las Vegas, NV 89036-8629.

CATEGORIES OF INDIVIDUALS COVERED BY THE SYSTEM:

Individuals who are now, or have been, under an IPA agreement to or from the Department of Energy (DOE) and the National Nuclear Security Administration (NNSA).

CATEGORIES OF RECORDS IN THE SYSTEM:

Name, home and work addresses, social security number, home and work telephone numbers, salary, and related correspondence.

AUTHORITY FOR MAINTENANCE OF THE SYSTEM:

42 U.S.C. 7101 et seq.; 50 U.S.C. 2401 et seq.; 5 U.S.C. chapter 33, subchapter VI, and 5 CFR part 334.

PURPOSE(S):

The records are maintained and used by DOE to provide a basis for payments under the terms of the IPA agreements, provide employment histories, and provide information for reports and program evaluations.

ROUTINE USES OF RECORDS MAINTAINED IN THE SYSTEM, INCLUDING CATEGORIES OF USERS AND THE PURPOSES OF SUCH USES:

1. A record from this system may be disclosed to State and local governments, institutions of higher education, Federally Funded Research and Development Centers, or other “eligible” organizations for the purpose of assigning prospective individuals for temporary periods.

2. A record from the system may be disclosed as a routine use to DOE contractors in performance of their contracts, and their officers and employees who have a need for the record in the performance of their duties. Those provided information under this routine use are subject to the same limitations applicable to Department officers and employees under the Privacy Act.

POLICIES AND PRACTICES FOR STORING, RETRIEVING, ACCESSING, RETAINING AND DISPOSING OF RECORDS IN THE SYSTEM:

STORAGE:

Records may be stored as electronic media and paper records.

RETRIEVABILITY:

Records may be retrieved by name or social security number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Human Resources and Management, U.S. Department of Energy, 1000 Independence Avenue, SW., Washington DC 20585.

Field Offices: The Personnel Officers at the field locations listed above under “Systems Locations” are the system managers for their respective portions of this system.

NOTIFICATION PROCEDURES:

In accordance with the DOE regulation implementing the Privacy Act, at title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The subject individual and current or prospective employer.

SYSTEMS EXEMPTED FROM CERTAIN PROVISIONS OF THE ACT:

None.

DOE-9

SYSTEM NAME:

Members of DOE Advisory Committees.

SECURITY CLASSIFICATION:

Unclassified.

SYSTEM LOCATION:

U.S. Department of Energy, Office of the Executive Secretariat, 1000 Independence Avenue, SW., Washington, DC 20585.

CATEGORIES OF INDIVIDUALS COVERED BY THE SYSTEM:

All individuals who are members of a Department of Energy (DOE) Advisory Committee.

CATEGORIES OF RECORDS IN THE SYSTEM:

Name, biographical information, home address and telephone number, work address and telephone number, type of business or organizational affiliation, present position with business or other organization, number of years in present position, other related experience, congressional district, and photographs.

AUTHORITY FOR MAINTENANCE OF THE SYSTEM:

42 U.S.C. 7101 et seq.; 50 U.S.C. 2401 et seq.; and the Federal Advisory Committee Act, 5 U.S.C. App. 2.

PURPOSE(S):

The records are maintained and used by the DOE to keep a current listing of advisory committee members.

ROUTINE USES OF RECORDS MAINTAINED IN THE SYSTEM, INCLUDING CATEGORIES OF USERS AND THE PURPOSES OF SUCH USES:

1. A record from this system may be disclosed as a routine use to a member of Congress submitting a request involving the constituent when the constituent has requested assistance from the member concerning the subject matter of the record. The member of Congress must provide a copy of the constituent's request for assistance.

2. A record from the system may be disclosed as a routine use to DOE contractors in performance of their contracts, and their officers and employees who have a need for the record in the performance of their duties. Those provided information under this routine use are subject to the same limitations applicable to DOE officers and employees under the Privacy Act.

POLICIES AND PRACTICES FOR STORING, RETRIEVING, ACCESSING, RETAINING, AND DISPOSING OF RECORDS IN THE SYSTEM:

STORAGE:

Records may be stored as paper records and electronic media.

RETRIEVABILITY:

Records may be retrieved by name.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of the Executive Secretariat, U.S. Department of Energy, 1000 Independence Avenue, SW., Washington, DC 20585.

NOTIFICATION PROCEDURES:

In accordance with the DOE regulation implementing the Privacy Act, title 10, Code of Federal Regulations, part 1008, a request by an individual to determine if a system of records contains information about him/her should be directed to the Director, Headquarters Freedom of Information Act and Privacy Act Group, U.S. Department of Energy, or the Privacy Act Officer at the appropriate address identified above under “System Locations.” The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The subject individual, members of Congress, and public interest groups.

SYSTEM EXEMPTED FROM CERTAIN PROVISIONS OF THE ACT:

None.

DOE-10

SYSTEM NAME:

Worker Advocacy Records.

SECURITY CLASSIFICATION:

None.

SYSTEM LOCATION:

U.S. Department of Energy, 1000 Independence Avenue, SW., Washington, DC 20585.

U.S. Department of Energy, 19901 Germantown Road, Germantown, MD 20874-1290.

U.S. Department of Energy, Albany Research Center, 1450 Queen Avenue, SW., Albany, OR 97321.

U.S. Department of Energy, NNSA Service Center Albuquerque, PO Box 5400, Albuquerque, NM 87185-5400.

U.S. Department of Energy, Office of Amarillo Site Operations, Highway 60 FM2373, Amarillo, TX 79177.

U.S. Department of Energy, Bettis Atomic Power Laboratory, Bechtel Bettis, Inc., 814 Pittsburgh McKeesport Blvd., West Mifflin, PA 15122-0079.

U.S. Department of Energy, Boston Regional Office, John F. Kennedy Federal Bldg., Room 675, Boston MA 02203-0002.

U.S. Department of Energy, Chicago Regional Office, One South Wacker Drive, Chicago, IL 60606-4616.

U.S. Department of Energy, Chicago Operations Office, 9800 South Cass Avenue, Argonne, IL 60439.

U.S. Department of Energy, Denver Regional Office, 1617 Cole Blvd., MS-1721, Golden, CO 80401.

U.S. Department of Energy, Fernald Environmental Management Project, 7400 Willey Road, Cincinnati, OH 45030.

U.S. Department of Energy, General Atomics Site Office, 3550 General Atomic Court, B-7, Room 119, San Diego, CA 92121.

U.S. Department of Energy, Golden Field Office, 1617 Cole Blvd., Golden, CO 80401.

U.S. Department of Energy, Grand Junction Office, 2597 B 3/4 Road, Grand Junction, CO 81503.

U.S. Department of Energy, Hanford Environmental Health Foundation, 3080 George Washington Way, Richland, WA 99352.

U.S. Department of Energy, Idaho Operations Office, 850 Energy Drive, Idaho Falls, ID 83403.

U.S. Department of Energy, Idaho National Engineering and Environmental Laboratory, 2525 North Fremont Avenue, Idaho Falls, ID 83401-1563.

U.S. Department of Energy, Idaho National Engineering and Environmental Laboratory, CF 690 MS 4149, Scoville, ID 83415.

U.S. Department of Energy, Kansas City Site Office, 2000 E 95th Street, Kansas City, MO 64141-3202.

U.S. Department of Energy, Sandia Site Office, Pennsylvania & H Street, Albuquerque, NM 87185-5400.

U.S. Department of Energy, Knolls Atomic Power Laboratory, 2401 River Road, Niskayuna, NY 12309.

U.S. Department of Energy, Lawrence Berkeley National Laboratory, 1 Cyclotron Road, Berkeley, CA 94720.

U.S. Department of Energy, University of California, Livermore Site Office, 7000 East Avenue, PO Box 808, L-1, Livermore, CA 94550.

U.S. Department of Energy, Livermore Site Office, Nevada Test Site, University of California, PO Box 45, Mercury, NV 89023.

U.S. Department of Energy, Lockheed Idaho Technical Center, 765 Lindsay Blvd., Idaho Falls, ID 83403.

U.S. Department of Energy, The Office of Site Operations, 528 35th Street, Los Alamos, NM 87544.

University of California, Los Alamos National Laboratory, SM #30 Bikini Road, Los Alamos, NM 87545.

U.S. Department of Energy, Miamisburg Environmental Management Project, 1 Mound Road, Miamisburg, OH 45342-0066.

U.S. Department of Energy, National Energy Technology Laboratory (NETL-MGN), 3610 Collins Ferry Road, Morgantown, WV 26507-0880.

U.S. Department of Energy, National Energy Technology Laboratory (NETL-PGH), 626 Cochrans Mill Road, Pittsburgh, PA 15236-0940.

U.S. Department of Energy, National Renewable Energy Laboratory Area Office, 1617 Cole Blvd., Golden, CO 80401-3393.

U.S. Department of Energy, National Renewable Energy Laboratory, 1617 Cole Blvd., Golden, CO 80401-3393.

U.S. Department of Energy, NNSA Service Center Nevada, PO Box 98518, Las Vegas, NV 89193-8518.

U.S. Department of Energy, Nevada Test Site Mercury, Nevada, Building 111, PO Box 677, Mercury, NV 89023-0677.

U.S. Department of Energy, Oak Ridge Institute for Science and Education, 230 Warehouse Road, Bldg. 1916T2, Oak Ridge, TN 37830.

U.S. Department of Energy, Oak Ridge National Laboratory, Bethel Valley Road, Oak Ridge, TN 37831.

U.S. Department of Energy, Oak Ridge Operations Office, 200 Administration Road, Oak Ridge, TN 37831.

U.S. Department of Energy, NNSA Service Center Oakland, 1301 Clay Street, Oakland, CA 94612-5208.

U.S. Department of Energy, Office of Scientific and Technical Information, 175 Oak Ridge Turnpike, Oak Ridge, TN 37830.

U.S. Department of Energy, Ohio Field Office, 1 Mound Road, Miamisburg, OH 45342.

U.S. Department of Energy, Pacific Northwest National Laboratory, 902 Battelle Blvd., PO Box 999, Richland, WA 99352.

U.S. Department of Energy, Paducah Site Office, 5600 Hobbs Road, West Paducah, KY 42086.

U.S. Department of Energy, Philadelphia Regional Office, 1880 John F. Kennedy Blvd., Suite 501, Philadelphia, PA 19103-7483.

U.S. Department of Energy, Portsmouth Site Office, 3930 U.S. 23, Perimeter Road, Piketon, OH 45661.

U.S. Department of Energy, Radiobiology & Environmental Health Laboratory, University of California, San Francisco, Box 0750, 3rd Avenue & Parnassos Avenue, San Francisco, CA 94143-0750.

U.S. Department of Energy, Richland Operations Office, 825 Jadwin Avenue, PO Box 550, Richland, WA 99352.

U.S. Department of Energy, Rocky Flats Field Office, 10808 Highway 93, Unit A, Golden, CO 90403-8200.

U.S. Department of Energy, Sandia Site Office, 1515 Eubank Blvd., SE., Albuquerque, NM 87123.

U.S. Department of Energy, Sandia Site Office, 7011 E Avenue, Livermore, CA 94551-0969.

U.S. Department of Energy, Savannah River Ecology Laboratory, Drawer E, Aiken, SC 29802.

U.S. Department of Energy, Savannah River Operations Office, Road 1A, Aiken, SC 29801.

U.S. Department of Energy, Seattle Regional Office, 800 Fifth Avenue, Suite 3950, Seattle, WA 98104.

U.S. Department of Energy, Stanford Linear Accelerator Center, 2575 Sand Hill Road, Menlo Park, CA 94025.

U.S. Department of Energy, Stanford Site Office, 2575 Sand Hill Road, B-41, MS: 8-A, Menlo Park, CA 94025.

U.S. Department of Energy, Stanford Synchrotron Radiology Laboratory, Stanford University, PO Box 4349, MS 69, Stanford, CA 94025.

U.S. Department of Energy, Thomas Jefferson National Accelerator Facility, 12000 Jefferson Avenue, Newport News, VA 23606.

U.S. Department of Energy, Waste Isolation Pilot Project Office, PO Box 3090, Carlsbad, NM 88221.

U.S. Department of Energy, West Valley Demonstration Project, 10282 Rock Springs Road, West Valley, NY 14171-9799.

U.S. Department of Energy, Office of Repository Development, PO Box 364629, North Las Vegas, NV 89036-8629.

CATEGORIES OF INDIVIDUALS COVERED BY THE SYSTEM:

This system of records contains materials submitted to DOE for the purpose of seeking assistance in obtaining compensation for an illness believed to have been contracted due to employment by or for DOE. These records may pertain to individuals in the following categories who contacted DOE through the Workers' Compensation Helpline, through a member of Congress, or through correspondence in any format. These individuals may be: (1) Members of the public; (2) employees or surrogates of employees of DOE, its predecessor agencies, and their contractors and subcontractors; (3) former members of the armed forces.

CATEGORIES OF RECORDS IN THE SYSTEM:

Telephone conversations; correspondence to DOE from individuals, members of Congress, attorneys who represent workers, other surrogates of workers, doctors, and other Federal agencies; medical records; employment records; personnel security questionnaires; exposure records; safety records or other incident reports, including but not limited to area sampling data, accidental releases, explosions, spills, etc.; workers' or family members' contemporaneous diaries, journals, or other notes; internal DOE forms for reviewing worker cases; physical and vocational rehabilitation records; records pertaining to previously filed claims; and any other records related to or pertinent to the condition or case.

AUTHORITY FOR MAINTENANCE OF THE SYSTEM:

42 U.S.C. 7101 et seq.; 50 U.S.C. 2401 et seq.; The Energy Employees Occupational Illness Compensation Program Act of 2000, Pub. L.106-398.

PURPOSE(S):

The purpose of this system of records is to collect and maintain records needed by the Office of Worker Advocacy to assist current and former DOE contractor employees or their families in connection with the filing of state workers' compensation claims for conditions that may be due to exposures during employment by or for DOE. The assistance provided by this Office may include, but is not limited to the following: (1) Maintaining a helpline, (2) conducting outreach and educational programs, (3) providing referral assistance, (4) case review and (5) employment verification. Although the primary focus is on DOE contractor employees, assistance may be provided to DOE Federal employees and employees of other agencies by directing them to the appropriate compensation programs, such as the Federal Employees Compensation Act program administered by the Department of Labor.

Individually identifiable information will not appear in published or unpublished reports, studies or surveys. However, the system will contain records compiled in completing published or unpublished reports, studies or surveys from which information may be retrieved by name or other personal identifier. Non-identifiable information regarding the assumptions, methodology, and data used in establishing radiation doses under section 3623(d) of the Energy Employees Occupational Illness Compensation Program Act of 2000 will be made available to researchers and the general public, consistent with the protection of private medical records.

ROUTINE USERS OF THE RECORDS MAINTAINED IN THE SYSTEM, INCLUDING CATEGORIES OF USERS AND PURPOSES OF SUCH USES:

1. A record from this system may be disclosed as a routine use to DOE contractors (past and present) in performance of their contracts, and their officers and employees who have a need for the record in the performance of their duties. Those provided information under this routine use are subject to the same limitations applicable to Department officers and employees under the Privacy Act.

2. A record from this system may be disclosed as a routine use to DOE financial assistance recipients in performance of their financial assistance agreements, and their officers and employees who have a need for the record in the performance of their duties. Those provided information under this routine use are subject to the same limitations applicable to Department officers and employees under the Privacy Act.

3. A record from this system may be disclosed as a routine use to other state and Federal agencies or entities whose mission entails reviewing or managing workers' compensation claims or administering other benefits programs. Those provided information under this routine use are subject to the same limitations applicable to Department officers and employees under the Privacy Act.

4. A record from this system may be disclosed as a routine use to members of a physicians panel(s) established to review and provide a determination regarding whether the illness or death that is the subject of an application for compensation arose out of and in the course of employment by or for DOE. Those provided information under this routine use are subject to the same limitations applicable to Department officers and employees under the Privacy Act.

5. A record from this system may be disclosed as a routine use to medical specialists in fields that include occupational medicine, pulmonology, immunology, toxicology, dermatology, hematology/oncology, rheumatology, neurology, neurotoxicology, psychiatry, psychology, endocrinology, pathology, and any other specialty that the physicians panel member(s) deem necessary to reach a conclusion in a case. Those provided information under this routine use are subject to the same limitations applicable to Department officers and employees under the Privacy Act.

6. A record from this system may be disclosed as a routine use to the personnel, contractors, grantees, and cooperative agreement holders of the Department of Labor, the Department of Health and Human Services, the Department of Justice, and other Federal agencies and their components, designated by the President to implement the Federal compensation program established by the Energy Employees Occupational Illness Compensation Program Act, for the purpose of assisting in the adjudication or processing of a claim under that Act. Those provided information under this routine use are subject to the same limitations applicable to Department officers and employees under the Privacy Act.

7. A record from this system may be disclosed as a routine use to the members and the staff of the DOE advisory committee established to provide advice on workers' compensation issues, and the members and the staff of an advisory board on Radiation and Worker Health required to be established under the Energy Employees Occupational Illness Compensation Program Act. All recipients of such records are required to comply with the Privacy Act, to follow prescribed measures to protect personal privacy, and to disclose or use personally identifiable information only for the purpose of providing advice relating to workers' compensation.

8. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

9. A record from this system may be disclosed as a routine use to the Department of Justice when DOE determines that an individual may be eligible for compensation under the Radiation Exposure and Compensation Act of 1990 (42 U.S.C. 2210, note, and as further clarified in 28 CFR part 79), a compensation program administered by the Department of Justice.

10. A record from this system may be disclosed as a routine use to the appropriate local, state or Federal agency when the record alone or in conjunction with other information, indicates a violation or potential violation of law whether civil, criminal, or regulatory in nature.

11. A record from this system may be disclosed to Department of Health and Human Services, their contractors, grantees, and cooperative agreement holders, pursuant to the Energy Employees Occupational Illness Compensation Program Act of 2000, to estimate radiation doses and other workplace exposures received by Department of Energy and contractor employees. Those provided information under this routine use are subject to the same limitations applicable to Department officers and employees under the Privacy Act.

POLICIES AND PRACTICES FOR STORING, RETRIEVING, ACCESSING, RETAINING AND DISPOSING OF RECORDS IN THE SYSTEM:

STORAGE:

Records may be stored as paper records, microfilm, and electronic media.

RETRIEVABILITY:

Records may be retrieved by the name of the individual, case number and document number.

SAFEGUARDS:

Paper records are maintained in locked cabinets and desks. Electronic records are controlled through established DOE computer center procedures (personnel screening and physical security), and they are password protected. Passwords are known only by the system manager. Access is limited to those whose official duties require access to records.

RETENTION AND DISPOSAL:

Records retention and disposal authorities are contained in the National Archives and Records Administration (NARA) General Records Schedule and DOE record schedules that have been approved by NARA.

SYSTEM MANAGER(S) AND ADDRESS:

U.S. Department of Energy, Director, Office of Worker Advocacy, 1000 Independence Ave, SW., Washington, DC 20585.

NOTIFICATION PROCEDURES:

In accordance with the DOE regulation implementing the Privacy Act, at title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at location where the work is performed. In accordance with the DOE Privacy Act regulation, proper identification is required before a request is processed.

CONTESTING RECORD PROCEDURES:

Same as Notification Procedures.

RECORD SOURCE CATEGORIES:

Records in this system will be obtained from sources, including, but not limited to the individual who is the subject of the records; physicians and other medical professionals; medical institutions; state and Federal workers' compensation offices; family members of the subject; attorneys representing the individual; individuals' employer, including DOE and its contractors and subcontractors; medical laboratories; other state and Federal agencies.

SYSTEMS EXEMPTED FROM CERTAIN PROVISIONS OF THE ACT:

None.

DOE-11

SYSTEM NAME:

Emergency Operations Notification Call List.

SECURITY CLASSIFICATION:

Unclassified.

SYSTEM LOCATION:

U.S. Department of Energy, NNSA Service Center Albuquerque, PO Box 5400, Albuquerque, NM 87185-5400.

U.S. Department of Energy, Bonneville Power Administration, PO Box 3621, Portland, OR 97208.

U.S. Department of Energy, Chicago Operations Office, 9800 South Cass Avenue, Argonne, IL 60439.

U.S. Department of Energy, Golden Field Office, 1617 Cole Boulevard, Golden, CO 80401.

U.S. Department of Energy, Headquarters, 1000 Independence Avenue, SW., Washington, DC 20585.

U.S. Department of Energy, Idaho Operations Office, 850 Energy Drive, Idaho Falls, ID 83401.

U.S. Department of Energy, National Energy Technology Laboratory (Morgantown), PO Box 880, Morgantown, WV 26507.

U.S. Department of Energy, National Energy Technology Laboratory (Pittsburgh), PO Box 10940, Pittsburgh, PA 15236-0940.

U.S. Department of Energy, National Petroleum Technology Office, William Center Tower One, 1 West Third Street, Suite 1400, Tulsa, OK 74103.

U.S. Department of Energy, Office of Naval Reactors, Crystal City, VA 22202.

U.S. Department of Energy, NNSA Service Center Nevada, PO Box 98518, Las Vegas, NV 89193-8518.

U.S. Department of Energy, Oak Ridge Operations Office, PO Box 2001, Oak Ridge, TN 37831.

U.S. Department of Energy, NNSA Service Center Oakland, 1301 Clay Street, Oakland, CA 94612-5208.

U.S. Department of Energy, Ohio Field Office, PO Box 3020, Miamisburg, OH 45343-3020.

U.S. Department of Energy, Richland Operations Office, 825 Jadwin Avenue, PO Box 550, Richland, WA 99352.

U.S. Department of Energy, Rocky Flats Field Office, 10808 Highway 93, Unit A, Golden, CO 80403-8200.

U.S. Department of Energy, Savannah River Operations Office, PO Box A, Aiken, SC 29801.

U.S. Department of Energy, Schenectady Naval Reactors Office, PO Box 1069, Schenectady, NY 12301.

U.S. Department of Energy, Southeastern Power Administration, 1166 Athens Tech Road, Elberton, GA 30635-4578.

U.S. Department of Energy, Southwestern Power Administration, Williams Tower One, One West Third Street, Tulsa, OK 74103.

U.S. Department of Energy, Strategic Petroleum Reserve Project Office, 900 Commerce Road East, New Orleans, LA 70123.

U.S. Department of Energy, Western Area Power Administration, PO Box 3402, Golden, CO 80401.

U.S. Department of Energy, Office of Repository Development, PO Box 364629, North Las Vegas, NV 89036-8629.

CATEGORIES OF INDIVIDUALS COVERED BY THE SYSTEM:

Department of Energy (DOE) and National Nuclear Security Administration (NNSA) senior officials, office directors and key support staff, and DOE contractors involved in DOE Headquarters emergency management and operations activities.

CATEGORIES OF RECORDS IN THE SYSTEM:

Name, office telephone number, home telephone number, home address and pager and cellular phone numbers (if appropriate).

AUTHORITY FOR MAINTENANCE OF THE SYSTEM:

42 U.S.C. 7101 et seq. and 50 U.S.C. 2401 et seq.

PURPOSE(S):

The records are maintained and used by the DOE to create a list that will enable 24 hour contact with select DOE Headquarters personnel and contractors to inform them of situations, occurrences, and emergencies that may impact DOE facilities or activities.

ROUTINE USES OF RECORDS MAINTAINED IN THE SYSTEM, INCLUDING CATEGORIES OF USERS AND THE PURPOSES OF SUCH USES:

A record from the system may be disclosed as a routine use to DOE contractors in performance of their contracts, and their officers and employees who have a need for the record in the performance of their duties. Those provided information under this routine use are subject to the same limitations applicable to DOE officers and employees under the Privacy Act.

POLICIES AND PRACTICES FOR STORING, RETRIEVING, ACCESSING, RETAINING, AND DISPOSING OF RECORDS IN THE SYSTEM:

STORAGE:

Records may be stored as paper records and electronic media.

RETRIEVABILITY:

Records may be retrieved by name of subject individual.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters, Deputy Administrator for Defense Nuclear Nonproliferation (NNSA), U.S. Department of Energy, 1000 Independence Avenue, SW., Washington, DC 20585.

NOTIFICATION PROCEDURES:

In accordance with the DOE regulation implementing the Privacy Act, at title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The subject individual.

SYSTEM EXEMPTED FROM CERTAIN PROVISIONS OF THE ACT:

None.

DOE-12

SYSTEM NAME:

Automated Materials and Property Systems (AMPS).

SECURITY CLASSIFICATION:

Unclassified.

SYSTEM LOCATION:

U.S. Department of Energy, Headquarters, 1000 Independence Avenue, SW., Washington, DC 20585.

U.S. Department of Energy, Germantown, 19901 Germantown Road, Germantown, MD 20784-1290.

CATEGORIES OF INDIVIDUALS COVERED BY THE SYSTEM:

Current Department of Energy (DOE) and National Nuclear Security Administration (NNSA) Headquarters employees who purchase supply products at the three Self Service Stores in the Washington, DC area and vicinity.

CATEGORIES OF RECORDS IN THE SYSTEM:

Name of DOE employee, organization, date of purchase, quantity, and price.

AUTHORITY FOR MAINTENANCE OF THE SYSTEM:

42 U.S.C. 7101 et seq.; 50 U.S.C. 2401 et seq.; 42 U.S.C. 7263, and 42 U.S.C. 5815G.

PURPOSE(S):

The records are maintained and used by the Department for billing purposes under the Working Capitol Fund (WFC). The WCF issues bills to Headquarters program offices for both stock and non stock supplies that were purchased for use by employees to perform their work.

ROUTINE USES OF RECORDS MAINTAINED IN THE SYSTEM INCLUDING CATEGORIES OF USERS AND PURPOSES OF SUCH USES:

1. A record from this system of records may be disclosed as a routine use to DOE contractors in performance of their contracts, and their officers and employees who have a need for the record in the performance of their duties. Those provided information under this routine use are subject to the same limitations applicable to DOE officers and employees under the Privacy Act.

2. A record in this system of records may be disclosed as a routine use to a member of Congress submitting a request involving the constituent when the constituent has requested assistance from the member concerning the subject matter of the record. The member of Congress must provide a copy of the constituent's request for assistance.

POLICIES AND PRACTICES FOR STORING, RETRIEVING, ACCESSING, RETAINING AND DISPOSING OF RECORDS IN THE SYSTEM:

STORAGE:

Records may be stored as paper records and electronic media.

RETRIEVABILITY:

Records may be retrieved by name and badge number of the DOE employee.

RETENTION AND DISPOSAL:

Records retention and disposal authorities are contained in the National Archives and Records Administration (NARA) General Records Schedule and DOE record schedules that have been approved by NARA.

SYSTEM MANAGER(S) ADDRESS:

Director, Assets Management and Support Services Group, U. S. Department of Energy, 1000 Independence Avenue, SW., Washington, DC 20585.

NOTIFICATION PROCEDURES:

In accordance with the DOE regulation implementing the Privacy Act, at title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notifications procedures above. Records are generally kept at locations where the work is performed. In accordance with the DOE Privacy Act regulation, proper identification is required before a request is processed.

CONTESTING RECORD PROCEDURES:

Same as Notification Procedures above.

RECORD SOURCE CATEGORIES:

Sources of information for the system include: Supplies and their respective price lists that are purchased and placed into the supply system for sale; purchases made by DOE employees; and the information contained on the employee's badge.

SYSTEM EXEMPT FROM CERTAIN PROVISIONS OF THE ACT:

None.

DOE-13

SYSTEM NAME:

Payroll and Leave Records.

SECURITY CLASSIFICATION:

Unclassified.

SYSTEM LOCATION:

U.S. Department of Energy, Headquarters, 1000 Independence Avenue, SW., Washington, DC 20585.

U.S. Department of Energy, Alaska Power Administration, Federal Records Center, San Point Way, NE., Seattle, WA 98115.

U.S. Department of Energy, NNSA Service Center Albuquerque, PO Box 5400, Albuquerque, NM 87185-5400.

U.S. Department of Energy, Atlanta Regional Support Office, 730 Peachtree, NE., Suite 876, Atlanta, GA 30308.

U.S. Department of Energy, Bonneville Power Administration, PO Box 3621, Portland, OR 97208.

U.S. Department of Energy, Boston Regional Support Office, One Congress Street, Room 1101, Boston, MA 021144-2021.

U.S. Department of Energy, Chicago Operations Office, 9800 South Cass Avenue, Argonne, IL 60439.

U.S. Department of Energy, Golden Field Office, 1617 Cole Boulevard, Golden, CO 80401.

U.S. Department of Energy, Idaho Operations Office, 850 Energy Drive, Idaho Falls, ID 83401.

U.S. Department of Energy, National Energy Technology Laboratory (Morgantown), PO Box 880, Morgantown, WV 26507-0880.

U.S. Department of Energy, National Energy Technology Laboratory (Pittsburgh), 626 Cochrans Mill Road, Pittsburgh, PA 15236-0940.

U.S. Department of Energy, National Petroleum Technology Office, William Center Tower One, 1 West Third Street, Suite 1400, Tulsa, OK 74103.

U.S. Department of Energy, Naval Petroleum and Oil Shale Reserves, 907 N. Poplar, Suite 150, Casper, WY 82601.

U.S. Department of Energy, Naval Petroleum Reserves in California, 1601 New Stine Road, Suite 240, Bakersfield, CA 93309.

U.S. Department of Energy, NNSA Service Center Nevada, PO Box 98518, Las Vegas, NV 89193-8518.

U.S. Department of Energy, Oak Ridge Operations Office, PO Box 2001, Oak Ridge, TN 37831.

U.S. Department of Energy, NNSA Service Center Oakland, 1301 Clay Street, Oakland, CA 94612-5208.

U.S. Department of Energy, Office of Scientific & Technical Information, PO Box 62, Oak Ridge, TN 37831.

U.S. Department of Energy, Ohio Field Office, PO Box 3020, Miamisburg, OH 45343.

U.S. Department of Energy, Philadelphia Regional Support Office, 1880 John F. Kennedy Boulevard, Suite 501, Philadelphia, PA 19103-7483.

U.S. Department of Energy, Pittsburgh Naval Reactors Office, PO Box 109, West Mifflin, PA 15122-0109.

U.S. Department of Energy, Richland Operations Office, PO Box 550, Richland, WA 99352.

U.S. Department of Energy, Rocky Flats Field Office, 10808 Highway 93, Unit A, Golden, CO 80403-8200.

U.S. Department of Energy, Savannah River Operations Office, PO A, Aiken, SC 29801.

U.S. Department of Energy, Seattle Regional Support Office, 800 Fifth Avenue, Suite 3950, Seattle, WA 98104.

U.S. Department of Energy, Schenectady Naval Reactors Office, PO Box 1069, Schenectady, NY 12301.

U.S. Department of Energy, Southeastern Power Administration, 1166 Athens Tech Road, Elberton, GA 30635-4578.

U.S. Department of Energy, Southwestern Power Administration, Williams Tower One, One West Third Street, Tulsa, OK 74103.

U.S. Department of Energy, Strategic Petroleum Reserve Project Office, 900 Commerce Road East, New Orleans, LA 70123.

U.S. Department of Energy, Western Area Power Administration, PO Box 3402, Golden, CO 80401.

U.S. Department of Energy, Office of Repository Development, PO Box 364629, North Las Vegas, NV 89036-8629.

CATEGORIES OF INDIVIDUALS COVERED BY THE SYSTEM:

Department of Energy (DOE) including National Nuclear Security Administration (NNSA) personnel and consultants.

CATEGORIES OF RECORDS IN THE SYSTEM:

Time and attendance records, earning records, payroll actions, deduction information requests, authorizations for overtime and night differential, and Office of Personnel Management (OPM) retirement records.

AUTHORITY FOR MAINTENANCE OF THE SYSTEM:

42 U.S.C. 7101 et seq.; 50 U.S.C. 2401 et seq.; Privacy Act of 1974, Pub. L. 93-579 (5 U.S.C. 552a); General Accounting Office Policy and Procedures Manual; Personal Responsibility and Work Opportunity Reconciliation Act, Pub. L. 104-193.

PURPOSE(S):

The records are maintained and used by the DOE to document historical information on employee wages, deductions, retirement benefits, and leave.

ROUTINE USES OF RECORDS MAINTAINED IN THE SYSTEM, INCLUDING CATEGORIES OF USERS AND THE PURPOSES OF SUCH USES:

1. A record from this system may be disclosed as a routine use to the Department of Treasury to collect withheld taxes, process payroll payments, and issue savings bonds.

2. A record from this system may be disclosed as a routine use to the Internal Revenue Service to process Federal income tax payments and tax levies.

3. A record from this system may be disclosed as a routine use to state and local governments to process State and local income tax deductions and court ordered child support or alimony payments.

4. A record from this system may be disclosed as a routine use to OPM to establish and maintain retirement records and benefits.

5. A record from this system may be disclosed as a routine use to the Thrift Savings Board to update Section 401K type records and benefits.

6. A record from this system may be disclosed as a routine use to the Social Security Administration to establish Social Security records and benefits.

7. A record from this system may be disclosed as a routine use to the Department of Labor to process workmen's compensation claims.

8. A record from this system may be disclosed as a routine use to the Department of Defense to adjust military retirement.

9. A record from this system may be disclosed as a routine use to financial institutions to credit net check deposits, savings allotments, and discretionary allotments.

10. A record from this system may be disclosed as a routine use to the employee unions to credit accounts for employees with union dues deductions.

11. A record from this system may be disclosed as a routine use to health insurance carriers to process insurance claims.

12. A record from this system may be disclosed as a routine use to the General Accounting Office to verify accuracy and legality of disbursement.

13. A record from this system may be disclosed as a routine use to the Department of Veterans Affairs to evaluate veteran's benefits to which the individual may be entitled.

14. A record from this system may be disclosed as a routine use to States' departments of employment security to determine entitlement to unemployment compensation or other State benefits.

15. A record from the system may be disclosed as a routine use to the appropriate local, State or Federal agency when records alone or in conjunction with other information, indicates a violation or potential violation of law whether civil, criminal, or regulatory in nature, and whether arising by general statute or particular program pursuant thereto.

16. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

17. A record from the system may be disclosed as a routine use to DOE contractors in performance of their contracts, and their officers and employees who have a need for the record in the performance of their duties. Those provided information under this routine use are subject to the same limitations applicable to DOE officers and employees under the Privacy Act.

18. A record from this system of records may be disclosed as a routine use to a member of Congress submitting a request involving the constituent when the constituent has requested assistance from the member concerning the subject matter of the record. The member of Congress must provide a copy of the constituent's request for assistance.

19. A record from this system may be disclosed as a routine use to the Office of Child Support Enforcement, Administration for Children and Families, Department of Health and Human Services, Federal Parent Locator System (FPLS) and Federal Tax Offset System to locate individuals and identify their income sources to establish paternity, establish and modify orders of support, and for enforcement action.

20. A record from this system may be disclosed as a routine use to the Office of Child Support Enforcement, Administration for Children and Families, Department of Health and Human Services, FPLS and Federal Tax Offset System, for release to the Social Security Administration to verify social security numbers in connection with the operation of the FPLS by the Office of Child Support Enforcement.

21. A record from this system may be disclosed as a routine use to the Office of Child Support Enforcement, Administration for Children and Families, Department of Health and Human Services, FPLS and Federal Tax Offset System, for release to the Department of Treasury to administer the Earned Income Tax Credit Program (section 32, Internal Revenue Code of 1986) and verify a claim with respect to employment in a tax return.

POLICIES AND PRACTICES FOR STORING, RETRIEVING, ACCESSING, RETAINING, AND DISPOSING OF RECORDS IN THE SYSTEM:

STORAGE:

Records may be stored as paper records and electronic media.

RETRIEVABILITY:

Records may be retrieved by name, social security number, and payroll number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, U.S. Department of Energy, Chief Financial Officer, 1000 Independence Avenue, SW., Washington, DC 20585.

Field Offices: The Managers of the DOE offices “System Locations” listed above are the system managers for their respective portions of this system.

NOTIFICATION PROCEDURES:

In accordance with the DOE regulation implementing the Privacy Act, at Title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The subject individual, supervisors, timekeepers, official personnel records, and the Internal Revenue Service.

SYSTEM EXEMPT FROM CERTAIN PROVISIONS OF THE ACT:

None.

DOE-14

SYSTEM NAME:

Report of Compensation.

SECURITY CLASSIFICATION:

Unclassified.

SYSTEM LOCATION:

U.S. Department of Energy Headquarters, 1000 Independence Avenue, SW., Washington, DC 20585.

U.S. Department of Energy, NNSA Service Center Albuquerque, PO Box 5400, Albuquerque, NM 87185-5400.

U.S. Department of Energy, Chicago Operations Office, 9800 South Cass Avenue, Argonne, IL 60439.

U.S. Department of Energy, Golden Field Office, 1617 Cole Boulevard, Golden, CO 80401.

U.S. Department of Energy, Idaho Operations Office, 850 Energy Drive, Idaho Falls, ID 83401.

U.S. Department of Energy, National Energy Technology Laboratory (Morgantown), PO Box 880, Morgantown, WV 26507-0880.

U.S. Department of Energy, National Energy Technology Laboratory (Pittsburgh), PO Box 10940, Pittsburgh, PA 15236-0940.

U. S. Department of Energy, National Petroleum Technology Office, William Center Tower One, 1 West Third Street, Suite 1400, Tulsa, OK 74103.

U.S. Department of Energy, Naval Petroleum Reserves in California, Post Office Box 11, Tupman, CA 93276.

U.S. Department of Energy, Naval Petroleum and Oil Shale Reserves, 907 North Poplar, Suite 150, Casper, WY 82601.

U.S. Department of Energy, NNSA Service Center Nevada, PO Box 98518, Las Vegas, NV 89193-8518.

U.S. Department of Energy, Oak Ridge Operations Office, PO Box E, Oak Ridge, TN 37830.

U.S. Department of Energy, NNSA Service Center Oakland, 1301 Clay Street, 700 N, Oakland, CA 94612-5208.

U.S. Department of Energy, Pittsburgh Naval Reactors, PO Box 109, Pittsburgh, PA 15122.

U.S. Department of Energy, Richland Operations Office, PO Box 550, Richland, WA 99352.

U.S. Department of Energy, Rocky Flats Field Office, 10808 Highway 93, Unit A, Golden, CO 80403-8200.

U.S. Department of Energy, Savannah River Operations Office, PO Box A, Aiken, SC 29801.

U.S. Department of Energy, Schenectady Naval Reactors Office, PO Box 1069, Schenectady, NY 12301.

U.S. Department of Energy, Strategic Petroleum Reserve Office, 9000 Commerce Road East, New Orleans, LA 70123.

CATEGORIES OF INDIVIDUALS COVERED BY THE SYSTEM:

Employees of Department of Energy (DOE) including National Nuclear Security Administration (NNSA) employees, and contractors performing and operating onsite service work in the DOE-owned or controlled facilities, including long-term architect-engineering and cost-reimbursement construction contractors.

CATEGORIES OF RECORDS IN THE SYSTEM:

Name, job title, contractor, current salary up to $100,000, amount reimbursed, and other compensation (actual and amount reimbursed).

AUTHORITY FOR MAINTENANCE OF THE SYSTEM:

42 U.S.C. 7101 et seq. and 50 U.S.C. 2401 et seq.

PURPOSE(S):

The records are maintained and used by the DOE to aid Managers of Field Offices, Program Secretarial Officers and Headquarters Program Managers in determining the reasonableness of compensation paid to top level contractor employees and to monitor the growth of contractor compensation at all levels.

ROUTINE USES OF RECORDS MAINTAINED IN THE SYSTEM, INCLUDING CATEGORIES OF USERS AND THE PURPOSES OF SUCH USES:

1. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to DOE contractors in performance of their contracts, and their officers and employees who have a need for the record in the performance of their duties. Those provided information under this routine use are subject to the same limitations applicable to DOE officers and employees under the Privacy Act.

POLICIES AND PRACTICES FOR STORING, RETRIEVING, ACCESSING, RETAINING, AND DISPOSING OF RECORDS IN THE SYSTEM:

STORAGE:

Records may be stored as magnetic tape and paper records.

RETRIEVABILITY:

Records may be retrieved by name.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Contractor and Resource Management, U.S. Department of Energy, 1000 Independence Avenue, SW., Washington, DC 20585.

Field Offices: The Managers of the “System Locations” listed above are the system managers for their respective portions of this system.

NOTIFICATION PROCEDURES:

In accordance with the DOE regulation implementing the Privacy Act, at title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Contractor salary administrative personnel.

SYSTEMS EXEMPTED FROM CERTAIN PROVISIONS OF THE ACT:

None.

DOE-15

SYSTEM NAME:

Intelligence Related Access Authorization.

SECURITY CLASSIFICATION:

Classified and unclassified.

SYSTEM LOCATION:

U.S. Department of Energy, Office of Intelligence, 1000 Independence Avenue, SW., Washington, DC 20585.

U.S. Department of Energy, Livermore Site Office, 7000 East Avenue, B-261, Livermore, CA 94551.

U.S. Department of Energy, Idaho National Engineering & Environmental Laboratory Systems Analysis Facility, 2271 N. Boulevard, Idaho Falls, ID 83403.

U.S. Department of Energy, NNSA Service Center Nevada, PO Box 98518, Las Vegas, NV 89193-8518.

U.S. Department of Energy, Pacific Northwest National Laboratory, Energy & Environmental Sciences Building (EESB), 3230 Q Avenue, Richland, WA 99352.

U.S. Department of Energy, Sandia Site Office, Center for National Security & Arms Control, Building 810W, Albuquerque, NM 87185.

U.S. Department of Energy, Remote Sensing Laboratory, EG&G/EM, 4600 N. Hollywood Blvd. Nellis AFB, Bldg 2211, Las Vegas, NV 89191-6403.

U.S. Department of Energy, Los Alamos National Laboratory, Nonproliferation & National Security, TA-3, Building SM-43, Los Alamos, NM 87544.

U.S. Department of Energy, Savannah River Operations Office, Savannah River Technology Center, Technical Area 700, Bldg. 735-A, New Ellington, SC 29809.

U.S. Department of Energy, Special Technologies Laboratory, 5520 Elkwill Street, Santa Barbara, CA 93111.

U.S. Department of Energy, Lockheed Martin Energy Systems, PO Box 2003, Blair Road Oak Ridge, TN 37831-7312.

CATEGORIES OF INDIVIDUALS COVERED BY THE SYSTEM:

Current and former DOE employees including National Nuclear Security Administration (NNSA) employees, and contractor employees; applicants for employment at DOE; individuals who may be assigned or detailed to Federal positions at DOE; consultants to DOE.

CATEGORIES OF RECORDS IN THE SYSTEM:

The following information may be maintained in the system: Results of background investigations, law enforcement records, reports and files; reports on foreign contacts/travel; records, reports and files received from other DOE elements and other Federal agencies related to intelligence activities; polygraph examination records, reports and videotapes of the polygraph session; eligibility evaluation reports; and electronic mail stored on CD.

AUTHORITY FOR MAINTENANCE OF THE SYSTEM:

42 U.S.C. 7101 et seq.; 50 U.S.C. 2401 et seq.; The Atomic Energy Act of 1954, as amended; 42 U.S.C. 7239; Executive Order 12333, United States Intelligence Activities (December 4, 1981); Department of Energy Procedures for Intelligence Activities, approved by the Attorney General under Executive Order 12333 (October 19, 1992); Executive Order 12958, Classified National Security Information (April 17, 1995); Executive Order 12968, Access to Classified Information (August 2, 1995); Presidential Decision Directive-61, U.S. Department of Energy Counterintelligence Program, and DOE Order 5670.1A, Management and Control of Foreign Intelligence.

PURPOSE(S):

The records are maintained and used by the DOE to conduct eligibility determinations, adjudications, revocations and appeals from denials and revocations. Under DOE Order 5670.1A the Director of Intelligence is directed to control access to and use of Sensitive Compartmented Information (SCI) and other classified Intelligence information bearing the Director, Central Intelligence (DCI) authorized control markings; and approve access to SCI in compliance with DCI directives.

ROUTINE USES OF RECORDS MAINTAINED IN THE SYSTEM, INCLUDING CATEGORIES OF USERS AND PURPOSES OF SUCH USES:

1. A record from the system may be disclosed as a routine use to the appropriate local, State or Federal agency when records alone or in conjunction with other information, indicates a violation or potential violation of law whether civil, criminal, or regulatory in nature, and whether arising by general statute or particular program pursuant thereto.

2. A record from the system may be disclosed as a routine use to a Federal, State or local agency to obtain information relevant to a Departmental decision concerning the hiring or retention of an employee, the issuance of a security clearance, the letting of a contract, or the issuance of a license, grant, or other benefit. The Department must deem such disclosure to be compatible with the purpose for which the Department collected the information.

3. A record from this system may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

4. A record from this system may be disclosed as a routine use for the purpose of an investigation, settlement of claims, or the preparation and conduct of litigation to (1) a person representing the Department in the investigation, settlement or litigation, and to individuals assisting in such representation; (2) others involved in the investigation, settlement, and litigation, and their representatives and individuals assisting those representatives; and (3) a witness, potential witness, or their representatives and assistants, and any person possessing information pertaining to the matter when it is necessary to obtain information or testimony relevant to the matter, the reporting of an investigation of an employee, the letting of a contract, or the issuance of a license, grant, or other benefit, to the extent that the information is relevant and necessary to the requesting agency's decision on the matter.

5. A record from this system may be disclosed as a routine use in court or administrative proceedings to the tribunals, counsel, other parties, witnesses, and the public (in publicly available pleadings, filings or discussion in open court) when such disclosure: (1) Is relevant to and necessary for, the proceeding; and (2) compatible with the purpose for which the Department collected the records; and (3) the proceedings involve:

(a) The Department, its predecessor agencies, current or former contractor of the Department, or other United States Government agencies and their components, or

(b) A current or former employee of the Department and its predecessor agencies, current or former contractors of the Department, or other United States Government agencies and their components, who is acting in an official capacity or in any individual capacity where the Department or other United States Government agency has agreed to represent the employee.

6. A record from this system may be disclosed as a routine use to foreign governments in accordance with treaties, international conventions, or executive agreements.

7. A record from the system may be disclosed as a routine use to DOE contractors in performance of their contracts, and their officers and employees who have a need for the record in the performance of their duties. Those provided information under this routine use are subject to the same limitations applicable to DOE officers and employees under the Privacy Act.

8. A record from the system of records may be disclosed to a member of Congress submitting a request involving the constituent when the constituent has requested assistance from the member concerning the subject matter of the record. The member of Congress must provide a copy of the constituent's request for assistance.

POLICIES AND PRACTICES FOR STORING, RETRIEVING, ACCESSING, RETAINING, AND DISPOSING OF RECORDS IN THE SYSTEM:

STORAGE:

Records may be stored as paper records, electronic media, and videotapes.

RETRIEVABILITY:

Records may be retrieved by name and/or social security number.

SAFEGUARDS:

Paper records and videotapes are maintained in locked cabinets. Electronic records are controlled through established DOE computer center procedures (personnel screening and physical security), secured for classified information and are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Director, Office of Intelligence, U.S. Department of Energy, Forrestal Building, 1000 Independence Avenue, SW., Washington, DC 20585.

Field Offices: The managers of the System Locations listed above are the system managers for their respective portions of this system.

NOTIFICATION PROCEDURES:

In accordance with the DOE regulation implementing the Privacy Act, at title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where work is performed. In accordance with DOE's Privacy Act regulation, proper identification is required before a request is processed.

CONTESTING RECORD PROCEDURES:

Same as Notification Procedures above.

RECORD SOURCE CATEGORIES:

The subject individual, present and former DOE employees and DOE contractor employees; consultants; publicly available material; other agencies within the Intelligence Community; other agencies within the U.S. Government, other offices within the DOE; the FBI, and other federal, state and local law enforcement agencies; and sources contacted during investigations.

SYSTEM EXEMPTED FROM CERTAIN PROVISIONS OF THE ACT:

This system is exempt pursuant to (k)(1), (2) and (5) of the Privacy Act, 5 U.S.C. 552a, to the extent that information within the system meets the requirements of those subsections of the Act. To the extent the information in this system of records is exempt pursuant to 5 U.S.C. 552a(k)(1), (2) and (5), the system has been further exempted from subsections (c)(3) and (4), (d), (e)(1), (e)(4)(G) and (H) and (f) of 5 U.S.C. 552a under the Privacy Act of 1974. See DOE's Privacy Act Regulation at 10 CFR 1008.12.

DOE-16

SYSTEM NAME:

Federal Employee Subsidy Program Records.

SYSTEM LOCATION:

U.S. Department of Energy, Headquarters, 1000 Independence Avenue, SW., Washington, DC 20585.

U.S. Department of Energy, NNSA Service Center Albuquerque, PO Box 5400, Albuquerque, NM 87185-5400.

U.S. Department of Energy, Bonneville Power Administration, PO Box 3621, Portland, OR 97208.

U.S. Department of Energy, Chicago Operations Office, 9800 South Cass Avenue, Argonne, IL 60439.

U.S. Department of Energy, Golden Field Office, 1617 Cole Boulevard, Golden, CO 80401.

U.S. Department of Energy, Idaho Operations Office, 850 Energy Drive, Idaho Falls, ID 83401.

U.S. Department of Energy, National Energy Technology Laboratory (Morgantown), PO Box 880, Morgantown, WV 26505.

U.S. Department of Energy, National Energy Technology Laboratory (Pittsburgh), PO Box 10940, Pittsburgh, PA 15122.

U.S. Department of Energy, NNSA Service Center Nevada, PO Box 98518, Las Vegas, NV 89193-8518.

U.S. Department of Energy, Oak Ridge Operations Office, PO Box E, Oak Ridge, TN 37830.

U.S. Department of Energy, NNSA Service Center Oakland, 1301 Clay Street, Oakland, CA 94612.

U.S. Department of Energy, Ohio Field Office, PO Box 3020, Miamisburg, OH 45342.

U.S. Department of Energy, Pittsburgh Naval Reactors, PO Box 109, Pittsburgh, PA 15122.

U.S. Department of Energy, Richland Operations Office, PO Box 550, Richland, WA 99352.

U.S. Department of Energy, Rocky Flats Field Office, 10808 Highway 93, Unit A, Golden, CO 90403-8200.

U.S. Department of Energy, Savannah River Operations Office, PO Box A, Aiken, SC 29801.

U.S. Department of Energy, Schenectady Naval Reactors Office, PO Box 1069, Schenectady, NY 12301.

U.S. Department of Energy, Southeastern Power Administration, 1166 Athens Tech Road, Elberton GA 30635-4578.

U.S. Department of Energy, Southwestern Power Administration, Williams Tower One, One West Third Street, Tulsa, OK 74103.

U.S. Department of Energy, Strategic Petroleum Reserve Project Office, 900 Commerce Road East, New Orleans, LA 70123.

U.S. Department of Energy, Western Area Power Administration, PO Box 3402, Golden, CO 80401.

U.S. Department of Energy, Office of Repository Development, PO Box 364629, North Las Vegas, NV 89036-8629.

CATEGORIES OF INDIVIDUALS COVERED BY THE SYSTEM:

Current and former Department of Energy (DOE) employees.

CATEGORIES OF RECORDS IN THE SYSTEM:

1. Child Care Tuition Assistance Program—Application forms for child care tuition assistance containing personal information, including employee's (parent) name, Social Security Number, grade, home and work telephone numbers, home address, salary and total family income, other child care subsidies, and each child's name and date of birth; earnings statements; income tax returns. 2. Transit Subsidy Program (Commuter Choice)—Application forms that contain personal information, including employee's name, Social Security Number, home and work telephone numbers, home address, and method(s) and cost(s) of commuting; and records of vouchers or payments distributed.

AUTHORITY FOR MAINTENANCE OF THE SYSTEM:

Child Care Tuition Assistance Program—Pub. L. 106-58, section 643 and E.O. 9397; Transit Subsidy Program (Commuter Choice)—Transportation Equity Act of 1998, E.O. 13150, and 26 CFR parts 1 and 602.

PURPOSE(S):

The records are used by the Department to determine eligibility for a program, administer the program, make payments to child care providers or providers of transportation and/or parking services, and/or reimburse employees for transportation and/or parking expenses.

ROUTINE USES OF RECORDS MAINTAINED IN THE SYSTEM, INCLUDING CATEGORIES OF USERS AND THE PURPOSES OF SUCH USES:

1. A record from this system may be disclosed as a routine use to local and state officials and child care providers in determining eligibility for child care tuition assistance that is available through their programs.

2. A record from this system may be disclosed as a routine use to a panel of DOE employees to determine the amount of the child care subsidy with names and Social Security Numbers deleted.

3. A record from this system may be disclosed as a routine use to other agency and/or public transportation officials when they assist in administering the Department's transit subsidy program.

4. A record from this system may be disclosed to union officials acting in their official capacity as a representative of the affected employee under 5 U.S.C. chapter 71.

5. A record from this system may be disclosed to a member of Congress submitting a request involving a constituent when the constituent has requested assistance from the member concerning the subject of the record; the member must provide a copy of the constituent's request for assistance.

6. A record from this system may be disclosed as a routine use for the purpose to investigate, settle a claim, or prepare and conduct litigation to (a) a person representing the Department or assisting in such representation; (b) others involved in the matter, their representatives, and persons assisting such persons; and (c) witnesses, potential witnesses, their representatives and assistants, and any other persons possessing information pertaining to the matter when it is necessary to obtain information or testimony relevant to the matter.

POLICIES AND PRACTICES FOR STORING, RETRIEVING, ACCESSING, RETAINING, AND DISPOSING OF RECORDS IN THE SYSTEM:

STORAGE:

Records may be stored as paper records and electronic data.

RETRIEVABILITY:

Records may be retrieved by the name of the applicant or other personal identifier, such as a Social Security Number.

SAFEGUARDS:

Paper records are maintained in locked cabinets and desks. Electronic records are controlled through established computer procedures within DOE and its representatives and they are password protected. Passwords in DOE computer systems are known only by the system manager. Access is limited to those whose official duties require access to the records.

RETENTION AND DISPOSAL:

Records retention and disposal authorities are contained in the National Archives and Records Administration (NARA) General Records Schedule and DOE records schedules that have been approved by NARA.

SYSTEM MANAGER(S) AND ADDRESS(ES):

Headquarters: Director, Human Resources Management, U.S. Department of Energy, 1000 Independence Ave, SW., Washington, DC 20585.

Field Offices: The Human Resources Directors of the “System Locations” listed above are the system managers for their respective portions of this system.

NOTIFICATION PROCEDURES:

In accordance with the DOE regulation implementing the Privacy Act, title 10, Code of Federal Regulations, part 1008, a request by an individual to determine if a system of records contains information about him/her should be directed to the Director, Headquarters Freedom of Information Act and Privacy Act Division, U.S. Department of Energy, or the Privacy Act Officer at the appropriate address identified above under “System Locations.” The request should include the requester's complete name, time period for which records are sought, and the geographical location(s) where the requester believes the records are located.

RECORD ACCESS PROCEDURES:

Same as Notification procedures above. Records generally are kept at locations where the work is performed. In accordance with the DOE Privacy Act regulation, proper identification is required before a request is processed.

CONTESTING RECORDS PROCEDURES:

Same as Notification procedures above.

RECORD SOURCE CATEGORIES:

The applicant, and applicable management officials, child care subsidy providers, transportation officials, and reports.

SYSTEM EXEMPTED FROM CERTAIN PROVISIONS OF THE ACT:

None.

DOE-18

SYSTEM NAME:

Accounts Payable Financial System.

SECURITY CLASSIFICATION:

Unclassified.

SYSTEM LOCATIONS:

U.S. Department of Energy, Headquarters, 1000 Independence Avenue, SW., Washington, DC 20585.

U.S. Department of Energy, Alaska Power Administration, Federal Records Center, San Point Way, NE., Seattle, WA 98115.

U.S. Department of Energy, NNSA Service Center Albuquerque, PO Box 5400, Albuquerque, NM 87185-5400.

U.S. Department of Energy, Bonneville Power Administration, PO Box 3621, Portland, OR 97208.

U.S. Department of Energy, Chicago Operations Office, 9800 South Cass Avenue, Argonne, IL 60439.

U.S. Department of Energy, Golden Field Office, 1617 Cole Boulevard, Golden, CO 80401.

U.S. Department of Energy, Idaho Operations Office, 850 Energy Drive, Idaho Falls, ID 83404.

U.S. Department of Energy, National Energy Technology Laboratory, (Morgantown), PO Box 880, Morgantown, WV 26507-0880.

U.S. Department of Energy, National Energy Technology Laboratory, (Pittsburgh), PO Box 10940, Pittsburgh, PA 15236-0940.

U.S. Department of Energy, National Petroleum Technology Office, William Center, Tower One, 1 West Third Street, Suite 1400, Tulsa, OK 74103.

U.S. Department of Energy, Naval Petroleum and Oil Shale Reserves, 907 North Poplar, Suite 150, Casper, WY 82601.

U.S. Department of Energy, Naval Petroleum Reserves in California, PO Box 11, Tupman, CA 93276.

U.S. Department of Energy, NNSA Service Center Nevada, PO Box 98518, Las Vegas, NV 89193-8518.

U.S. Department of Energy, Oak Ridge Operations Office, PO Box 2001, Oak Ridge, TN 37831.

U.S. Department of Energy, NNSA Service Center Oakland, 1301 Clay Street, Oakland, CA 94612-5208.

U.S. Department of Energy, Ohio Field Office, PO Box 3020, Miamisburg, OH 45343.

U.S. Department of Energy, Pittsburgh Naval Reactors Office, PO Box 109, West Mifflin, PA 15122-0109.

U.S. Department of Energy, Richland Operations Office, PO Box 550, Richland, WA 99352.

U.S. Department of Energy, Rocky Flats Field Office, 10808 Highway 93, Unit A, Golden, CO 80402-0928.

U.S. Department of Energy, Savannah River Operations Office, PO Box A, Aiken, SC 29808.

U.S. Department of Energy, Schenectady Naval Reactors Office, PO Box 1069, Schenectady, NY 12301-1069.

U.S. Department of Energy, Southeastern Power Administration, 1166 Athens Tech Road, Elberton, GA 30635-4578.

U.S. Department of Energy, Southwestern Power Administration, Williams Tower One, One West Third Street, Tulsa, OK 74103.

U.S. Department of Energy, Strategic Petroleum Reserve Project Office, 900 Commerce Road East, New Orleans, LA 70123.

U.S. Department of Energy, Western Area Power Administration, PO Box 3402, Golden, CO 80401.

U.S. Department of Energy, Office of Repository Development, PO Box 364629, North Las Vegas, NV 89036-8629.

CATEGORIES OF INDIVIDUALS COVERED BY THE SYSTEM:

Creditors who are due money from the Department of Energy (DOE), including employees, former employees, contractors, and members of the general public.

CATEGORIES OF RECORDS IN THE SYSTEM:

Creditors name and address; amount owed and services or goods received; underpayment or other accounting information; invoice number; servicing bank name and address, and account number.

AUTHORITY FOR MAINTENANCE OF THE SYSTEM:

42 U.S.C. 7101 et seq.; 50 U.S.C. 2401 et seq.; the GAO Policy and Procedures Manual; Statement of Federal Financial Accounting Standards published by the General Accounting Office and the Office of Management and Budget.

PURPOSE(S):

The records are maintained and used by the DOE to substantiate obligations and payments to individuals for goods and services received by the agency.

ROUTINE USES OF RECORDS MAINTAINED IN THE SYSTEM, INCLUDING CATEGORIES OF USERS AND THE PURPOSES OF SUCH USES:

1. A record from the system may be disclosed as a routine use to the appropriate local, State or Federal agency when records alone or in conjunction with other information, indicates a violation or potential violation of law whether civil, criminal, or regulatory in nature, and whether arising by general statute or particular program pursuant thereto.

2. A record from this system may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

3. A record from the system may be disclosed as a routine use to a Federal, State, or local agency to obtain information relevant to a Departmental decision concerning the hiring or retention of an employee, the issuance of a security clearance, the reporting of an investigation of an employee, the letting of a contract, or the issuance of a license, grant, or other benefit. The Department must deem such disclosure to be compatible with the purpose for which the Department collected the information.

4. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; and (3) witness, potential witness, or their representatives and assistants, and any other person who possesses information pertaining to the matter, when it is necessary to obtain information or testimony relevant to the matter.

5. A record from the system may be disclosed as a routine use to DOE contractors in performance of their contracts, and their officers and employees who have a need for the record in the performance of their duties. Those provided information under this routine use are subject to the same limitations applicable to DOE officers and employees under the Privacy Act.

6. A record from this system may be disclosed as a routine use to a member of Congress submitting a request involving the constituent when the constituent has requested assistance from the member concerning the subject matter of the record. The member of Congress must provide a copy of the constituent's request for assistance.

POLICIES AND PRACTICES FOR STORING, RETRIEVING, ACCESSING, RETAINING, AND DISPOSING OF RECORDS IN THE SYSTEM:

STORAGE:

Records may be stored as paper, electronic files, and magnetic tapes.

RETRIEVABILITY:

Records may be retrieved by name and personal identification.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Chief Financial Officer, U.S. Department of Energy, 1000 Independence Avenue, SW., Washington, DC 20585.

Field Offices:

The Managers of the “System Locations” listed above are the system managers for their respective portions of this system.

NOTIFICATION PROCEDURES:

In accordance with the DOE regulation implementing the Privacy Act, at title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Subject individual, contracting officer, and accounting records.

SYSTEMS EXEMPTED FROM CERTAIN PROVISIONS OF THE ACT:

None.

DOE-19

SYSTEM NAME:

Accounts Receivable Financial System.

SECURITY CLASSIFICATION:

Unclassified.

SYSTEM LOCATION:

U.S. Department of Energy, Headquarters, 1000 Independence Avenue, SW., Washington, DC 20585.

U.S. Department of Energy, Alaska Power Administration, Federal Records Center, San Point Way, NE., Seattle, WA 98115.

U.S. Department of Energy, NNSA Service Center Albuquerque, PO Box 5400, Albuquerque, NM 87185-5400.

U.S. Department of Energy, Bonneville Power Administration, PO Box 3621, Portland, OR 97208.

U.S. Department of Energy, Chicago Operations Office, 9800 South Cass Avenue, Argonne, IL 60439.

U.S. Department of Energy, Golden Field Office, 1617 Cole Boulevard, Golden, CO 80401-3393.

U.S. Department of Energy, Idaho Operations Office, 850 Energy Drive, Idaho Falls, ID 83401.

U.S. Department of Energy, National Energy Technology Laboratory (Morgantown), PO Box 880, Morgantown, WV 26507-0880.

U.S. Department of Energy, National Energy Technology Laboratory (Pittsburgh), PO Box 10940, Pittsburgh, PA 15122.

U.S. Department of Energy, National Petroleum Technology Office, William Center Tower One, 1 West Third Street, Suite 1400, Tulsa, OK 74103.

U.S. Department of Energy, Naval Petroleum and Oil Shale Reserve, 907 N. Poplar, Suite 150, Casper, WY 82601.

U.S. Department of Energy, Naval Petroleum Reserves in California, PO Box 11, Tupman, CA 93276.

U.S. Department of Energy, NNSA Service Center Nevada, PO Box 98518, Las Vegas, NV 89193-8518.

U.S. Department of Energy, Oak Ridge Operations Office, PO Box 2001, Oak Ridge, TN 37831.

U.S. Department of Energy, NNSA Service Center Oakland, 1301 Clay Street, Suite 700N, Oakland, CA 94612-5208.

U.S. Department of Energy, Ohio Field Office, PO Box 3020, Miamisburg, OH 45343-3020.

U.S. Department of Energy, Pittsburgh Naval Reactors Office, PO Box 10940, West Mifflin, PA 15236-0940.

U.S. Department of Energy, Richland Operations Office, 825 Jadwin Avenue, Federal Building Lobby, Richland, WA 99352.

U.S. Department of Energy, Rocky Flats Field Office, 10808 Highway 93, Unit A, Golden, CO 80402-0928.

U.S. Department of Energy, Savannah River Operations Office, Road 1A, Aiken, SC 29801.

U.S. Department of Energy, Schenectady Naval Reactors Office, PO Box 1069, Schenectady, NY 12301.

U.S. Department of Energy, Southeastern Power Administration, 1166 Athens Tech Road, Elberton, GA 3063-4578.

U.S. Department of Energy, Southwestern Power Administration, Williams Tower One, One West Third Street, Tulsa, OK 74103.

U.S. Department of Energy, Strategic Petroleum Reserve Project Office, 900 Commerce Road East, New Orleans, LA 70123.

U.S. Department of Energy, Western Area Power Administration, PO Box 3402, Golden, CO 80401.

U.S. Department of Energy, Office of Repository Development, PO Box 364629, North Las Vegas, NV 89036-8629.

CATEGORIES OF INDIVIDUALS COVERED BY THE SYSTEM:

Persons owing money to the Department of Energy (DOE).

CATEGORIES OF RECORDS IN SYSTEM:

The following information may be maintained in the system: name, address, telephone number, taxpayer identification number, and other applicable debtor identifying information; invoice number; amount and status of claim; and history of claim, including collection actions taken.

AUTHORITY FOR MAINTENANCE OF THE SYSTEM:

42 U.S.C. 7101 et seq.; 50 U.S.C. 2401 et seq.; Debt Collection Improvement Act of 1996, 31 U.S.C. 3512; 5 U.S.C. 5701-09; Federal Property Management Regulations 101-107; Treasury Financial Manual; Executive Order 12009; and Executive Order 9397.

PURPOSE(S):

The records are maintained and used by the DOE to record and manage the Department's accounts receivables.

ROUTINE USES OF RECORDS MAINTAINED IN THE SYSTEM, INCLUDING CATEGORIES OF USERS AND THE PURPOSE OF SUCH USES:

1. A record from this system may be disclosed as a routine use to other Federal agencies, consumer reporting agencies for acquiring credit information, and collection agencies to aid in the collection of outstanding debts owed to the Federal Government.

2. A record from this system may be disclosed as a routine use to Defense Manpower Data Center, Department of Defense, the United States Postal Service, and the other Federal, State, or local agencies to identify and locate, through computer matching, individuals indebted to DOE who are receiving Federal salaries or benefit payments. Information from the match will be used to collect the debts by voluntary repayment, by administrative offset, or by salary offset procedures.

3. A record from this system may be disclosed as a routine use to the Internal Revenue Service (1) to collect the debt by offset against the debtor's tax refunds under the Federal Tax Refund Offset Program, and (2) to obtain the mailing address of a taxpayer to collect a debt owed to the DOE. Subsequent disclosure by DOE to a consumer reporting agency is limited to the purpose of obtaining a commercial credit report on the particular taxpayer. The mailing address information will not be used for any other DOE purpose or disclosed by DOE to another Federal, State, or local agency which seeks to locate the same individual for its own debt collection purpose.

4. A record from this system may be disclosed as a routine use to the Department of the Treasury for the purpose of administrative offset and debt recovery under section 31001 (m)(1) of the Debt Collection Improvement Act of 1996 (Pub. L. 104-134).

5. A record from this system may be disclosed as a routine use to a “consumer reporting agency” as defined by the Fair Credit Reporting Act, 15 U.S.C. 1681a(f), or the Federal Claims Collections Act of 1966, 31 U.S.C. 3701(a)(3), in accordance with 31 U.S.C. 3711(f).

POLICIES AND PRACTICES FOR STORING, RETRIEVING, ACCESSING, RETAINING, AND DISPOSING OF RECORDS IN THE SYSTEM:

STORAGE:

Records may be stored as paper records and electronic media.

RETRIEVABILITY:

Records may be retrieved by name, taxpayer identification number, or invoice number.

RETENTION AND DISPOSAL:

Records retention and disposal authorities are contained in the National Archives and Records Administration (NARA) General Records Schedule and DOE record schedules that have been approved by NARA.

SYSTEM MANAGER(S) AND ADDRESS:

Headquarters: Chief Financial Officer, U.S. Department of Energy, 1000 Independence Avenue, SW., Washington, DC 20585.

Field Offices: The Chief Financial Officers of the “System Locations” listed above are the system managers for their respective portions of this system.

NOTIFICATION PROCEDURES:

In accordance with the DOE regulation implementing the Privacy Act, at title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The individual who is the subject of the record; contracting officer, where applicable; and accounting records.

SYSTEM EXEMPTED FROM CERTAIN PROVISIONS OF THE ACT:

None.

DOE-21

SYSTEM NAME:

Emergency Defense Mobilization Files.

SECURITY CLASSIFICATION:

Unclassified.

SYSTEM LOCATION:

U.S. Department of Energy, Headquarters, Office of Emergency Operations, 1000 Independence Avenue, SW., Washington, DC 20585.

CATEGORIES OF INDIVIDUALS COVERED BY SYSTEM:

Members of the National Defense Executive Reserve and other individuals assigned responsibilities in the event of a national defense emergency.

CATEGORIES OF RECORDS IN THE SYSTEM:

The following information may be maintained in the system: name, home address, home telephone number, and e-mail address.

AUTHORITY FOR MAINTENANCE OF THE SYSTEM:

42 U.S.C. 7101 et seq.; 50 U.S.C. 2401 et seq.; Defense Production Act of 1950.

PURPOSE(S):

The records are maintained and used by the Department of Energy (DOE) to facilitate security clearance information for prompt re-assignment in the event of a reservist call-up and activation.

ROUTINE USES OF RECORDS MAINTAINED IN THE SYSTEM, INCLUDING CATEGORIES OF USERS AND PURPOSES OF SUCH USES:

1. A record from this system may be disclosed as a routine use to officials of other departments and agencies to administer the National Defense Executive Reserve Program.

2. A record from the system may be disclosed as a routine use to DOE contractors in performance of their contracts, and their officers and employees who have a need for the record in the performance of their duties. Those provided information under this routine use are subject to the same limitations applicable to DOE officers and employees under the Privacy Act.

POLICIES AND PRACTICES FOR STORING, RETRIEVING, ACCESSING, RETAINING, AND DISPOSING OF RECORDS IN THE SYSTEM:

STORAGE:

Records are stored as paper records.

RETRIEVABILITY:

Records may be retrieved by name.

SAFEGUARDS:

Paper records are maintained in locked cabinets and desks. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Emergency Operations, U.S. Department of Energy, NNSA, 1000 Independence Avenue, SW., Washington, DC 20585.

NOTIFICATION PROCEDURES:

In accordance with the DOE regulation implementing the Privacy Act, at title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The subject individual.

SYSTEM EXEMPTED FROM CERTAIN PROVISIONS OF THE ACT:

None.

DOE-23

SYSTEM NAME:

Property Accountability System.

SECURITY CLASSIFICATION:

Unclassified.

SYSTEM LOCATION:

U.S. Department of Energy, Headquarters, Office of Management Budget and Evaluation, 1000 Independence Avenue, SW., Washington, DC 20585.

U.S. Department of Energy, Bonneville Power Administration, PO Box 3621, Portland, OR 97208.

U.S. Department of Energy, National Energy Technology Laboratory, (Pittsburgh) PO Box 10940, Pittsburgh, PA 15236-0940.

U.S. Department of Energy, Richland Operations Office, PO Box 550, Richland, WA 99352.

U.S. Department of Energy, Rocky Flats Field Office, 10808 Highway 93, Unit A, Golden, CO 80403-8200.

U.S. Department of Energy, Southeastern Area Power Administration, 2 S. Public Square, Elberton, GA 30635-2496.

U.S. Department of Energy, Southwestern Power Administration, Williams Tower One, One West Third Street, Tulsa, OK 74103.

U.S. Department of Energy, Western Area Power Administration, PO Box 3402, Golden, CO 80401.

CATEGORIES OF INDIVIDUALS COVERED BY THE SYSTEM:

Department of Energy (DOE) and National Nuclear Security Administration (NNSA) employees, and contractor employees authorized to be custodians of controlled DOE equipment.

CATEGORIES OF RECORDS IN THE SYSTEM:

Item description, date of purchase, acquire date, purchase price, purchase order number, vendor and manufacturer, model/serial/license number, property tag identification, status/date, condition of property, operation number, high risk field, disposal code, responsible officer, the employees' assigned equipment, account numbers, organization, organization code, and location.

AUTHORITY FOR MAINTENANCE OF THE SYSTEM:

42 U.S.C. 7101 et seq.; 50 U.S.C. 2401 et seq.; Federal Property and Administrative Services Act of 1949, section 202(b), 40 U.S.C. 483(b); and 41 CFR part 109, Federal Property Management Regulation (FPMR), Subchapter E, part 109.

PURPOSE(S):

The records are maintained and used by the DOE to (a) provide inventories to satisfy other Federal Procurement Management Regulation requirements; (b) to maintain a record of location of emergency equipment; (c) to control equipment assignments authorized under union contracts; (d) to provide management information necessary for the budgeting and allocation of equipment; and (e) to provide evidence of assignment, location, and value in the event that government property is stolen.

ROUTINE USES OF RECORDS MAINTAINED IN THE SYSTEM, INCLUDING CATEGORIES OF USERS AND THE PURPOSES OF SUCH USES:

1. A record from this system may be disclosed as a routine use to any law enforcement agency as needed to provide evidence of assignment, location, and value in the event that Government property is stolen.

2. A record from the system may be disclosed as a routine use to the appropriate local, State or Federal agency when records alone or in conjunction with other information, indicates a violation or potential violation of law whether civil, criminal, or regulatory in nature, and whether arising by general statute or particular program pursuant thereto.

3. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; and (3) witness, potential witness, or their representatives and assistants, and any other person who possess information pertaining to the matter when it is necessary to obtain information or testimony relevant to the matter.

4. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity or in any individual capacity where the Department or other United States Government agency has agreed to represent the employee.

5. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

6. A record from this system may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

7. A record from the system may be disclosed as a routine use to DOE contractors in performance of their contracts, and their officers and employees who have a need for the record in the performance of their duties. Those provided information under this routine use are subject to the same limitations applicable to DOE officers and employees under the Privacy Act.

8. A record from this system of records may be disclosed as a routine use to a member of Congress submitting a request involving the constituent when the constituent has requested assistance from the member concerning the subject matter of the record. The member of Congress must provide a copy of the constituent's request for assistance.

POLICIES AND PRACTICES FOR STORING, RETRIEVING, ACCESSING, RETAINING AND DISPOSING OF RECORDS IN THE SYSTEM:

STORAGE:

Records may be stored as paper records, microfilm, and electronic media.

RETRIEVABILITY:

Records may be retrieved by tag number, license number, custodian name, employee identification number, position number, accounting information, catalog number, contract number, make, model, security logon identification, serial number, and storage location.

SAFEGUARDS:

Paper records and microfilm are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

U.S. Department of Energy, Bonneville Power Administration, PO Box 3621, Portland, OR 97208.

U.S. Department of Energy, National Energy Technology Laboratory (Pittsburgh), PO Box 10940, Pittsburgh, PA 15236-0940.

U.S. Department of Energy, Richland Operations Office, PO Box 550, Richland, WA 99352.

U.S. Department of Energy, Southeastern Area Power Administration, 2 S. Public Square, Elberton, GA 30635-2496.

U.S. Department of Energy, Southwestern Power Administration, Williams Tower One, One West Third Street, Tulsa, OK 74103.

U.S. Department of Energy, Western Area Power Administration, PO Box 3402, Golden, CO 80401.

NOTIFICATION PROCEDURES:

In accordance with the DOE regulation implementing the Privacy Act, at title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Information in this system comes from the Payroll/Personnel system application, various internal Bonneville Power Administrative forms, accountable property representative and employees, data processing personnel, and supply officers.

SYSTEM EXEMPTED FROM CERTAIN PROVISIONS OF THE ACT:

None.

DOE-24

SYSTEM NAME:

Land Records System.

SECURITY CLASSIFICATION:

Unclassified.

SYSTEM LOCATION:

U.S. Department of Energy, Bonneville Power Administration, Information Resources, PO Box 3621, Portland, OR 97208.

U.S. Department of Energy, Western Area Power Administration, PO Box 3402, Golden, CO 80401.

CATEGORIES OF INDIVIDUALS COVERED BY THE SYSTEM:

Individuals from whom or to whom Western Area Power Administration and Bonneville Power Administration have acquired or given interests in land.

CATEGORIES OF RECORDS IN THE SYSTEM:

Individual, agency, and/or company names; description of land tract, type of agreement; rights granted or received; history of the transaction, and IRS Form 1099 information.

AUTHORITY FOR MAINTENANCE OF THE SYSTEM:

42 U.S.C. 7101 et seq. and 50 U.S.C. 2401 et seq.

PURPOSE(S):

The records are maintained and used by the DOE to track land rights information resulting from property right acquisitions out grants, licenses, transfer, exchanges, encroachments and disposals in support of Western Power Administration and Bonneville Power Administration construction and maintenance programs.

ROUTINE USES OF RECORDS MAINTAINED IN THE SYSTEM, INCLUDING CATEGORIES OF USERS AND THE PURPOSES OF SUCH USES:

1. A record from this system may be disclosed as a routine use for the purpose of an investigation, settlement of claims, or the preparation and conduct of litigation to (1) a person representing the Department or assisting in such representation; (2) others involved in the matter, their representatives and persons assisting such persons; and (3) witnesses, potential witnesses, their representatives and assistants, and any other persons possessing information pertaining to the matter when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractor of the Department, or other United States Government agencies and their components, or

(b) A current or former employee of the Department and its predecessor agencies, current or former contractors of the Department, or other United States Government agencies and their components, who is acting in an official capacity or in any individual capacity where the Department or other United States Government agency has agreed to represent the employee.

3. A record from the system may be disclosed as a routine use to DOE contractors in performance of their contracts, and their officers and employees who have a need for the record in the performance of their duties. Those provided information under this routine use are subject to the same limitations applicable to DOE officers and employees under the Privacy Act.

4. A record from the system may be disclosed as a routine use to the Internal Revenue Service to provide notification of individuals who have received payment exceeding $600 on any one land right transaction.

5. A record from the system may be disclosed as a routine use to the Department of Justice to provide support of land right condemnation actions.

6. A record from the system may be disclosed as a routine use to courts and attorneys for the purpose of land right settlement disputes or litigation.

7. A record from the system may be disclosed as a routine use to the appropriate local, State or Federal agency when records alone or in conjunction with other information, indicates a violation or potential violation of law whether civil, criminal, or regulatory in nature, and whether arising by general statute or particular program pursuant thereto.

POLICIES AND PRACTICES FOR STORING, RETRIEVING, ACCESSING, RETAINING, AND DISPOSING OF RECORDS IN THE SYSTEM:

STORAGE:

Records may be stored as paper records, microfilm, and electronic media.

RETRIEVABILITY:

Records may be retrieved by line identification, personal identification, cross referenced by name of landowner, grantee, or grantor.

SAFEGUARDS:

Paper records and microfilm are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Bonneville Power Administration: Manager, Real Estate, Bonneville Power Administration, U.S. Department of Energy, PO Box 3621, Portland, OR 97208.

Western Area Power Administration: Director, Division of Lands, Western Area Power Administration, U.S. Department of Energy, PO Box 3402, Golden, CO 80401.

NOTIFICATION PROCEDURES:

In accordance with the DOE regulation implementing the Privacy Act, at title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Information in this system comes from individual landowners, grantees, or grantors; agency officials; and state and local authorities.

SYSTEM EXEMPTED FROM CERTAIN PROVISIONS OF THE ACT:

None.

DOE-25

SYSTEM NAME:

Commuter Locator and Parking Space Information System.

SECURITY CLASSIFICATION:

Unclassified.

SYSTEM LOCATION:

U.S. Department of Energy, 1000 Independence Avenue, SW., Washington, DC 20585.

CATEGORIES OF INDIVIDUALS COVERED BY THE SYSTEM:

All Department of Energy (DOE) and National Nuclear Security Administration (NNSA) employees, and contractor employees who apply as members of a car pool or van pool for parking spaces managed and controlled by DOE under the general direction of the General Services Administration.

CATEGORIES OF RECORDS IN THE SYSTEM:

Name of driver and car or van pool members, federal service computation date, payroll and other assigned number, office address and telephone number, home addresses, home telephone numbers, make and year of automobile, state of registration, tag number of vehicles, number of days per week in the car pool or van pool, and other car pooling or van pooling information.

AUTHORITY FOR MAINTENANCE OF THE SYSTEM:

42 U.S.C. 7101 et seq.; 50 U.S.C. 2401 et seq.; Executive Order 12778; DOE HQ 0344.1 Parking.

PURPOSE(S):

Records are maintained and used by DOE to maintain information of existing car pools, van pools, and other categories of parking, in order to keep a current record on employees who commute to work.

ROUTINE USES OF RECORDS MAINTAINED IN THE SYSTEM, INCLUDING CATEGORIES OF USERS AND THE PURPOSES OF SUCH USES:

1. A record from this system may be disclosed as a routine use to the Council of Governments for commuter connections.

2. A record from this system may be disclosed as a routine use to individuals seeking to car pool or van pool operating from their community or residential area.

3. A record from the system may be disclosed as a routine use to DOE contractors in performance of their contracts, and their officers and employees who have a need for the record in the performance of their duties. Those provided information under this routine use are subject to the same limitations applicable to DOE officers and employees under the Privacy Act.

4. A record from the system may be disclosed as a routine use to the appropriate local, State or Federal agency when records alone or in conjunction with other information, indicates a violation or potential violation of law whether civil, criminal, or regulatory in nature, and whether arising by general statute or particular program pursuant thereto.

POLICIES AND PRACTICES FOR STORING, RETRIEVING, ACCESSING, RETAINING, AND DISPOSING OF RECORDS IN THE SYSTEM:

STORAGE:

Records may be stored as paper records and electronic media.

RETRIEVABILITY:

Records may be retrieved by name, location of parking assignment, home address, assigned number, and license number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director of Building Operations, U.S. Department of Energy, 1000 Independence Avenue, SW., Washington, DC 20585.

NOTIFICATION PROCEDURES:

In accordance with the DOE regulation implementing the Privacy Act, at title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

SYSTEM EXEMPTED FROM CERTAIN PROVISIONS OF THE ACT:

None.

RECORD SOURCE CATEGORIES:

Individual car poolers and van poolers.

DOE-26

SYSTEM NAME:

Official Travel Records.

SECURITY CLASSIFICATION:

Unclassified.

SYSTEM LOCATION:

U.S. Department of Energy, Headquarters, 1000 Independence Avenue, SW., Washington, DC 20585.

U.S. Department of Energy, Alaska Power Administration, Federal Records Center, San Point Way, NE 98115.

U.S. Department of Energy, NNSA Service Center Albuquerque, PO Box 5400, Albuquerque, NM 87185-5400.

U.S. Department of Energy, Bonneville Power Administration, PO Box 3621, Portland, OR 97208.

U.S. Department of Energy, Chicago Operations Office, 9800 South Cass Avenue, Argonne, IL 60439.

U.S. Department of Energy, Idaho Operations Office, 850 Energy Drive, Idaho Falls, ID 83401.

U.S. Department of Energy, National Energy Technology Center (Morgantown), PO Box 880, Morgantown, WV 26507-0880.

U.S. Department of Energy, National Energy Technology Center (Pittsburgh), PO Box 10940, Pittsburgh, PA 15236-0940.

U.S. Department of Energy, National Petroleum Technology Office, William Tower Center One, 1 West Third Street, Suite 1400, Tulsa, OK 74103.

U.S. Department of Energy, Naval Petroleum and Oil Shale Reserves in Colorado, Utah, and Wyoming, 907 North Poplar, Suite 150, Casper, WY 82601.

U.S. Department of Energy, Naval Petroleum Reserves in California, 28950 Highway 119, PO Box 11, Tupman, CA 93276.

U.S. Department of Energy, NNSA Service Center Nevada, PO Box 98518, Las Vegas, NV 89193-8518.

U.S. Department of Energy, Oak Ridge Operations Office, PO Box 2001, Oak Ridge, TN 37831.

U.S. Department of Energy, NNSA Service Center Oakland, 1301 Clay Street, Oakland, CA 94612-5208.

U.S. Department of Energy, Ohio Field Office, 1 Mound Road, Miamisburg, OH 45342.

U.S. Department of Energy, Pittsburgh Naval Reactors, PO Box 109, West Mifflin, PA 15122-0109.

U.S. Department of Energy, Richland Operations Office, PO Box 550, Richland, WA 99352.

U.S. Department of Energy, Rocky Flats Field Office, 10808 Highway 93, Unit A, Golden, CO 80403-8200.

U.S. Department of Energy, Savannah River Operations Office, PO Box A, Aiken, SC 29808.

U.S. Department of Energy, Schenectady Naval Reactors Office, PO Box 1069, Schenectady, NY 12301-1069.

U.S. Department of Energy, Southeastern Power Administration, 1166 Athens Tech Road, Elberton, GA 30635-4578.

U.S. Department of Energy, Southwestern Power Administration, Williams Tower One, One West Third Street, Tulsa, OK 74103.

U.S. Department of Energy, Strategic Petroleum Reserve Project Office, 900 Commerce Road East, New Orleans, LA 70123.

U.S. Department of Energy, Western Area Power Administration, PO Box 3402, Golden, CO 80401.

U.S. Department of Energy, Office of Repository Development, PO Box 364629, North Las Vegas, NV 89036-8629.

CATEGORIES OF INDIVIDUALS COVERED BY THE SYSTEM:

Individuals who travel or relocate at the expense of DOE.

CATEGORIES OF RECORDS IN THE SYSTEM:

Name, address, telephone number, social security number, travel itinerary, mode and purpose of travel, advance amount, expenses claimed, amounts reimbursed, charge card account numbers, residential sales records, and receipts.

AUTHORITY FOR MAINTENANCE OF THE SYSTEM:

42 U.S.C. 7101 et seq.; 50 U.S.C. 2401 et seq.; 5 U.S.C. 301; 5 U.S.C. Chapter 57; Policy and Procedures Manual for Guidance of Federal Agencies, Titles 3 and 4; Federal Travel Regulation; Federal Property Management Regulations 101-41; Department of Energy Order DOE 1500.2A, Travel Policy and Procedures.

PURPOSE(S):

The records are maintained and used by DOE to document official domestic and foreign travel and relocation expenditures and to support reimbursement of allowable expenses.

ROUTINE USES OF RECORDS MAINTAINED IN THE SYSTEM, INCLUDING CATEGORIES OF USERS AND THE PURPOSES OF SUCH USES:

1. A record from this system may be disclosed as a routine use to the U.S. Treasury for payment of claim.

2. A record from this system may be disclosed as a routine use to the U.S. General Accounting Office for audit and verification of accuracy and legality of disbursements.

3. A record from this system may be disclosed as a routine use to the Internal Revenue Service for notification regarding taxable reimbursements.

4. A record from this system may be disclosed as a routine use to the General Services Administration for audit of transportation services.

5. A record from the system may be disclosed as a routine use to DOE contractors in performance of their contracts, and their officers and employees who have a need for the record in the performance of their duties. Those provided information under this routine use are subject to the same limitations applicable to DOE officers and employees under the Privacy Act.

6. A record from the system may be disclosed as a routine use to the appropriate local, State or Federal agency when records alone or in conjunction with other information, indicates a violation or potential violation of law whether civil, criminal, or regulatory in nature, and whether arising by general statute or particular program pursuant thereto.

POLICIES AND PRACTICES FOR STORING, RETRIEVING, ACCESSING, RETAINING, AND DISPOSING OF RECORDS IN THE SYSTEM:

STORAGE:

Records may be stored as paper records and electronic media.

RETRIEVABILITY:

Records may be retrieved by name, social security number, and travel authorization number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Chief Financial Officer, U.S. Department of Energy, 1000 Independence Avenue, SW., Washington, DC 20585.

Field Offices: The Managers of the “System Locations” listed above are the system managers for their respective portions of this system.

NOTIFICATION PROCEDURES:

In accordance with the DOE regulation implementing the Privacy Act, at title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office location(s) where the requester believes the records are located.

RECORDS ACCESS PROCEDURES:

Same as Notification Procedures above. Records are generally kept at locations where the work is performed. In accordance with the DOE Privacy Act regulation, identification is required before a request is processed.

CONTESTING RECORD PROCEDURES:

Same as Notification Procedures above.

RECORD SOURCE CATEGORIES:

Individual travelers, supervisors, Government travel offices, and finance office standard references.

SYSTEM EXEMPTED FROM CERTAIN PROVISIONS OF THE ACT:

None.

DOE-27

SYSTEM NAME:

Foreign Travel Management System (FTMS).

SECURITY CLASSIFICATION:

Unclassified.

SYSTEM LOCATION:

U.S. Department of Energy, Germantown, 19901 Germantown Road, Germantown, MD 20874-1290.

CATEGORIES OF INDIVIDUALS COVERED BY THE SYSTEM:

DOE employees and contractor employees authorized to travel to foreign countries on official business.

CATEGORIES OF RECORDS IN THE SYSTEM:

Background data relating to proposed foreign travel; travel itinerary; expenses; and summary report following completion of travel.

AUTHORITY FOR MAINTENANCE OF THE SYSTEM:

42 U.S.C. 7101 et seq.; 50 U.S.C. 2401 et seq.; 5 U.S.C. chapter 3, sec. 301; 5 U.S.C. chapter 57; Federal Travel Regulation; Department of Energy Order 1500.2A, “Travel Policy and Procedures”; Department of Energy Order DOE 551.1A, “Official Foreign Travel.”

PURPOSE(S):

The records are maintained and used by DOE to document all official foreign travel, by DOE employees and contractor employees, approvals and expenditures.

ROUTINE USES OF RECORDS MAINTAINED IN THE SYSTEM, INCLUDING CATEGORIES OF USERS AND THE PURPOSES OF SUCH USES:

1. A record from this system may be disclosed as a routine use to the General Service Administration for verification of transportation services.

2. A record from the system may be disclosed as a routine use to DOE contractors in performance of their contracts, and their officers and employees who have a need for the record in the performance of their duties. Those provided information under this routine use are subject to the same limitations applicable to DOE officers and employees under the Privacy Act.

3. A record from this system may be disclosed as a routine use to the Department of State for purpose of obtaining foreign country clearance for the traveler.

4. A record from the system may be disclosed as a routine use to the appropriate local, State or Federal agency when records alone or in conjunction with other information, indicates a violation or potential violation of law whether civil, criminal, or regulatory in nature, and whether arising by general statute or particular program pursuant thereto.

POLICIES AND PRACTICES FOR STORING, RETRIEVING, ACCESSING, RETAINING, AND DISPOSING OF RECORDS IN THE SYSTEM:

STORAGE:

Records may be stored as paper records and electronic media.

RETRIEVABILITY:

Records may be retrieved by name, social security number, and travel authorization number.

SAFEGUARDS:

Paper records are maintained in locked cabinets and desks. Electronic records are controlled through established DOE computer center procedures (Personnel screening and physical security), and they are password protected. Access is limited to those whose official duties require access to the records.

RETENTION AND DISPOSAL:

Records retention and disposals authorities are contained in the National Archives and Records Administration (NARA) General Records Schedule and DOE record schedules that have been approved by NARA.

SYSTEM MANAGER(S) AND ADDRESS:

U.S. Department of Energy, Director, Office of Security, 1000 Independence Avenue, SW., Washington, DC 20585.

NOTIFICATION PROCEDURES:

In accordance with DOE regulation implementing the Privacy Act, title 10, Code of Federal Regulations, part 1008, a request by an individual to determine if a system of records contains information about him/her should be directed to the Director, Headquarters Freedom of Information and Privacy Act Group, U. S. Department of Energy, or the Privacy Act Officer at the appropriate address identified above under “System Locations.” The request should include the requester's complete name, time period for which records are sought, and the office location(s) where the requester believes the records are located.

RECORDS ACCESS PROCEDURES:

Same as notification procedures above. Paper records are generally kept at locations where the work is performed. In accordance with the DOE Privacy Act regulation, identification is required before a request is processed.

CONTESTING RECORD PROCEDURES:

Same as Notification procedures above.

RECORD SOURCE CATEGORIES:

Individual travelers, supervisors, and travel offices.

SYSTEM EXEMPTED FROM CERTAIN PROVISIONS OF THE ACT:

None.

DOE-28

SYSTEM NAME:

General Training Records.

SECURITY CLASSIFICATION:

Unclassified.

SYSTEM LOCATION:

U.S. Department of Energy, Headquarters, Forrestal Building, 1000 Independence Avenue, SW., Washington, DC 20585.

U.S. Department of Energy, Headquarters, Germantown, 19901 Germantown Road, Germantown, MD 20585.

U.S. Department of Energy, Alaska Power Administration, Federal Records Center, San Point Way, NE Seattle WA, 98115.

U.S. Department of Energy, NNSA Service Center Albuquerque, PO Box 5400, Albuquerque, NM 87185-5400.

U.S. Department of Energy, Office of Amarillo Site Operations, PO Box 30030, Amarillo, TX 79120-0030.

U.S. Department of Energy, Atlanta Support Office, 730 Peachtree, NE, Suite 876, Atlanta, GA 30308.

U.S. Department of Energy, Bonneville Power Administration, PO Box 3621, Portland, OR 97208.

U.S. Department of Energy, Bonneville Power Administration, Lower Columbia Area, 1500 NE Irving Street, Portland, OR 97232.

U.S. Department of Energy, Bonneville Power Administration, Puget Sound Area, 201 Queen Ann Avenue, N., Suite 400, PO Box C-19030, Seattle, WA 98109-1030.

U.S. Department of Energy, Bonneville Power Administration, Snake River Area, 101 West Poplar, Walla Walla, WA 99362.

U.S. Department of Energy, Bonneville Power Administration, Upper Columbia Area, Room 561, U.S. Court House, W. 920 Riverside Avenue, Spokane, WA 99201.

U.S. Department of Energy, Boston Support Office, One Congress Street, Room 1101, Boston, MA 02114-2021.

U.S. Department of Energy, Chicago Operations Office, 9800 South Cass Avenue, Argonne, IL 60439.

U.S. Department of Energy, Continuous Electron Beam Accelerator Facility, 12000 Jefferson Avenue, Newport News, VA 23606.

U.S. Department of Energy, Dallas Support Office, 1420 W. Mockingbird Lane, Suite 400, Dallas, TX 75247.

U.S. Department of Energy, Dayton Area Office, PO Box 66, Miamisburg, OH 45342-0066.

U.S. Department of Energy, Denver Support Office, 2801 Youngfield Street, Suite 380, Golden, CO 80401-2266.

U.S. Department of Energy, Fernald Field Office, 7400 Willey Road, Cincinnati, OH 45030.

U.S. Department of Energy, Golden Field Office, 1617 Cole Boulevard, Golden, CO 80401.

U.S. Department of Energy, Idaho Operations Office, 850 Energy Drive, Idaho Falls, ID 83401.

U.S. Department of Energy, The Office of Kansas City Site Office, PO Box 410202, Kansas City, MO 64141-0202.

U.S. Department of Energy, Kansas City Support Office, 911 Walnut Street, Room 1411, Kansas City, MO 64106.

U.S. Department of Energy, Sandia Site Office. PO Box 5400, Albuquerque, NM 87185-5400.

U.S. Department of Energy, Los Alamos Site Office, 528 35th Street, Los Alamos, NM 87544.

U.S. Department of Energy, University of California, Los Alamos National Laboratory, PO Box 1663, Los Alamos, NM 87545.

U.S. Department of Energy, Metairie Site Office, 900 Commerce Road, East, New Orleans, LA 70123.

U.S. Department of Energy, National Energy Technology Laboratory (Morgantown), PO Box 880, Morgantown, WV 26507-0880.

U.S. Department of Energy, National Energy Technology Laboratory (Pittsburgh), PO Box 10940, Pittsburgh, PA 15236-0940.

U.S. Department of Energy, National Petroleum Technology Office, William Center Tower One, 1 West Third Street, Suite 1400, Tulsa, OK 74103.

U.S. Department of Energy, NNSA Service Center Nevada, PO Box 98518, Las Vegas, NV 89193-8518.

U.S. Department of Energy, New York Support Office, 26 Federal Plaza, Room 3437, New York, NY 10278-0068.

U.S. Department of Energy, Oak Ridge Operations Office, PO Box 2001, Oak Ridge, TN 37831.

U.S. Department of Energy, NNSA Service Center Oakland, 1301 Clay Street, Oakland, CA 94612-5208.

U.S. Department of Energy, Office of Scientific and Technical Information, PO Box 62, Oak Ridge, TN 37831.

U.S. Department of Energy, Office of Superconducting Super Collider, 2550 Beckleymeade Avenue, MS 1020, Dallas, TX 75237-3946.

U.S. Department of Energy, Ohio Field Office, I Mound Road, Miamisburg, OH 45342.

U.S. Department of Energy, Philadelphia Support Office, 1880 John F. Kennedy Blvd., Ste. 501, Philadelphia, PA 19103-7483.

US. Department of Energy, Phoenix Area Office, PO Box 6457, Phoenix, AZ 85005.

U.S. Department of Energy, Pittsburgh Naval Reactors Office, PO Box 109, West Mifflin, PA 15122-0109.

U.S. Department of Energy, Pittsburgh Naval Reactors Office, Idaho Branch Office, PO Box 2469, Idaho Falls, ID 83403-2469.

U.S. Department of Energy, Richland Operations Office, 825 Jadwin Avenue, PO Box 550, Richland, WA 99352.

U.S. Department of Energy, Rocky Flats Field Office, 10808 Highway 93, Unit A, Golden, CO 80403-8200.

U.S. Department of Energy, Savannah River Operations Office, PO Box A, Aiken, SC 29801.

U.S. Department of Energy, Schenectady Naval Reactors Office, PO Box 1069, Schenectady, NY 12301.

U.S. Department of Energy, Seattle Support Office, 800 Fifth Avenue, Suite 3950, Seattle, WA 98104.

U.S. Department of Energy, Southeastern Power Administration, 1166 Athens Tech Road, Elberton, GA 30635-4578.

U.S. Department of Energy, Southwestern Power Administration, Williams Tower One, One West Third Street, Tulsa, OK 74103.

U.S. Department of Energy, Strategic Petroleum Reserve Project Office, 900 Commerce Road East, New Orleans, LA 70123.

U.S. Department of Energy, Western Area Power Administration, PO Box 3402, Golden, CO 80401.

U.S. Department of Energy, Western Area Power Administration, Billings Area Office, PO Box 35800, Billings, MT 59107-5800.

U.S. Department of Energy, Western Area Power Administration, Loveland Area Office, PO Box 3700, Loveland, CO 80539-3003.

U.S. Department of Energy, Western Area Power Administration, Salt Lake City Area Office, PO Box 11606, Salt Lake City, UT 84147-0606.

U.S. Department of Energy, Office of Repository Development, PO Box 364629, North Las Vegas, NV 89036-8629.

CATEGORIES OF INDIVIDUALS COVERED BY THE SYSTEM:

All Department of Energy (DOE) Federal Employees including National Nuclear Security Administration (NNSA) employees.

CATEGORIES OF RECORDS IN THE SYSTEM:

Name; resume; assigned number; occupational series; training requests and authorizations; grade; organization; date of birth; social security number; home address and telephone number; special interest area, education completed; course name; justification for attending the course; direct and indirect costs of training; coded information dealing with purpose, type, source of training; training evaluations; course evaluation forms; training examinations; training attendance records; lesson plans; training assignment sheets; reading assignment sheets; position qualification statement; self study sheet; position descriptions; accounting records; and quarterly training report.

AUTHORITY FOR MAINTENANCE OF THE SYSTEM:

42 U.S.C. 7101 et seq.; 50 U.S.C. 2401 et seq.; Nuclear Waste Policy Act of 1982 (Pub. L. 97-425); Nuclear Waste Policy Amendment Act of 1987 (Pub. L. 100-203); Government Employees Training Act of 1958; and 5 CFR parts 410 and 412,

PURPOSE(S):

Records are maintained and used by the Department to document planning, completion, funding and effectiveness of employee training and development. Appropriate local, State and Federal agencies use certain records maintained in this system to ensure Departmental compliance with other regulatory requirements.

ROUTINE USES OF RECORDS MAINTAINED IN THE SYSTEM, INCLUDING CATEGORIES OF USERS AND THE PURPOSES OF SUCH USES:

1. A record from this system may be disclosed as a routine use to Federal agencies, including the Office of Personnel Management, for purposes of determining eligibility or suitability for training and as source documents for training reports; to training institutions that personnel have requested to attend; and to other Federal agencies as necessary for payment of training.

2. A record from this system may be disclosed as a routine use to state and local governments, the Nuclear Regulatory Commission (NRC), and other Federal agencies that conduct research, investigations, or audits to determine whether DOE and contractor personnel satisfy quality assurance requirements for activities necessary to obtain a license from the NRC for the construction, operation and closing of a nuclear waste repository and/or a Monitored Retrievable Storage facility. These activities also will include research and development, site characterization, transportation, waste packaging, handling, design, maintenance, performance confirmation, inspection, fabrication, and development and production of repository waste forms.

3. A record from this system may be disclosed as a routine use to Federal, state or local government officials where the regulatory program being implemented is applicable to the DOE or contractor program and requires that such access be provided for the conduct of the regulatory agencies' activities. Those provided information under this routine use are subject to the same limitations applicable to DOE officers and employees under the Privacy Act.

4. A record from the system may be disclosed as a routine use to the appropriate local, State or Federal agency when records alone or in conjunction with other information, indicates a violation or potential violation of law whether civil, criminal, or regulatory in nature, and whether arising by general statute or particular program pursuant thereto.

POLICIES AND PRACTICES FOR STORING, RETRIEVING, ACCESSING, RETAINING, AND DISPOSING OF RECORDS IN THE SYSTEM:

STORAGE:

Records may be stored as paper records and electronic media.

RETRIEVABILITY:

Records may be retrieved by name and social security number.

SAFEGUARDS:

Paper records are maintained in locked cabinets and desks. Electronic records are controlled through established DOE computer center procedures (personnel screening and physical security), and they are password protected. Passwords are known only by the system manager. Access is limited to those whose official duties require access to the record.

RETENTION AND DISPOSAL:

Records retention and disposal authorities are contained in the National Archives and Records Administration (NARA) General Records Schedule and DOE record schedules that have been approved by NARA.

SYSTEM MANAGER(S) AND ADDRESS:

Headquarters: Director, Training and Human Resource Development, U.S. Department of Energy, 1000 Independence Avenue, SW., Washington, DC 20585-0702.

Field Offices: The Managers and Directors of the “System Locations” listed above are the system managers for their respective portions of this system.

NOTIFICATION PROCEDURES:

In accordance with the DOE regulation implementing the Privacy Act, at title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The subject individuals and their supervisors.

SYSTEM EXEMPTED FROM CERTAIN PROVISIONS OF THE ACT:

None.

DOE-31

SYSTEM NAME:

Firearms Qualification Records.

SECURITY CLASSIFICATION:

Unclassified.

SYSTEM LOCATION:

U.S. Department of Energy, Headquarters, 1000 Independence Avenue, SW., Washington, DC 20585.

U.S. Department of Energy, NNSA Service Center Albuquerque, PO Box 5400, Albuquerque, NM 87185-5400.

U.S. Department of Energy, Argonne National Laboratory-West, PO Box 2528, Idaho Falls, ID 83403-2528.

U.S. Department of Energy, Brookhaven National Laboratory, 24 S. Upton Road, Building 50, Upton, NY 11973.

U.S. Department of Energy, Chicago Operations Office, 9800 South Cass Avenue, Argonne, IL 60439.

U.S. Department of Energy, Idaho Operations Office, 850 Energy Drive, Idaho Falls, ID 83401.

U.S. Department of Energy, NNSA Service Center Nevada, PO Box 98518, Las Vegas, NV 89193-8518.

U.S. Department of Energy, Nonproliferation and National Security Institute, Building 30132, Kirtland Air Force Base, Albuquerque, NM.

U. S. Department of Energy, NNSA Service Center Oakland, 1301 Clay Street, Oakland, CA 94612-5208.

U.S. Department of Energy, Oak Ridge Operations Office, PO Box 2001, Oak Ridge, TN 37831-8763.

U.S. Department of Energy, Amarillo Site Office, Highway 60 FM2373, Amarillo, TX 79177.

U.S. Department of Energy, Kansas City Site Office, PO Box 410202, 2000 E. 95th Street, Kansas City, MO 64141-3202.

U.S. Department of Energy, Sandia Site Office, Pennsylvania and H Street, Albuquerque, NM 87185-5400.

U.S. Department of Energy, Los Alamos Site Office, 528 35th Street, Los Alamos, NM 87544.

U.S. Department of Energy, Ohio Field Office, 1 Mound Road, Miamisburg, OH 45342.

U.S. Department of Energy, Pittsburgh Naval Reactors, 814 Pittsburgh McKeesport Boulevard, West Mifflin, PA 15122-0109.

U.S. Department of Energy, Richland Operations Office, 825 Jadwin Avenue, Richland, WA 99352.

U.S. Department of Energy, Rocky Flats Field Office, 10808 Highway 93, Unit A, Golden, CO 80403-8200.

U.S. Department of Energy, Sandia Site Office, 1515 Eubank Blvd., SE., Albuquerque, NM 87123.

U.S. Department of Energy, Savannah River Operations Office, Drawer E, Aiken, SC 29802.

U.S. Department of Energy, Schenectady Naval Reactors Office, 2401 River Road, Schenectady, NY 12309.

CATEGORIES OF INDIVIDUALS COVERED BY THE SYSTEM:

Department of Energy (DOE) and National Nuclear Security Administration (NNSA) Federal and contractor employees who are required to conduct and/or to maintain firearms qualification, training, and proficiency activities in the performance of their regular duties.

CATEGORIES OF RECORDS IN THE SYSTEM:

Records of an individual's annual qualification scores; approvals of aiming authority and issue of Security Police Officer and Federal Officer Credentials and firearms accountability and maintenance records.

AUTHORITY FOR MAINTENANCE OF THE SYSTEM:

42 U.S.C. 7101 et seq.; 50 U.S.C. 2401 et seq.

PURPOSE(S):

Document and maintain DOE protective force firearms programs information.

ROUTINE USES OF RECORDS MAINTAINED IN THE SYSTEM, INCLUDING CATEGORIES OF USERS AND THE PURPOSES OF SUCH USES:

1. A record from the system may be disclosed as a routine use to the appropriate local, State or Federal agency when records alone or in conjunction with other information, indicates a violation or potential violation of law whether civil, criminal, or regulatory in nature, and whether arising by general statute or particular program pursuant thereto.

2. A record from the system may be disclosed as a routine use to a Federal, State, or local agency to obtain information relevant to a Departmental decision concerning the hiring or retention of an employee, the issuance of a security clearance, the reporting of an investigation of an employee, the letting of a contract, or the issuance of a license, grant, or other benefit. The Department must deem such disclosure to be compatible with the purpose for which the Department collected the information.

3. A record from this system may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

4. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; and (3) witness, potential witness, or their representatives and assistants, and any person possesses information pertaining to the matter when it is necessary to obtain information or testimony relevant to the matter.

5. A record from this system may be disclosed as a routine use in court or administrative proceedings to the tribunals, counsel, other parties, witnesses, and the public (in publicly available pleadings, filings or discussion in open court) when such disclosure: (1) Is relevant to, and necessary for, the proceeding; and (2) compatible with the purpose for which the Department collected the records; and (3) the proceedings involve:

(a) The Department, its predecessor agencies, current or former contractor of the Department, or other United States Government agencies and their components, or

(b) A current or former employee of the Department and its predecessor agencies, current or former contractors of the Department, or other United States Government agencies and their components, who is acting in an official capacity or in any individual capacity where the Department or other United States Government agency has agreed to represent the employee.

6. A record from the system may be disclosed as a routine use to DOE contractors in performance of their contracts, and their officers and employees who have a need for the record in the performance of their duties. Those provided information under this routine use are subject to the same limitations applicable to DOE officers and employees under the Privacy Act.

7. A record from the system of records may be disclosed to a member of Congress submitting a request involving the constituent when the constituent has requested assistance from the member concerning the subject matter of the record. The member of Congress must provide a copy of the constituent's request for assistance.

8. A record from the system of records may be disclosed to training, administrative, and operations personnel of local law enforcement agencies in the performance of their regular duties in order to process and to maintain documentation for protective force personnel who have been commissioned as reserve officers or deputies.

POLICIES AND PRACTICES FOR STORING, RETRIEVING, ACCESSING, RETAINING, AND DISPOSING OF RECORDS IN THE SYSTEM:

STORAGE:

Records may be stored as paper records and electronic media.

RETRIEVABILITY:

Records may be retrieved by name and social security number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Security, U.S. Department of Energy, 1000 Independence Avenue, SW., Washington, DC 20585.

Field Offices: The managers and directors of the “System Locations” listed above are the system managers for their respective portions of this system.

NOTIFICATION PROCEDURES:

In accordance with the DOE regulation implementing the Privacy Act, at title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, the request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with DOE Privacy Act regulation, identification is required before a request is processed.

CONTESTING RECORD PROCEDURES:

Same as Notification Procedures above.

RECORD SOURCE CATEGORIES:

Gun permit notifications and firearm qualifications results from individuals and training personnel.

SYSTEM EXEMPTED FROM CERTAIN PROVISIONS OF THE ACT:

None.

DOE-33

SYSTEM NAME:

Personnel Medical Records.

SECURITY CLASSIFICATION:

Unclassified.

SYSTEM LOCATION:

U.S. Department of Energy, Headquarters, 1000 Independence Avenue, SW., Washington, DC 20585.

U.S. Department of Energy, Alaska Power Administration, Federal Records Center, San Point Way, NE., Seattle, WA 98115.

U.S. Department of Energy, NNSA Service Center Albuquerque, PO Box 5400, Albuquerque, NM 87185-5400.

U.S. Department of Energy, Office of Amarillo Site Operations, PO Box 30030, Amarillo, TX 79120-0030.

U.S. Department of Energy, Ashtabula Area Office, PO Box 579, Ashtabula, OH 44005-0579.

U.S. Department of Energy, Bartlesville Project Office, 220 North Virginia Avenue, PO Box 1398, Bartlesville, OK 74003.

U.S. Department of Energy, Battelle Columbus Laboratories, 505 King Avenue, Room A-496, Columbus, OH 43201.

U.S. Department of Energy, Batavia Area Office, PO Box 2000, Batavia, IL 60510.

U.S. Department of Energy, Bettis Atomic Power Laboratory, PO Box 79, Pittsburgh, PA 15122-0079.

U.S. Department of Energy, Bonneville Power Administration, PO Box 3621, Portland, OR 97208.

U.S. Department of Energy, Chicago Operations Office, 9800 South Cass Avenue, Argonne, IL 60439.

U.S. Department of Energy, Continuous Electron Beam Accelerator Facility, 12000 Jefferson Avenue, Newport News, VA 23606.

U.S. Department of Energy, Dayton Area Office, PO Box 66, Miamisburg, OH 45342-0066.

U.S. Department of Energy, EG&G Mound Applied Technologies, PO Box 3000, Miamisburg, OH 45343-3000.

U.S. Department of Energy, Fernald Environmental Restoration Management Corporation, PO Box 398704, Cincinnati, OH 45239-8704.

U.S. Department of Energy, Fernald Field Office, 7400 Willey Road, Cincinnati, OH 45030.

U.S. Department of Energy, Golden Field Office, 1617 Cole Boulevard, Golden, CO 80401.

U.S. Department of Energy, Grand Junction Office, 2597 B 3/4 Road, Grand Junction, CO 81503.

U.S. Department of Energy, Handford Environmental Health Foundation, 3080 George Washington Way, Richland, WA 99352.

U.S. Department of Energy, Idaho Operations Office, 850 Energy Drive MS 1214, Idaho Falls, ID 83404.

U.S. Department of Energy, Kansas City Site Office, PO Box 410202, Kansas City, MO 64141-0202.

U.S. Department of Energy, Sandia Site Office, PO Box 5400, Albuquerque, NM 87185-5400.

U.S. Department of Energy, Knolls Atomic Power Laboratory, PO Box 1072, Schenectady, NY 12301.

U.S. Department of Energy, Livermore Site Office, PO Box 808, Livermore, CA 94551.

U.S. Department of Energy, Lawrence Berkeley Laboratory, One Cyclotron Road, Building 26, Room 143, Berkeley, CA 94720.

U.S. Department of Energy, Los Alamos Site Office, 528 35th Street, Los Alamos, NM 87544.

U.S. Department of Energy, Lockheed Martin Energy Systems, Inc., Y-12 Plant, PO Box 2009, Oak Ridge, Tennessee 37831-8103.

U.S. Department of Energy, Lockheed Martin Energy Systems, Inc., K-25 Plant, PO Box 2003, Oak Ridge, TN 37831-7422.

U.S. Department of Energy, MK Ferguson of Oak Ridge Company, PO Box 2011, Oak Ridge, TN 37831-2011.

U.S. Department of Energy, National Energy Technology Center (Morgantown), PO Box 880, Morgantown, WV 26507-0880.

U.S. Department of Energy, National Energy Technology Center (Pittsburgh), PO Box 10940, Pittsburgh, PA 15236-0940.

U.S. Department of Energy, National Petroleum Technology Office, William Center Tower One, 1 West Third Street, Suite 1400, Tulsa, OK 74103.

U.S. Department of Energy, National Renewable Energy Laboratory Area Office, 1617 Cole Boulevard, Golden, CO 80401-3393.

U.S. Department of Energy, Naval Petroleum and Oil Shale Reserves, 907 N. Poplar, Suite 150, Casper, WY 82601.

U.S. Department of Energy, Naval Petroleum Reserves in California, 28590 Highway 119, PO Box 11, Tupman, CA 93276.

U.S. Department of Energy, Naval Reactors Representative Office, Naval Base Branch Post Office, General Delivery, Charleston Naval Shipyard, Charleston, SC 29408-5615.

U.S. Department of Energy, Naval Reactors Representative Office, PO Box 7021, Groton, CT 06340.

U.S. Department of Energy, Naval Reactors Representative Office, Mare Island Naval Shipyard, PO Box 2053, Vallejo, CA 94592.

U.S. Department of Energy, Naval Reactors Representative Office, Newport News Shipbuilding & Dry Dock Company, PO Box 973, Newport News, VA 23607.

U.S. Department of Energy, Naval Reactors Representative Office, Norfolk Naval Shipyard, PO Box 848, Portsmouth, VA 23705-0848.

U.S. Department of Energy, Naval Reactors Representative Office, Pearl Harbor Naval Shipyard, PO Box 128, Pearl Harbor, HI 96860.

U.S. Department of Energy, Naval Reactors Representative Office, Portsmouth Naval Shipyard, Naval Base Branch, PO Box 2008, Portsmouth, NH 03801-2008.

U.S. Department of Energy, Naval Reactors Representative Office, Puget Sound Naval Shipyard Substation, PO Box 1A, Bremerton, WA 98314.

U.S. Department of Energy, Nevada Test Site Mercury, Mercury, NV 89023.

U.S. Department of Energy, NNSA Service Center Nevada, PO Box 98518, Las Vegas, NV 89193-8518.

U.S. Department of Energy, Oak Ridge Operations Office, PO Box 2001, Oak Ridge, TN 37831.

U.S. Department of Energy, NNSA Service Center Oakland, 1301 Clay Street, Oakland, CA 94612-52019.

U.S. Department of Energy, Ohio Field Office, 1 Mound Road, Miamisburg, OH 45342.

U.S. Department of Energy, Phoenix Area Office, PO Box 6457, Phoenix, AZ 85005.

U.S. Department of Energy, Pittsburgh Naval Reactors Office, PO Box 109, West Mifflin, PA 15122-0109.

U.S. Department of Energy, Plasma Physics Laboratory, James Forrestal Campus, Princeton University, PO Box 451, Princeton, NJ 08543.

U.S. Department of Energy, Portsmouth Site Office, PO Box 700, Piketon, OH 45661.

U.S. Department of Energy, Radiological and Environmental Sciences Laboratory, 785 DOE Place, Idaho Falls, ID 83402.

U.S. Department of Energy, Richland Operations Office, 825 Jadwin Avenue, PO Box 550, Richland, WA 99352.

U.S. Department of Energy, Rocketdyne-Rockwell Aerospace, 6633 Canoga Avenue, PO Box 7922, Department 056 EA08, Canoga Park, CA 91309-7922.

U.S. Department of Energy, Rocky Flats Field Office, 10808 Highway 93, Unit A, Golden, CO 8040-8200.

U.S. Department of Energy, Sandia Site Office, PO Box 5800, Albuquerque, NM; PO 5400, Albuquerque, NM 87185-5400.

U.S. Department of Energy, Savannah River Operations Office, PO Box A, Aiken, SC 29801.

U.S. Department of Energy, Schenectady Naval Reactors Office, PO Box 1069, Schenectady, NY 12301.

U.S. Department of Energy, Southeastern Power Administration, 1166 Athens Tech Road, Elberton, GA 30635-4578.

U.S. Department of Energy, Southwestern Power Administration, Williams Tower One, One West Third Street, Tulsa, OK 74103.

U.S. Department of Energy, Stanford Linear Accelerator Center, PO Box 4349, Stanford, CA 94309.

U.S. Department of Energy, Strategic Petroleum Reserve Project Office, 900 Commerce Road East, New Orleans, LA 70123.

U.S. Department of Energy, Waste Isolation Pilot Plant, Westinghouse Electric Company, Waste Isolation Division, PO Box 2078, Carlsbad, NM 88220.

U.S. Department of Energy, Weldon Spring Site Remedial Action Project, 7295 Highway 94 South, St. Charles, MO 63304.

U.S. Department of Energy, West Valley Nuclear Service Company, Inc., PO Box 191, MS: F, West Valley, NY 14171.

U.S. Department of Energy, Waste Isolation Pilot Project Office, PO Box 3090, Carlsbad, NM 88221.

U.S. Department of Energy, Western Area Power Administration, PO Box 3402, Golden, CO 80401.

U.S. Department of Energy, Westinghouse Electric Corporation, Bettis Atomic Power Laboratory, Naval Reactors Facility, PO Box 2068, Idaho Falls, ID 83403-2068.

U.S. Department of Energy, Office of Repository Development, PO Box 364629, North Las Vegas, NV 89036-8629.

CATEGORIES OF INDIVIDUALS COVERED BY THE SYSTEM:

Present and former Department of Energy (DOE) and National Nuclear Security Administration (NNSA) employees, and DOE contractor employees. This system includes in-patients at Kadlec Hospital, Richland, WA, prior to September 9, 1956.

CATEGORIES OF RECORDS IN THE SYSTEM:

Medical histories on contractor employees resulting from medical examination; in cases of injury, description of injury occurrence and treatment; medical records of periodic physical examinations and psychological testing, blood donor program records, audiometric testing, routine first aid, and other visits; hospital in-patients at Kadlec Hospital; Records on the results of work place and medical monitoring of individuals for exposure to chemical and physical agents (not covered in DOE-35) and related work history data, including drug testing information and results; contractor employee-completed health questionnaires not resulting from a medical examination; information from the contractor employee's private medical doctor or other health care providers, such as hospitals or laboratories not generated from workplace medical examinations.

AUTHORITY FOR MAINTENANCE OF THE SYSTEM:

Atomic Energy Act of 1954 (42 U.S.C. 2051a), section 31a; Economy Act of 1932, as amended (31 U.S.C. 1535); 42 U.S.C. 7101 et seq.; 50 U.S.C. 2401 et seq.; and DOE Order 440.1.

PURPOSE(S):

The records are maintained and used by the Department to: (a) Provide data necessary for proper medical evaluations, diagnosis, treatment and care; (b) provide an accurate medical history, including job and/or hazard exposure documentation and health monitoring in relation to health status and claims of the individual; (c) provide a method for evaluating quality of health care rendered and job-health protection including engineering protection provided, protective equipment, workplace monitoring, and medical examinations monitoring required by the Occupational Safety and Health Administration (OSHA) or by good practice; (d) provide data for health hazard evaluations, epidemiologic studies and public health activities; (e) ensure that all relevant, necessary, accurate, and timely data are available to support any medically-related employment decisions affecting the subject of the records, including decisions pertaining to the fitness-for-duty and disability retirement; (f) document possible re-employment rights under statutes governing that program; (g) document employee's reporting of on-the-job injuries or unhealthy or unsafe working conditions, including the reporting of such conditions to the OSHA and actions taken by the agency or by the employing agency; and (h) ensure proper and accurate operation of the agency's employee drug testing program under Executive Order 12564.

ROUTINE USES OF RECORDS MAINTAINED IN THE SYSTEM, INCLUDING CATEGORIES OF USERS AND THE PURPOSES OF SUCH USES:

1. A record from this system may be disclosed as a routine use to physicians, the U.S. Department of Labor, various state departments of labor and industry groups, and contractors to: (a) Ascertain suitability of an employee for job assignments with regard to health; (b) provide benefits under Federal programs or contracts; and (c) maintain a record of occupational injuries or illnesses and the performance of regular diagnostic and treatment services to patients.

2. A record from the system may be disclosed as a routine use to the appropriate local, State or Federal agency when records alone or in conjunction with other information, indicates a violation or potential violation of law whether civil, criminal, or regulatory in nature, and whether arising by general statute or particular program pursuant thereto.

3. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractor of the Department, or other United States Government agencies and their components, or

(b) A current or former employee of the Department and its predecessor agencies, current or former contractors of the Department, or other United States Government agencies and their components, who is acting in an official capacity or in any individual capacity where the Department or other United States Government agency has agreed to represent the employee.

4. A record from this system of records may be disclosed to a Federal agency, in response to its written request, to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from this system may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

6. A record from the system may be disclosed as a routine use to DOE contractors in performance of their contracts, and their officers and employees who have a need for the record in the performance of their duties. Those provided information under this routine use are subject to the same limitations applicable to DOE officers and employees under the Privacy Act.

7. A record from this system of records may be disclosed as a routine use to a member of Congress submitting a request involving the constituent when the constituent has requested the subject matter of the record. The member of Congress must provide a copy of the constituent's request for assistance.

8. A record from this system may be disclosed as a routine use to contractor personnel, grantees, and cooperative agreement holders of components of the Department of Health and Human Services, including the National Institute for Occupational Safety and Health and the National Center for Environmental Health of the Centers for Disease Control and Prevention, and the Agency for Toxic Substances and Disease Registry pursuant to Memoranda of Understanding between the Department and the Department of Health and Human Services or its components.

9. A record from this system may be disclosed as a routine use to contractors, grantees, participants in cooperative agreements, collaborating researchers, or their employees, when conducting health studies or related health or environmental duties pursuant to their contracts, grants, and cooperating or collaborating research agreements. In order to conduct such studies, the Department, its contractors, grantees, participants in cooperative agreements, and collaborating researchers may disclose a record to Federal, state and local health and medical agencies or authorities; to subcontractors in order to determine a subject's vital status or cause of death; to health care providers to verify a diagnosis or cause of death; or to third parties to obtain current addresses for participants in health-related studies, surveys and surveillance. All recipients of such records are required to comply with the Privacy Act, to follow prescribed measures to protect personal privacy, and to disclose or use personally identifiable information only for the above described research purposes.

10. A record from this system may be disclosed as a routine use to members of DOE advisory committees, the Department of Health and Human Services Advisory Committee on Projects Related to Department of Energy Facilities and to designated employees of Federal, State, or local government or government-sponsored entities authorized to provide advice to the Department concerning health, safety or environmental issues. All recipients of such records are required to comply with the Privacy Act, to follow prescribed measures to protect personal privacy, and to disclose or use personally identifiable information only for the purpose of providing advice to the Department or to the Department of Health and Human Services.

11. A record from this system may be disclosed to Department of Health and Human Services, their contractors, grantees, and cooperative agreement holders, pursuant to the Energy Employees Occupational Illness Compensation Program Act of 2000, to estimate radiation doses and other workplace exposures received by Department of Energy and contractor employees. Those provided information under this routine use are subject to the same limitations applicable to Department officers and employees under the Privacy Act.

12. A record from this system may be disclosed as a routine use to the personnel, contractors, grantees, and cooperative agreement holders of the Department of Labor, the Department of Health and Human Services, the Department of Justice, and other Federal agencies and their components, designated by the President to implement the Federal compensation program established by the Energy Employees Occupational Illness Compensation Program Act, for the purpose of assisting in the adjudication or processing of a claim under that Act. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as paper records, microfilm, and electronic media.

RETRIEVABILITY:

Records may be retrieved by name and social security number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Deputy Assistant Secretary for Environment, Safety, and Health, U.S. Department of Energy, 1000 Independence Avenue, SW., Washington, DC 20585.

Field Offices: The Managers and Directors of “System Locations” listed above are the system managers for their respective portions of this system.

NOTIFICATION PROCEDURES:

In accordance with the DOE regulation implementing the Privacy Act, at title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at location where the work is performed. In accordance with the DOE Privacy Act regulation, proper identification is required before a request is processed.

CONTESTING RECORD PROCEDURES:

Same as Notification Procedures above.

RECORD SOURCE CATEGORIES:

The individual who is the subject of the record, physicians, medical institutions, Office of Workers Compensation Programs, military retired pay systems records, Federal civilian retirement systems, Office of Personnel Management retirement life insurance and health benefits records system, and the personnel management records systems of the Office of Personnel Management.

SYSTEM EXEMPTED FROM CERTAIN PROVISIONS OF THE ACT:

None.

DOE-34

SYSTEM NAME:

Employee Assistance Program (EAP) Records.

SECURITY CLASSIFICATION:

Unclassified.

SYSTEM LOCATION:

U.S. Department of Energy, Headquarters, Forrestal Building, 1000 Independence Avenue, SW., Washington, DC 20585.

U.S. Department of Energy, Headquarters, Germantown, 19901 Germantown Road, Germantown, MD 20585.

U.S. Department of Energy, Alaska Power Administration, Federal Records Center, San Point Way, NE., Seattle WA, 98115.

U.S. Department of Energy, NNSA Service Center Albuquerque, PO Box 5400, Albuquerque, NM 87185-5400.

U.S. Department of Energy, Office of Amarillo Site Operations, Highway 60 FM2372, Amarillo, TX 79120.

U.S. Department of Energy, Atlanta Regional Support Office, 730 Peachtree, NE, Suite 876, Atlanta, GA 30308.

U.S. Department of Energy, Bonneville Power Administration, PO Box 3621, Portland, OR 97208.

U.S. Department of Energy, Boston Regional Office, JFK Federal Building, Room 675 Boston, MA 02203-0002.

U.S. Department of Energy, Chicago Operations Office, 9800 South Cass Avenue, Argonne, IL 60439.

U.S. Department of Energy, Fernald Field Office, 7400 Willey Road, Cincinnati, OH 45030.

U.S. Department of Energy, Golden Field Office, 1617 Cole Boulevard, Golden, CO 80401.

U.S. Department of Energy, Idaho Operations Office, 850 Energy Drive, Idaho Falls, ID 83401.

U.S. Department of Energy, The Office of Site Operations, 2000 E 95th Street, Kansas City, MO 64141-3202.

U.S. Department of Energy, National Energy Technology Laboratory (Morgantown), PO Box 880, Morgantown, WV 26507-0880.

U.S. Department of Energy, National Energy Technology Laboratory (Pittsburgh), PO Box 10940, Pittsburgh, PA 15236-0940.

U.S. Department of Energy, National Petroleum Technology Office, William Center Tower One, 1 West Third Street, Suite 1400, Tulsa, OK 74103.

U.S. Department of Energy, NNSA Service Center Nevada, PO Box 98518, Las Vegas, NV 89193-8518.

U.S. Department of Energy, Oak Ridge Operations Office, PO Box 2001, Oak Ridge, TN 37831.

U.S. Department of Energy, NNSA Service Center Oakland, 1301 Clay Street, Oakland, CA 94612-5208.

U.S. Department of Energy, Office of Scientific and Technical Information, PO Box 62, Oak Ridge, TN 37831.

U.S. Department of Energy, Office of Superconducting Super Collider, 2550 Beckleymeade Avenue, MS 1020, Dallas, TX 75237-3946.

U.S. Department of Energy, Ohio Field Office, I Mound Road, Miamisburg, OH 45342.

U.S. Department of Energy, Pittsburgh Naval Reactors Office, PO Box 109, West Mifflin, PA 15122-0109.

U.S. Department of Energy, Pittsburgh Naval Reactors Office, Idaho Branch Office, PO Box 2469, Idaho Falls, ID 83403-2469.

U.S. Department of Energy, Richland Operations Office, 825 Jadwin Avenue, PO Box 550, Richland, WA 99352.

U.S. Department of Energy, Rocky Flats Field Office, 10808 Highway 93, Unit A, Golden, CO 80403-8200.

U.S. Department of Energy, Savannah River Operations Office, PO Box A, Aiken, SC 29801.

U.S. Department of Energy, Schenectady Naval Reactors Office, PO Box 1069, Schenectady, NY 12301.

U.S. Department of Energy, Southeastern Power Administration, 1166 Athens Tech Road, Elberton, GA 30635-4578.

U.S. Department of Energy, Southwestern Power Administration, Williams Tower One, One West Third Street, Tulsa, OK 74103.

U.S. Department of Energy, Strategic Petroleum Reserve Project Office, 900 Commerce Road East, New Orleans, LA 70123.

U.S. Department of Energy, Western Area Power Administration, PO Box 3402, Golden, CO 80401.

U.S. Department of Energy, Office of Repository Development, PO Box 364629, North Las Vegas, NV 89036-8629.

CATEGORIES OF INDIVIDUALS COVERED BY THE SYSTEM:

Current and former Department of Energy (DOE) and National Nuclear Security Administration (NNSA) employees, who have contacted a service provider and have received counseling and/or have been referred for assistance.

CATEGORIES OF RECORDS IN THE SYSTEM:

(a) Employee profile—name; social security number; work and home addresses, and work and home telephone numbers; job title and grade level; organization; supervisor's name and telephone number; sex; race; marital status; spouse and family members' names; name, address, and telephone number of any previously seen counselor or treatment facility; security clearance; (b) interest inventory and/or psychological test results; (c) issue(s) inventory; (d) case notes; (e) consent/release forms; (f) correspondence, including referrals to community resources and/or treatment facilities; and (g) medical and/or psychological reports.

AUTHORITY FOR MAINTENANCE OF THE SYSTEM:

42 U.S.C. 7101 et seq.; 50 U.S.C. 2401 et seq.; Pub. L. 91-616, Comprehensive Alcohol Abuse and Alcoholism Prevention, Treatment and Rehabilitation Act of 1970; Pub. L. 102-142, The Omnibus Transportation Employee Testing Act of 1991; 5 U.S.C. 301, 7901, and 7904; 5 CFR part 792; and 15 U.S.C. 764.

PURPOSE(S):

The records are maintained and used by the Department to document employees seeking assistance on behavioral problems or issues.

ROUTINE USES OF RECORDS MAINTAINED IN THE SYSTEM, INCLUDING CATEGORIES OF USERS AND THE PURPOSES OF SUCH USES:

1. A record from the system may be disclosed as a routine use to DOE contractors in performance of their contracts, and their officers and employees who have a need for the record in the performance of their duties. Those provided information under this routine use are subject to the same limitations applicable to DOE officers and employees under the Privacy Act.

2. A record from the system may be disclosed as a routine use to the appropriate local, State or Federal agency in the event that a record within this system of records, alone or in conjunction with other information, if the employee is suspected of child, spousal, or elder abuse.

3. A record from this system may be disclosed as a routine use to any person or entity to the extent necessary to prevent an imminent or potential crime which directly threatens loss of life or serious bodily injury.

4. A record from this system may be disclosed as a routine use to qualified personnel for the purpose of conducting scientific research, management audits, financial audits, or program evaluation, but such personnel may not identify, directly or indirectly, any individual patient in any report, or otherwise disclose patient identities in any manner.

5. A record from this system may be disclosed as a routine use to the Department of Justice or other appropriate Federal agencies in defending claims against the United States, when the claim results from action against an individual based upon the individual's behavior, or mental or physical condition, or is alleged to have arisen because of activities of any Federal agency in connection with the individual.

6. A record from the system may be disclosed as a routine use to the appropriate local, State or Federal agency when records alone or in conjunction with other information, indicates a violation or potential violation of law whether civil, criminal, or regulatory in nature, and whether arising by general statute or particular program pursuant thereto.

POLICIES AND PRACTICES FOR STORING, RETRIEVING, ACCESSING, RETAINING, AND DISPOSING OF RECORDS IN THE SYSTEM:

STORAGE:

Records may be stored as paper records and electronic media.

RETRIEVABILITY:

Records may be retrieved by name and social security number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director of Human Resources Management, U.S. Department of Energy, 1000 Independence Avenue, SW, Washington, DC 20585.

Field Offices: The Human Resource Directors of the “System Locations” listed above are the system managers for their respective portions of this system.

NOTIFICATION PROCEDURES:

In accordance with the DOE regulation implementing the Privacy Act, at Title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with DOE Privacy Act regulation, identification is required before a request is processed.

CONTESTING RECORD PROCEDURES:

Same as Notification Procedures above.

RECORD SOURCE CATEGORIES:

The subject employee, employee's supervisor(s), employee assistance program coordinator, staff of the applicable servicing personnel office, staff of the applicable personnel security office, and therapists or institutions providing treatment.

SYSTEM EXEMPTED FROM CERTAIN PROVISIONS OF THE ACT:

None.

DOE-35

SYSTEM NAME:

Personnel Radiation Exposure Records.

SECURITY CLASSIFICATION:

Unclassified.

SYSTEM LOCATION:

U.S. Department of Energy, Alaska Power Administration, Federal Records Center, San Point Way, NE, Seattle, WA 98115.

U.S. Department of Energy, NNSA Service Center Albuquerque, PO Box 5400, Albuquerque, NM 87185-5400.

U.S. Department of Energy, Allied-Signal, Kansas City Division, PO Box 419159, Kansas City, MO 64141.

U.S. Department of Energy, Amarillo Site Office, PO Box 30030, Amarillo, TX 79120-0030.

U.S. Department of Energy, Bettis Atomic Power Laboratory, PO Box 79, Pittsburgh, PA 15122-0079.

U.S. Department of Energy, Bonneville Power Administration, PO Box 3621, Portland, OR 97208.

U.S. Department of Energy, Chicago Operations Office, 9800 South Cass Avenue, Argonne, IL 60439.

U.S. Department of Energy, Continuous Electron Beam Accelerator Facility, 12000 Jefferson Avenue, Newport News, VA 23606.

U.S. Department of Energy, Dayton Area Office, PO Box 66, Miamisburg, OH 45342-0066.

U.S. Department of Energy, EG&G Mound Applied Technologies, PO Box 3000, Miamisburg, OH 45343-3000.

U.S. Department of Energy, Fernald Environmental Restoration Management Corporation, PO Box 398704, Cincinnati, OH 45239-8704.

U.S. Department of Energy, Fernald Field Office, 7400 Willey Road, Cincinnati, OH 45030.

U.S. Department of Energy, Golden Field Office, 1617 Cole Boulevard, Golden, CO 80401.

U.S. Department of Energy, Grand Junction Office, 2597 B 3/4 Road, Grand Junction, CO 81503.

U.S. Department of Energy, Headquarters, 1000 Independence Avenue, SW, Washington, DC 20585.

U.S. Department of Energy, Idaho Operations Office, 850 Energy Drive, Idaho Falls, ID 83404.

U.S. Department of Energy, Inhalation Toxicology Research Institute, PO Box 5890, Albuquerque, NM 87185.

U.S. Department of Energy, Kansas City Site Office, 2000 E 9th Street, Kansas City, MO 64141-3202.

U.S. Department of Energy, Sandia Site Office, PO Box 5400, Albuquerque, NM 87185-5400.

U.S. Department of Energy, Knolls Atomic Power Laboratory, PO Box 1072, Schenectady, NY 12301.

U.S. Department of Energy, Livermore Site Office, PO Box 808, Livermore, CA 94551.

U.S. Department of Energy, Lawrence Berkeley Laboratory, One Cyclotron Road, Building 26, Room 143, Berkeley, CA 94720.

U.S. Department of Energy, Los Alamos Site Office, 528 35th Street, Los Alamos, NM 87544.

U.S. Department of Energy, Lockheed Martin Energy Systems, Inc., Y-12 Plant, PO Box 2009, Oak Ridge, TN 37831-8103.

U.S. Department of Energy, Lockheed Martin Energy Systems, Inc., K-25 Plant, PO Box 2003, Oak Ridge, TN 37831-7422.

U.S. Department of Energy, MK Ferguson of Oak Ridge Company, PO Box 2011, Oak Ridge, TN 37831-2011.

U.S. Department of Energy, National Energy Technology Laboratory (Morgantown), PO Box 880, Morgantown, WV 26505.

U.S. Department of Energy, National Energy Technology Laboratory (Pittsburgh), PO Box 10940, Pittsburgh, PA 15236-0940.

U.S. Department of Energy, National Petroleum Technology Office, William Center Tower One, 1 West Third Street, Suite 1400, Tulsa, OK 74103.

U.S. Department of Energy, National Institute for Petroleum and Energy Research, BDM-Oklahoma, Inc., PO Box 2565, Bartlesville, OK 74005.

U.S. Department of Energy, National Renewable Energy Laboratory Area Office, 1617 Cole Boulevard, Golden, CO 80401-3393.

U.S. Department of Energy, Naval Petroleum and Oil Shale Reserves, 907 N. Poplar, Suite 150 Casper, WY 82601.

U.S. Department of Energy, Naval Petroleum Reserves in California, PO Box 11, Tupman, CA 93276.

U.S. Department of Energy, Naval Reactors Representative Office, Naval Base Branch Post Office, General Delivery, Charleston Naval Shipyard, Charleston, SC 29408-5615.

U.S. Department of Energy, Naval Reactors Representative Office, PO Box 7021, Groton, CT 06340.

U.S. Department of Energy, Naval Reactors Representative Office, Mare Island Naval Shipyard, PO Box 2053, Vallejo, CA 94592.

U.S. Department of Energy, Naval Reactors Representative Office, Newport News Shipbuilding & Dry Dock Company, PO Box 973, Newport News, VA 23607.

U.S. Department of Energy, Naval Reactors Representative Office, Norfolk Naval Shipyard, PO Box 848, Portsmouth, VA 23705-0848.

U.S. Department of Energy, Naval Reactors Representative Office, Pearl Harbor Naval Shipyard, PO Box 128, Pearl Harbor, HI 96860.

U.S. Department of Energy, Naval Reactors Representative Office, Portsmouth Naval Shipyard, Naval Base Branch, PO Box 2008, Portsmouth, NH 03801-2008.

U.S. Department of Energy, Naval Reactors Representative Office, Puget Sound Naval Shipyard Substation, PO Box 1A, Bremerton, WA 98314.

U.S. Department of Energy, Nevada Test Site Mercury, Mercury, NV 89023.

U.S. Department of Energy, NNSA Service Center Nevada, PO Box 98518, Las Vegas, NV 89193-8518.

U.S. Department of Energy, Oak Ridge Operations Office, PO Box 2001, Oak Ridge, TN 37831.

U.S. Department of Energy, NNSA Service Center Oakland, 1301 Clay Street, Oakland, CA 94612-52019.

U.S. Department of Energy, Ohio Field Office, 1 Mound Road, Miamisburg, OH 45342.

U.S. Department of Energy, Pacific Northwest National Laboratory, 902 Battelle Boulevard, PO Box 999, Richland, WA 99352.

U.S. Department of Energy, Phoenix Area Office, PO Box 6457, Phoenix, AZ 85005.

U.S. Department of Energy, Pittsburgh Naval Reactors Office, PO Box 109, West Mifflin, PA 15122-0109.

U.S. Department of Energy, Portsmouth Site Office, PO Box 700, Piketon, OH 45661.

U.S. Department of Energy, Princeton Area Office, PO Box 102, Princeton, NJ 08542.

U.S. Department of Energy, Radiological and Environmental Sciences Laboratory, 850 Energy Drive, Idaho Falls, ID 83402.

U.S. Department of Energy, Richland Operations Office, 825 Jadwin Avenue, PO Box 550, Richland, WA 99352.

U.S. Department of Energy, Rocketdyne—Rockwell Aerospace, 6633 Canoga Avenue, PO Box 7922, Department 056 EA08, Canoga Park, CA 91309-7922.

U.S. Department of Energy, Rocky Flats Field Office, 10808 Highway 93, Unit A Golden, CO 80403-8200.

U.S. Department of Energy, Sandia Site Office, PO Box 5800, Albuquerque, NM 87115.

U.S. Department of Energy, Savannah River Operations Office, PO Box A, Aiken, SC 29801.

U.S. Department of Energy, Schenectady Naval Reactors Office, PO Box 1069, Schenectady, NY 12301.

U.S. Department of Energy, Southeastern Power Administration, 1166 Athens Tech Road, Elberton, GA 30635-4578.

U.S. Department of Energy, Southwestern Power Administration, Williams Tower One, One West Third Street, Tulsa, OK 74103.

U.S. Department of Energy, Stanford Linear Accelerator Center, PO Box 4349, Stanford, CA 94309.

U.S. Department of Energy, Strategic Petroleum Reserve Project Office, 900 Commerce Road East, New Orleans, LA 70123.

U.S. Department of Energy, Waste Isolation Pilot Plant, Westinghouse Electric Company, Waste Isolation Division, PO Box 2078, Carlsbad, NM 88220.

U.S. Department of Energy, Weldon Spring Site Remedial Action Project, 7295 Highway 94 South, St. Charles, MO 63304.

U.S. Department of Energy, West Valley Nuclear Service Company, Inc., 10282 Rock Springs Road, PO Box 191, MS: F, West Valley, NY 14171.

U.S. Department of Energy, Waste Isolation Pilot Project Office, PO Box 3090, Carlsbad, NM 88221.

U.S. Department of Energy, Western Area Power Administration, PO Box 3402, Golden, CO 80401.

U.S. Department of Energy, Westinghouse Electric Corporation, Bettis Atomic Power Laboratory, Naval Reactors Facility, PO Box 2068, Idaho Falls, ID 83403-2068

U.S. Department of Energy, Office of Repository Development, PO Box 364629, North Las Vegas, NV 89036-8629

CATEGORIES OF INDIVIDUALS COVERED BY THE SYSTEM:

U.S. Department of Energy (DOE) employees including National Nuclear Security Administration employees, and contractor employees, and any other persons having access to certain DOE facilities.

CATEGORIES OF RECORDS IN THE SYSTEM:

DOE contractor personnel and other individuals' radiation exposure records, and other records, in connection with registries of uranium, transuranic, or other elements encountered in the nuclear industry.

AUTHORITY FOR MAINTENANCE OF THE SYSTEM:

42 U.S.C. 7101 et seq. and 50 U.S.C. 2401 et seq.

PURPOSE(S):

The records are maintained and used by the Department for the purpose of monitoring and recording levels of radiation exposure to individuals working or visiting DOE facilities.

ROUTINE USES OF RECORDS MAINTAINED IN THE SYSTEM, INCLUDING CATEGORIES OF USERS AND THE PURPOSES OF SUCH USES:

1. A record from this system may be disclosed as a routine use to the Department of the Navy to monitor radiation exposure of Naval and other personnel.

2. A record from this system may be disclosed as a routine use to the Nuclear Regulatory Commission to monitor radiation exposure of DOE and its contractors and consultants, contractors from other agencies who have been exposed to ionizing radiation during nuclear testing, and to conduct epidemiological studies of radiation effects on individuals so identified.

3. A record from this system may be disclosed to the Department of Defense for the purpose of identifying DOD and DOD-contractor personnel exposed to ionizing radiation during nuclear testing and for conducting epidemiological studies of radiation effects on individuals so identified.

4. A record from this system may be disclosed as a routine use to contractor personnel, grantees, and cooperative agreement holders of components of the Department of Health and Human Services, including the National Institute for Occupational Safety and Health and the National Center for Environmental Health of the Centers for Disease Control and Prevention, and the Agency for Toxic Substances and Disease Registry pursuant to a Memoranda of Understanding between the Department and the Department of Health and Human Services or its components.

5. A record from this system may be disclosed as a routine use to contractors, grantees, participants in cooperative agreements, and collaborating researchers, or the employees of these parties, in performance of health studies or related health or environmental duties pursuant to their contracts, grants, and cooperating or collaborating research agreements. In order to perform such studies, the Department, its contractors, grantees, participants in cooperative agreements, and collaborating researchers may disclose a record to federal, state and local health and medical agencies or authorities; to subcontractors in order to determine a subject's vital status or cause of death; to health care providers to verify a diagnosis or cause of death; or to third parties to obtain current addresses for participants in health-related studies, surveys and surveillance. All recipients of such records are required to comply with the Privacy Act, to follow prescribed measures to protect personal privacy, and to disclose or use personally identifiable information only for the above described research purposes.

6. A record from this system may be disclosed as a routine use to members of DOE advisory committees, the Department of Health and Human Services Advisory Committee on Projects Related to Department of Energy Facilities and to designated employees of Federal, State, or local government or government-sponsored entities authorized to provide advice to the Department concerning health, safety or environmental issues. All recipients of such records are required to comply with the Privacy Act, to follow prescribed measures to protect personal privacy, and to disclose or use personally identifiable information only for the purpose of providing advice to the Department or to the Department of Health and Human Services.

7. A record from this system may be disclosed to Department of Health and Human Services, their contractors, grantees, and cooperative agreement holders, pursuant to the Energy Employees Occupational Illness Compensation Program Act of 2000, to estimate radiation doses and other workplace exposures received by Department of Energy and contractor employees. Those provided information under this routine use are subject to the same limitations applicable to Department officers and employees under the Privacy Act.

8. A record from the system may be disclosed as a routine use to DOE contractors in performance of their contracts, and their officers and employees who have a need for the record in the performance of their duties. Those provided information under this routine use are subject to the same limitations applicable to Department officers and employees under the Privacy Act.

9. A record from this system may be disclosed as a routine use to the personnel, contractors, grantees, and cooperative agreement holders of the Department of Labor, the Department of Health and Human Services, the Department of Justice, and other Federal agencies and their components, designated by the President to implement the Federal compensation program established by the Energy Employees Occupational Illness Compensation Program Act, for the purpose of assisting in the adjudication or processing of a claim under that Act. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as paper records, microfilm and electronic media.

RETRIEVABILITY:

Records may be retrieved by name, alphanumeric code, and social security number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Deputy Assistant Secretary for Environment, Safety, Health, U.S. Department of Energy, 1000 Independence Avenue, SW., Washington, DC 20585.

Field Offices: The Managers and Directors of the “System Locations” listed above are the records are maintained are the system managers for their respective portions of this system.

NOTIFICATION PROCEDURES:

In accordance with the DOE regulation implementing the Privacy Act, at Title 10 Code of Federal Regulations, part 1008, a request by an individual to determine if a system of records contains information about him/her should be directed to the Director, Headquarters, Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at location where the work is performed. In accordance with the DOE's Privacy Act regulation, proper identification is required before a request is processed.

CONTESTING RECORD PROCEDURES:

Same as Notification Procedures above.

RECORD SOURCE CATEGORIES:

The subject individual, accident-incident investigations, film badges, dosimetry records, and previous employee records.

SYSTEM EXEMPTED FROM CERTAIN PROVISIONS OF THE ACT:

None.

DOE-38

SYSTEM NAME:

Occupational and Industrial Accident Records.

SECURITY CLASSIFICATION:

Unclassified.

SYSTEM LOCATION:

U.S. Department of Energy Headquarters, 1000 Independence Avenue, SW., Washington, DC 20585.

U.S. Department of Energy, Alaska Power Administration, San Point Way, NE., Seattle, WA 98115.

U.S. Department of Energy, NNSA Service Center Albuquerque, PO Box 5400, Albuquerque, NM 87185-5400.

U.S. Department of Energy, Amarillo Site Office, Pantex Plant, PO Box 1086, Amarillo, TX 79105.

U.S. Department of Energy, Bonneville Power Administration, PO Box 3621, Portland, OR 97208.

U.S. Department of Energy, Chicago Operations Office, 9800 South Cass Avenue, Argonne, IL 60439.

U.S. Department of Energy, Carbondale Mining Research Center, PO Box 2587, Carbondale, IL 62901.

U.S. Department of Energy, Clinch River Breeder Reactor Plant Project, PO Box U, Oak Ridge, TN 37830.

U.S. Department of Energy, Dayton Area Office, PO Box 66, Miamisburg, OH 45342.

U.S. Department of Energy, Environmental Measurements Laboratory, 376 Hudson Street, New York, NY 10014.

U.S. Department of Energy, Idaho Operations Office, 850 Energy Drive, Idaho Falls, ID 83401.

U.S. Department of Energy, Idaho Branch Office, PO Box 2469, Idaho Falls, ID 83401.

U.S. Department of Energy, Kansas City Site Office, 2000 E 95th Street, Kansas City, MO 64141-3202.

U.S. Department of Energy, Knolls Atomic Power Laboratory, PO Box 1072, Schenectady, NY 12301.

U.S. Department of Energy, Los Alamos Site Office, PO Box 5800, Los Alamos, NM 87544.

U.S. Department of Energy, National Energy Technology Laboratory (Morgantown), PO Box 880, Morgantown, WV 26505.

U.S. Department of Energy, National Energy Technology Laboratory (Pittsburgh), PO Box 10940, Pittsburgh, PA 15122.

U. S. Department of Energy, National Petroleum Technology Office, William Center Tower One, 1 West Third Street, Suite 1400, Tulsa, OK 74103.

U.S. Department of Energy, Naval Petroleum Reserve, PO Box 11, Tupman, CA 93276.

U.S. Department of Energy, Nevada Test Site, Mercury, NV 89023.

U.S. Department of Energy, NNSA Service Center Nevada, PO Box 98518, Las Vegas, NV 89193-8518.

U.S. Department of Energy, Oak Ridge Operations Office, PO Box E, Oak Ridge, TN 37830.

U.S. Department of Energy, Pittsburgh Naval Reactors, PO Box 109, Pittsburgh, PA 15122.

U.S. Department of Energy, Puerto Rico Area Office, PO Box BB, San Juan, PR 00935.

U.S. Department of Energy, Rocky Flats Field Office, PO Box 928, Golden, CO 80401.

U.S. Department of Energy, Richland Operations Office, PO Box 550, Richland, WA 99352.

U.S. Department of Energy, NNSA Service Center Oakland, 1301 Clay Street, 700-N, Oakland, CA 94612.

U.S. Department of Energy, Sandia Area Office, PO Box 5800, Albuquerque, NM 87115.

U.S. Department of Energy, Savannah River Operations Office, PO Box A, Aiken, SC 29801.

U.S. Department of Energy, Schenectady Naval Reactors Office, PO Box 1069, Schenectady, NY 12301.

U.S. Department of Energy, Shippingport Branch Office, PO Box 11, Shippingport, PA 15077.

U.S. Department of Energy, Southeastern Power Administration, 1166 Athens Tech Road, Elberton, GA 30635-4578.

U.S. Department of Energy, Southwestern Power Administration, Williams Tower One, One West Third Street, Tulsa, OK 74103.

U.S. Department of Energy, Strategic Petroleum Reserve, 900 Commerce Road, East, New Orleans, LA 70123.

U.S. Department of Energy, Western Area Power Administration, PO Box 3402, Golden, CO 80401.

U.S. Department of Energy, Office of Repository Development, PO Box 364629, North Las Vegas, NV 89036-8629

CATEGORIES OF INDIVIDUALS COVERED BY THE SYSTEM:

Department of Energy (DOE) and National Nuclear Security Administration (NNSA) employees, contractor employees, and any other persons having access to DOE facilities who have had accidents on DOE facilities. Also individuals involved in accidents with employees or contractor employees or other persons having access to DOE facilities.

CATEGORIES OF RECORDS IN THE SYSTEM:

Accident/incident information, occupational injury and illness experience, property damage experience, and motor vehicle accidents.

AUTHORITY FOR MAINTENANCE OF THE SYSTEM:

5 U.S.C. 301; Department of Energy Organization Act, including authorities incorporated by reference in Title III of the Department of Energy Organization Act; Federal Tort Claims Act, 28 U.S.C. 2671-2680; Military Personnel and Civilian Employees Claims Act, 31 U.S.C. 240-243; Executive Order 12009.

PURPOSE(S):

The records are maintained and used by the Department to monitor and record information about DOE employees, contract employees, and other persons, who have had accidents on DOE facilities.

ROUTINE USES OF RECORDS MAINTAINED IN THE SYSTEM, INCLUDING CATEGORIES OF USERS AND THE PURPOSES OF SUCH USES:

1. A record from this system may be disclosed as a routine use to physicians, the Department of Labor, various state departments of labor and industry groups, and contractors who use information to: (a) Ascertain suitability of an employee for job assignments with regard to health (b) provide benefits under Federal programs or contracts, and (c) maintain a record of occupational injuries or illnesses and the performance of regular diagnostic and treatment services to patients.

2. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

3. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

4. A record from this system may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

6. A record from the system may be disclosed as a routine use to the appropriate local, State or Federal agency when records alone or in conjunction with other information, indicates a violation or potential violation of law whether civil, criminal, or regulatory in nature, and whether arising by general statute or particular program pursuant thereto.

7. A record from this system of records may be disclosed to foreign governments or international organizations in accordance with treaties, international conventions, or executive agreements.

8. A record from the system may be disclosed as a routine use to DOE contractors in performance of their contracts, and their officers and employees who have a need for the record in the performance of their duties. Those provided information under this routine use are subject to the same limitations applicable to Department officers and employees under the Privacy Act.

9. A record from this system of records may be disclosed to a member of Congress submitting a request involving the constituent when the constituent has requested assistance from the member with respect to the subject matter of the record. The member of Congress must provide a copy of the constituent's request for assistance.

10. A record from this system may be disclosed as a routine use to DOE contractor personnel, grantees, and cooperative agreement holders of components of the Department of Health and Human Services, including the National Institute for Occupational Safety and Health, the National Center for Environmental Health of the Center for Disease Control and Prevention, and the Agency for Toxic Substances and Disease Registry when conducting epidemiological studies, or public health activities as required by law performed and pursuant to a Memorandum of Understanding between the Department of the Department of Health and Human Services or its components. Those provided information under this routine use are subject to the same limitations applicable to Department officers and employees under the Privacy Act.

11. A record from this system may be disclosed as a routine use to contractors, grantees, participants in cooperative agreements, and collaborating researchers, or the employees of these parties, when conducting health studies or related health or environmental duties pursuant to their contracts, grants, and cooperating or collaborating research agreements. In order to conduct the studies, the Department, its contractors, grantees, participants in cooperative agreements, and collaborating researchers may disclose a record to federal, state and local health and medical agencies or authorities; to subcontractors in order to determine a subject's vital status or cause of death; to health care providers to verify a diagnosis or cause of death; or to third parties to obtain current addresses for participants in health-related studies, surveys and surveillances. All recipients of such records are required to comply with the Privacy Act, to follow prescribed measures to protect personal privacy, and to disclose or use personally identifiable information only for the above described research purpose. Those provided information under this routine use are subject to the same limitations applicable to Department officers and employees under the Privacy Act.

12. A record from this system of records may be disclosed to members of DOE advisory committees, the Department of Health and Human Services Advisory Committee on Project Related to Department of Energy Facilities and to designated employees of Federal, State, or local government or government-sponsored entities authorized to provide advice to the Department concerning health, safety, or environmental issues. Those provided information under this routine use are subject to the same limitations applicable to Department officers and employees under the Privacy Act.

13. A record from this system may be disclosed as a routine use to the personnel, contractors, grantees, and cooperative agreement holders of the Department of Labor, the Department of Health and Human Services, the Department of Justice, and other Federal agencies and their components, designated by the President to implement the Federal compensation program established by the Energy Employees Occupational Illness Compensation Program Act, for the purpose of assisting in the adjudication or processing of a claim under that Act. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as paper records, microfilm, and electronic media.

RETRIEVABILITY:

Records may be retrieved by name and social security number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Deputy Assistant Secretary for Environment, Safety, Health, U.S. Department of Energy, 1000 Independence Avenue, SW, Washington, DC 20585.

Field Offices: The Managers and Directors of field locations listed above under “System Location(s)” are the system managers for their respective portions of this system.

NOTIFICATION PROCEDURES:

In accordance with the DOE regulation implementing the Privacy Act, at Title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at location where the work is performed. In accordance with the DOE Privacy Act regulation, proper identification is required before a request is processed.

CONTESTING RECORD PROCEDURES:

Same as Notification Procedures above.

RECORD SOURCE CATEGORIES:

The individual who is the subject of the record, physicians, medical is institutions, Office of Workers Compensation Programs, military retired pay system records, Federal civilian retirement systems, retirement life insurance and health benefits records system of the Office of Personnel Management, and the personnel management records systems of the Office of Personnel Management.

SYSTEMS EXEMPTED FROM CERTAIN PROVISIONS OF THE ACT:

None.

DOE-41

SYSTEM NAME:

Legal Files (Claims, Litigation, Criminal Violations, Patents, and Others).

SECURITY CLASSIFICATION:

Unclassified.

SYSTEM LOCATION:

U.S. Department of Energy Headquarters, 1000 Independence Avenue, SW., Washington, DC 20585.

U.S. Department of Energy, Alaska Power Administration, San Point Way, NE Seattle, WA 98115.

U.S. Department of Energy, NNSA Service Center Albuquerque, PO Box 5400, Albuquerque, NM 87115.

U.S. Department of Energy, Bartlesville Energy Technology Center, PO Box 1398, Bartlesville, OK 74003.

U.S. Department of Energy, Bonneville Power Administration, PO Box 3621, Portland, OR 97208.

U.S. Department of Energy, Chicago Operations Office, 9800 South Cass Avenue, Argonne, IL 60439.

U.S. Department of Energy, Grand Forks Energy Technology Center, PO Box 8213, University Station, Grand Forks, ND 58201.

U.S. Department of Energy, Idaho Operations Office, 850 Energy Drive, Idaho Falls, ID 83401.

U.S. Department of Energy, Los Alamos Site Office, 528 35th Street, Los Alamos, NM 87544.

U.S. Department of Energy, National Energy Technology Laboratory (Morgantown), PO Box 880, Morgan town, WV 26505.

U.S. Department of Energy, National Energy Technology Laboratory (Pittsburgh), PO Box 10940, Pittsburgh, PA 15122.

U.S. Department of Energy, National Petroleum Technology Office, William Center Tower One, 1 West Third Street, Suite 1400, Tulsa, OK 74103.

U.S. Department of Energy, NNSA Service Center Nevada, PO Box 98518, Las Vegas, NV 89193-8518.

U.S. Department of Energy, Oak Ridge Operations Office, PO Box E, Oak Ridge, TN 37830.

U.S. Department of Energy, NNSA Service Center Oakland, 1301 Clay Street, Oakland CA 94162-5208.

U.S. Department of Energy, Pittsburgh Naval Reactors, PO Box 109, Pittsburgh, PA 15122.

U.S. Department of Energy, Richland Operations Office, PO Box 550, Richland, WA 99352.

U.S. Department of Energy, Rocky Flats Field Office, 10808 Highway 93, Unit A, Golden CO 80403-8200.

U.S. Department of Energy, NNSA Service Center Oakland, 1301 Clay Street, Oakland, CA 94612-5208.

U.S. Department of Energy, Savannah River Operations Office, PO Box A, Aiken, SC 29801.

U.S. Department of Energy, Schenectady Naval Reactors Office, PO Box 1069, Schenectady, NY 12301.

U.S. Department of Energy, Southeastern Power Administration, 1166 Athens Tech Road, Elberton, GA 30635-4578.

U.S. Department of Energy, Southwestern Power Administration, Williams Tower One, One West Third Street, Tulsa, OK 74103.

U.S. Department of Energy, Western Area Power Administration, PO Box 3402, Golden, CO 80401.

U.S. Department of Energy, Office of Repository Development, PO Box 364629, North Las Vegas, NV 89036-8629.

CATEGORIES OF INDIVIDUALS COVERED BY THE SYSTEM:

All persons identified in files maintained by the Office of General Counsel, which includes attorneys at all DOE offices including National Nuclear Security Administration (NNSA), from which information is retrieved by name or other personal identifier, including: litigants and other claimants against the Department and its contractors asserting matters including, but not limited to, personal injury, property damage or infringement (including intellectual property), contract violation and harms resulting from employer-employee relationships; persons who are the subjects of claims by the DOE, such as persons who may have violated criminal laws, DOE regulations and contracts with the DOE and persons against whom the DOE considered asserting such claims; DOE's contractors and potential contractors; persons holding copyrights and issued patents pertaining to the DOE's activities; DOE employees, subject to garnishment or assignments; and DOE employees and contractor employees who use Alternative Dispute Resolution (ADR).

CATEGORIES OF RECORDS IN THE SYSTEM:

Records concerning legal matters include, but are not limited to, documents pertaining to: (1) Litigation and all other claims against, and by, the DOE and its contractors, which have been assigned to the Office of General Counsel; (2) DOE contracts; (3) issued patents and copyright matters; (4) records pertaining ADR. Litigation and claim records may, among others, include correspondence, pleadings such as complaints, answers, and motions; depositions, court orders and briefs. Records in this system also may include accident reports, inspection reports, investigation reports, audit reports, personnel files, contracts, consultants agreements, reports pertaining to criminal matters of interest to the DOE, Personnel Security Review Board documents, medical records, photographs, telephone records, patents and related documents, correspondence, and memoranda.

Note: This system does not include records maintained in DOE-16, Standards of Conduct.

AUTHORITY FOR MAINTENANCE OF THE SYSTEM:

42 U.S.C. 7101 et seq. and 50 U.S.C. 2401 et seq.

PURPOSE(S):

The records are maintained and used by the Department to settle claims and prepare for litigation and resolve disputes.

ROUTINE USES OF RECORDS MAINTAINED IN THE SYSTEM, INCLUDING CATEGORIES OF USERS AND THE PURPOSES OF SUCH USES:

1. A record from this system may be disclosed as a routine use for the purpose of an investigation, settlement of claims, or the preparation and conduct of litigation to: (1) A person representing the Department in the investigation, settlement or litigation, and to individuals assisting in such representation; (2) others involved in the investigation, settlement, and litigation, and their representatives and individuals assisting those representatives; (3) a witness, potential witness, or their representatives and assistants, and any other person who possesses information pertaining to the matter, when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

4. A record from this system may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, State or Federal agency when records alone or in conjunction with other information, indicates a violation or potential violation of law whether civil, criminal, or regulatory in nature, and whether arising by general statute or particular program pursuant thereto.

6. A record from this system of records may be disclosed to a member of Congress submitting a request involving the constituent when the constituent has requested assistance from the member with respect to the subject matter of the record. The member of Congress must provide a copy of the constituent's request for assistance.

7. A record from this system of records may be disclosed to foreign governments or international organizations in accordance with treaties, international conventions, or executive agreements.

8. A record from the system may be disclosed as a routine use to DOE contractors in performance of their contracts, and their officers and employees who have a need for the record in the performance of their duties. Those provided information under this routine use are subject to the same limitations applicable to Department officers and employees under the Privacy Act.

9. A record from this system may be disclosed as a routine use to the personnel, contractors, grantees, and cooperative agreement holders of the Department of Labor, the Department of Health and Human Services, the Department of Justice, and other Federal agencies and their components, designated by the President to implement the Federal compensation program established by the Energy Employees Occupational Illness Compensation Program Act, for the purpose of assisting in the adjudication or processing of a claim under that Act. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as paper records and electronic media.

RETRIEVABILITY:

Records may be retrieved by name, case name, claim name, or assigned identifying number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Office of the General Counsel, U.S. Department of Energy, 1000 Independence Avenue, SW., Washington, DC 20585.

Field Offices: The Chief Counsels of the “System Location(s)” listed above are the system managers for their respective portions of this system.

NOTIFICATION PROCEDURES:

In accordance with the DOE regulation implementing the Privacy Act, at Title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Subject individuals, inspection reports, other agencies, Office of General Counsel attorneys, other agency officers and staff, contractors, investigators, and auditors.

SYSTEMS EXEMPTED FROM CERTAIN PROVISIONS OF THE ACT:

This system is exempt under subsection (k)(1), (k)(2), and (k)(5) of the Privacy Act, to the extent that information within the System meets the criteria of those subsections of the Act. Such information has been exempted from the provisions of subsections (c)(3), (d), and (e)(1) of the Act; see the DOE Privacy Act regulation at Title 10, Code of Federal Regulations, part 1008.

DOE-43

SYSTEM NAME:

Personnel Security Files.

SECURITY CLASSIFICATION:

Unclassified and classified.

SYSTEM LOCATION:

U.S. Department of Energy, Headquarters, 1000 Independence Avenue, SW., Washington, DC 20585.

U.S. Department of Energy, NNSA Service Center Albuquerque, PO Box 5400, Albuquerque, NM 87185-5400.

U.S. Department of Energy, Chicago Operations Office, 9800 South Cass Avenue, Argonne, IL 60439.

U.S. Department of Energy, Idaho Operations Office, 850 Energy Drive, Idaho Falls, ID 83401.

U.S. Department of Energy, NNSA Service Center Nevada, PO Box 98518, Las Vegas, NV 89193-8518.

U.S. Department of Energy, Oak Ridge Operations Office, PO Box 2001, Oak Ridge, TN 37831.

U.S. Department of Energy, NNSA Service Center Oakland, 1301 Clay Street, Oakland, CA 94612-5208.

U.S. Department of Energy, Pittsburgh Naval Reactors Office, PO Box 109, West Mifflin, PA 15122-0109.

U.S. Department of Energy, Richland Operations Office, 825 Jadwin Avenue, PO Box 550, Richland, WA 99352.

U.S. Department of Energy, Savannah River Operations Office, PO Box A, Aiken, SC 29801.

U.S. Department of Energy, Schenectady Naval Reactors Office, PO Box 1069, Schenectady, NY 12301.

CATEGORIES OF INDIVIDUALS COVERED BY THE SYSTEM:

Applicants for Department of Energy (DOE) and National Nuclear Security Administration (NNSA) employment; DOE employees including assignees and detailees, agents and consultants with the DOE, DOE contractors and subcontractors, and DOE access permittees processed for DOE access authorizations for access to classified matter or special nuclear materials; other

Federal agency contractor and subcontractor applicants for employment, and their employees, detailees, agents, and consultants processed for DOE access authorizations; and other individuals processed for DOE access authorizations as determined by the Secretary.

CATEGORIES OF RECORDS IN THE SYSTEM:

Name, date and place of birth, Social Security Number, citizenship status, grade, organization, employer(s), initial investigation and reinvestigation history; and access authorization history; the formal request(s) and justification(s) for access authorization processing; security forms, fingerprint cards, and acknowledgments completed by the individual for both the initial investigation and reinvestigation; results of preemployment checks (if required); request(s) and approval(s) for issuance of a security badge(s); report of investigation provided by an agency which has previously conducted an investigation of the individual for employment or security clearance purposes; approvals for classified visits; photographs; security infraction reports; security termination statement(s), foreign travel document; letters of interrogatory, personnel security interview transcripts or summaries, and/or audio tapes of the interviews, and evaluations of the interviews; reports of hospitalization or treatment for a mental condition or substance abuse, including information provided by an Employee Assistance Program provider; reports of DOE-sponsored mental evaluations conducted by competent medical authorities; reports of security violations; public record information to include law enforcement, financial, divorce, bankruptcy, name change and other court information or reports and copies of information appearing in the media; security advisory letters; information concerning citizenship status, foreign contacts, and spouse and/or individual(s) with whom the individual resides; administrative review processing data; justifications for participation in sensitive DOE activities and/or for Sensitive Compartmented Information access approval; results of required testing for participation in sensitive DOE activities; documents concerning Interim Access Authorization processing or processing under section 145b of the Atomic Energy Act of 1954, as amended; written evaluations of reported derogatory information; credit check results; copies of correspondence to and from the individual concerning the items above and copies of inter- and intra-agency correspondence concerning the items above; and any other material relevant to the individual's DOE access authorization or special authorization eligibility or processing and, for DOE employees, suitability for Federal employment.

AUTHORITY FOR MAINTENANCE OF THE SYSTEM:

42 U.S.C. 7101 et seq.; 50 U.S.C. 2401 et seq.; 10 CFR part 710, subparts A and B; Executive Orders 10450 and 12968; 5 CFR part 732; DOE O 472.1B, Personnel Security Activities, of 3-24-97; Personnel Security Program Manual DOE M 472-1.1, of 5-22-98; and Director of Central Intelligence Directive 1/14 of 1-22-92.

PURPOSE(S):

The records are maintained and used by the Department as an official record of all information gathered and evaluated to determine an individual's initial and continued DOE access authorization eligibility and, if applicable, an individual's eligibility for participation in DOE sensitive activities or for access to Sensitive Compartmented Information.

ROUTINE USES OF RECORDS MAINTAINED IN THE SYSTEM, INCLUDING CATEGORIES OF USERS AND THE PURPOSES OF SUCH USES:

1. A record from this system may be disclosed as a routine use to competent medical authority who, under a formal agreement for payment of services with the local DOE personnel security element, conducts evaluations under Title 10, Code of Federal Regulations, part 710, to determine whether an individual has an illness or mental condition of a nature which causes, or may cause, a significant defect in judgment or reliability, or is alcohol dependent or suffering from alcohol abuse.

2. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

3. A record from this system may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

4. A record from the system may be disclosed as a routine use to the appropriate local, State or Federal agency when records alone or in conjunction with other information, indicates a violation or potential violation of law whether civil, criminal, or regulatory in nature, and whether arising by general statute or particular program pursuant thereto.

5. A record from this system of records may be disclosed to a member of Congress submitting a request involving the constituent when the constituent has requested assistance from the member with respect to the subject matter of the record. The member of Congress must provide a copy of the constituent's request for assistance.

6. A record from this system of records may be disclosed to foreign governments or international organizations in accordance with treaties, international conventions, or executive agreements.

7. A record from the system may be disclosed as a routine use to DOE contractors in performance of their contracts, and their officers and employees who have a need for the record in the performance of their duties. Those provided information under this routine use are subject to the same limitations applicable to Department officers and employees under the Privacy Act.

POLICIES AND PRACTICES FOR STORING, RETRIEVING, ACCESSING, RETAINING AND DISPOSING OF RECORDS IN THE SYSTEM:

STORAGE:

A record may be stored as paper records, microfiche, and electronic media.

RETRIEVABILITY:

Records may be retrieved by name and assigned DOE file number (alpha-numeric code).

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Security, U.S. Department of Energy, 1000 Independence Avenue, SW., Washington, DC 20585.

Field Offices: The Manager of the “System locations” listed above are the system managers for their respective portions of this system.

NOTIFICATION PROCEDURES:

In accordance with the DOE regulation implementing the Privacy Act, at Title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office location(s) where the requester believes the records are located.

RECORDS ACCESS PROCEDURES:

Same as Notification Procedures above. Records are generally kept at locations where the work is performed. In accordance with DOE's Privacy Act regulation, proper identification is required before a request is processed.

CONTESTING RECORD PROCEDURES:

Same as Notification Procedures above.

RECORD SOURCE CATEGORIES:

Documents completed and/or furnished by subject; Department of Energy; Office of Personnel Management; Federal Bureau of Investigation; Defense Security Service; medical professionals; and confidential sources.

SYSTEMS EXEMPTED FROM CERTAIN PROVISIONS OF THE ACT:

This system is exempt under subsection (k)(1), (k)(2), and (k)(5) of the Privacy Act to the extent that information within the System meets the criteria of those subsections of the Act. Such information has been exempted from the provisions of subsections (c)(3), (d), and (e)(1) of the Act. See the Department's Privacy Act regulation at Title 10, Code of Federal Regulations, part 1008.

DOE-44

SYSTEM NAME:

Special Access Authorization for Categories of Classified Information.

SECURITY CLASSIFICATION:

Classified.

SYSTEM LOCATION:

U.S. Department of Energy, Headquarters, 1000 Independence Avenue, SW., Washington, DC 20585.

U.S. Department of Energy, NNSA Service Center Albuquerque, PO Box 5400, Albuquerque, NM 87185-5400.

U.S. Department of Energy, Amarillo Site Office, Highway 60 FM2373, Amarillo, TX 79120.

U.S. Department of Energy, Idaho Operations Office, 850 Energy Drive, Idaho Falls, ID 83401.

U.S. Department of Energy, Kansas City Site Office, 2000 E 95th Street, Kansas City, MO 64141-3202.

U.S. Department of Energy, Los Alamos Site Office, 528 35th Street, Los Alamos, NM 87544.

U.S. Department of Energy, NNSA Service Center Nevada, PO Box 98518, Las Vegas, NV 89193-8518.

U.S. Department of Energy, Oak Ridge Operations Office, PO Box 2001, Oak Ridge, TN 37831.

U.S. Department of Energy, NNSA Service Center Oakland, 1301 Clay Street, Oakland, CA 94612-5208.

U.S. Department of Energy, Richland Operations Office, 825 Jadwin Avenue, PO Box 550, Richland, WA 99352.

U.S. Department of Energy, Sandia Site Office, 7011 E Avenue, Albuquerque, NM 87123.

U.S. Department of Energy, Savannah River Operations Office, PO Box A, Aiken, SC 29801.

CATEGORIES OF INDIVIDUALS COVERED BY THE SYSTEM:

Current and former Department of Energy (DOE) and National Nuclear Security Administration employees, current and former DOE contractor employees, and employees of other Federal agencies authorized access to special categories of classified information and compartmentalized DOE facilities and/or areas.

CATEGORIES OF RECORDS IN THE SYSTEM:

Names of individuals, social security numbers, letters and memoranda , and status reports relating to authorized access to special categories of classified information and compartmentalized DOE facilities and/or areas.

AUTHORITY FOR MAINTENANCE OF THE SYSTEM:

42 U.S.C. 7101; 50 U.S.C. 2401; 5 U.S.C. 301; Atomic Energy Act of 1954, as amended; Department of Energy Organization Act, including authorities incorporated by reference in Title of the Department of Energy Organization Act; DOE M 471.2-4, Executive Order 12333; Executive Order 12968; Federal Personnel Manual, Chapters 731 and 736.

PURPOSE(S):

The records are maintained and used by DOE to verify individuals who are authorized access to special categories of classified information and compartmentalized DOE facilities and or areas.

ROUTINE USES OF RECORDS MAINTAINED IN THE SYSTEM, INCLUDING CATEGORIES OF USERS AND THE PURPOSES OF SUCH USES:

1. A record from this system may be disclosed as a routine use to DOE contractors in performance of their contracts, and their officers and employees who have a need for the record in the performance of their duties. Those provided information under this routine use are subject to the same limitations applicable to Department officers and employees under the Privacy Act, and

2. A record from this system may be disclosed as a routine use to other federal agencies or departments for determining individuals who have access to classified information generated by these agencies.

3. A record from the system may be disclosed as a routine use to the appropriate local, State or Federal agency when records alone or in conjunction with other information, indicates a violation or potential violation of law whether civil, criminal, or regulatory in nature, and whether arising by general statute or particular program pursuant thereto.

4. A record from this system may be disclosed as a routine use to a member of Congress submitting a request involving a constituent when the constituent has requested assistance from the member of Congress with respect to the subject matter of the record. The member of Congress must provide a copy of the constituent's request for assistance.

POLICIES AND PRACTICES FOR STORING, RETRIEVING, ACCESSING, RETAINING AND DISPOSING OF RECORDS IN THE SYSTEM:

STORAGE:

A record may be stored as paper records, microfiche, and electronic media.

RETRIEVABILITY:

Records may be retrieved by name.

SAFEGUARDS:

Paper records and microfiche are maintained in locked General Services Administration approved security containers. Electronic records are controlled through established DOE computer center procedures (personnel screening and physical security), and they are locked in General Services Administration approved security containers. Access is limited to those whose official duties require access to the records on a strict need-to-know basis.

RETENTION AND DISPOSAL:

Records retention and disposal authorities are contained in the National Archives and Records Administration (NARA) General Records Schedule and DOE record schedules that have been approved by NARA.

SYSTEM MANAGER(S) AND ADDRESS:

Headquarters: Director, Office of Security, U.S. Department of Energy, 1000 Independence Avenue, SW., Washington, DC 20585.

Field Offices: The Managers of the “System locations” listed above are the system managers for their respective portions of this system.

NOTIFICATION PROCEDURES:

In accordance with the DOE regulation implementing the Privacy Act, at Title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by a Laboratory or an Area Office, the request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with DOE's Privacy Act regulation, proper identification is required before a request is processed.

CONTESTING RECORD PROCEDURES:

Same as Notification Procedures above.

RECORD SOURCE CATEGORIES:

The subject individual, present and former DOE employees and contractor employees; publicly available material; other agencies within the Intelligence Community; other offices and elements within DOE; and other federal agencies and official records.

SYSTEM EXEMPTED FROM CERTAIN PROVISIONS OF THE ACT:

This system is exempt under subsection (k)(1) of the Privacy Act to the extent that information within the System meets the criteria of those subsections of the Act. Such information has been exempted from the provisions of subsections (c)(3), and (e)(1) of the Act. See the Department's Privacy Act regulation at Title 10, Code of Federal Regulations, part 1008.

DOE-45

SYSTEM NAME:

Weapon Data Access Control System (WDACS).

SECURITY CLASSIFICATION:

Unclassified.

SYSTEM LOCATION:

Headquarters: U.S. Department of Energy, l000 Independence Avenue, SW., Washington, DC 20585.

U.S. Department of Energy, NNSA Service Center Albuquerque, PO Box 5400, Albuquerque, NM 87185-5400.

U.S. Department of Energy, Amarillo Site Office, PO Box 30030, Amarillo, TX 79120-0030.

U.S. Department of Energy, The Office of Kansas City Site Operations, PO Box 410202, Kansas City, MO 64141-0202.

U.S. Department of Energy, Miamisburg Area Office, PO Box 66, Miamisburg, OH 45342-0066.

U.S. Department of Energy, NNSA Service Center Nevada, PO Box 98518, Las Vegas, NV 89193-8518.

U.S. Department of Energy, Oak Ridge Operations Office, PO Box 2001, Oak Ridge, TN 37831.

U.S. Department of Energy, NNSA Service Center Oakland, 1301 Clay Street, Oakland, CA 94612-5208.

U.S. Department of Energy, Office of Scientific and Technical Information, PO Box 62, Oak Ridge, TN 37831.

U.S. Department of Energy, Rocky Flats Field Office, PO Box 928, Golden, CO 80402-0928.

U.S. Department of Energy, Sandia Site Office, Albuquerque, PO Box 5800, Albuquerque, NM 87185-5800.

U.S. Department of Energy, Sandia Site Office, PO Box 969, Livermore, CA 94551-0969.

U.S. Department of Energy, Sandia Site Office, Tonopah Test Range, PO Box 871, Tonopah, NV 89049.

U.S. Department of Energy, Savannah River Operations Office, PO Box A, Aiken, SC 29808.

U.S. Department of Energy, University of California, Livermore Site Office, 7000 East Avenue, PO Box 808, Livermore, CA 94550..

U.S. Department of Energy, University of California, Los Alamos National Laboratory, PO Box 1663, Los Alamos, NM 87545.

CATEGORIES OF INDIVIDUALS COVERED BY THE SYSTEM:

Department of Energy (DOE), National Nuclear Security Administration, Department of Defense (DOD), and other Government agency employees, contractors, and consultants requiring access to classified weapons information and/or DOE nuclear weapons program facilities.

CATEGORIES OF RECORDS IN THE SYSTEM:

Name, social security number, date of birth, citizenship, employer, type of clearance, number and date of clearance, categories of information requested and authorized, locations to be visited and dates of visit, purpose of visit, point of contact, Government agency certifying need-to-know, and classified mail/shipping addresses.

AUTHORITY FOR MAINTENANCE OF THE SYSTEM:

42 U.S.C. 7101 et seq. and 50

U.S.C. 2401 et seq.

PURPOSE(S):

The records are maintained by the Department to document all persons who have been authorized access to nuclear weapon information through a visit to one of the DOE Nuclear Weapons Complex facilities or to receive classified data via a classified mail/shipping channel.

ROUTINE USES OF RECORDS MAINTAINED IN THE SYSTEM, INCLUDING CATEGORIES OF USERS AND THE PURPOSES OF SUCH USES:

A record from the system may be disclosed as a routine use to DOE contractors in performance of their contracts, and their officers and employees who have a need for the record in the performance of their duties. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as microfiche, paper records, electronic media.

RETRIEVABILITY:

Records may be retrieved by social security number, and name.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Deputy Administrator for Defense Programs, U.S. Department of Energy, NNSA, 1000 Independence Avenue, SW., Washington, DC 20585.

Field Offices: The Managers and Directors of the “System locations” listed above are the system managers for their respective portions of this system.

NOTIFICATION PROCEDURES:

In accordance with the DOE regulation implementing the Privacy Act, at Title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by a Laboratory or an Area Office, the request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the Privacy Act regulation, proper identification is required before a request is processed.

CONTESTING RECORD PROCEDURES:

Same as Notification Procedures above.

RECORD SOURCE CATEGORIES:

The individuals, DOE, DOD, and other Government agencies, and their contractors.

SYSTEM EXEMPTED FROM CERTAIN PROVISIONS OF THE ACT:

None.

DOE-46

SYSTEM NAME:

Administrative Review Files.

SECURITY CLASSIFICATION:

The contents of Administrative Review Files are unclassified and classified.

SYSTEM LOCATION:

U.S. Department of Energy, Headquarters, 1000 Independence Avenue, SW., Washington, DC 20585.

U.S. Department of Energy, NNSA Service Center Albuquerque, PO Box 5400, Albuquerque, NM 87185-5400.

U.S. Department of Energy, Chicago Operations Office, 9800 South Cass Avenue, Argonne, IL 60439.

U.S. Department of Energy, Idaho Operations Office, 850 Energy Drive, Idaho Falls, ID 83401.

U.S. Department of Energy, NNSA Service Center Nevada, PO Box 98518, Las Vegas, NV 89193-8518.

U.S. Department of Energy, Oak Ridge Operations Office, PO Box 2001, Oak Ridge, TN 37831.

U.S. Department of Energy, NNSA Service Center Oakland, 1301 Clay Street, Oakland, CA 94612-5208.

U.S. Department of Energy, Pittsburgh Naval Reactors Office, PO Box 109, West Mifflin, PA 15122-0109.

U.S. Department of Energy, Richland Operations Office, 825 Jadwin Avenue, PO Box 550, Richland, WA 99352.

U.S. Department of Energy, Savannah River Operations Office, PO Box A, Aiken, SC 29801.

U.S. Department of Energy, Schenectady Naval Reactors Office, PO Box 1069, Schenectady, NY 12301-1069.

CATEGORIES OF INDIVIDUALS COVERED BY THE SYSTEM:

Individuals processed for or granted DOE access authorization who are subsequently processed under 10 CFR part 710 for denial or revocation of access authorization; applicants for employment; employees including assignees and detailees; agents, and consultants with the DOE including National Nuclear Security Administration (NNSA); DOE contractors and subcontractors at any tier; and DOE access permittees processed for DOE access authorizations for access to classified matter or special nuclear materials; other agency Federal, contractor, and subcontractor at any tier; applicants for employment, employees (including assignees and detailees), agents, and consultants processed for DOE access authorization; other individuals as processed for DOE access authorization as determined by the Secretary.

CATEGORIES OF RECORDS IN THE SYSTEM:

Transcript of the hearing convened under 10 CFR part 710 procedures (when an individual does not avail himself/herself of the right to a hearing under 10 CFR part 710 procedures, his/her DOE Personnel Security File (see DOE-43, Personnel Security File) becomes the basis of the administrative record); exhibits submitted by the DOE and the respondent to the Hearing Officer for inclusion in the administrative record; the Hearing Officer's opinion; decisions rendered by the Manager, Director of Safeguards and Security, and/or the Appeal Panel; evidence submitted by the DOE or the respondent subsequent to the closing of the administrative record; correspondence to and from the individual (and his/her counsel or representative) related to the conduct of proceedings; intra-agency correspondence related to the conduct of proceedings; and information concerning reconsideration of the case.

AUTHORITY FOR MAINTENANCE OF THE SYSTEM:

42 U.S.C. 7101 et seq.; 50 U.S.C. 2401 et seq.; 10 CFR part 710, subparts A and B; Executive Order 12968; and DOE O 472.1B, PERSONNEL SECURITY ACTIVITIES, of 3-24-97, and Personnel Security Program Manual DOE M 472-1.1 of 5-22-98.

PURPOSE(S):

The records are maintained and used by the Department to maintain an official administrative record of 10 CFR part 710 proceedings that are conducted to determine an individual's DOE access authorization eligibility.

ROUTINE USES OF RECORDS MAINTAINED IN THE SYSTEM, INCLUDING CATEGORIES OF USERS AND THE PURPOSE OF SUCH USES:

1. A record from this system may be disclosed to competent medical authority who, under a formal agreement for payment of services with the local DOE personnel security element, conducts evaluations under Title 10, Code of Federal Regulations, part 710, to determine whether an individual has an illness or mental condition of a nature that causes, or may cause, a significant defect in judgment or reliability, or is alcohol dependent or suffering from alcohol abuse.

2. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

3. A record from this system of records may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

4. A record from the system may be disclosed as a routine use to the appropriate local, State or Federal agency when records alone or in conjunction with other information, indicates a violation or potential violation of law whether civil, criminal, or regulatory in nature, and whether arising by general statute or particular program pursuant thereto.

5. A record from this system of records may be disclosed to a member of Congress submitting a request involving the constituent when the constituent has requested assistance from the member with respect to the subject matter of the record. The member of Congress must provide a copy of the constituent's request for assistance.

6. A record from this system of records may be disclosed to foreign governments or international organizations in accordance with treaties, international conventions, or executive agreements

7. A record from the system may be disclosed as a routine use to DOE contractors in performance of their contracts, and their officers and employees who have a need for the record in the performance of their duties. Those provided information under this routine use are subject to the same limitations applicable to Department officers and employees under the Privacy Act.

POLICIES AND PRACTICES OR STORING, RETRIEVING, ACCESSING, RETAINING AND DISPOSING OF RECORDS IN THE SYSTEM:

STORAGE:

Records may be stored as paper records, audio tape, video tape, microfiche and electronic media.

RETRIEVABILITY:

Records may be retrieved by name and assigned DOE file number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Security, U.S. Department of Energy, 1000 Independence Avenue, SW., Washington, DC 20585.

Field Offices: The Managers of the “System Location(s)” listed above are the system managers for their respective portions of the system.

NOTIFICATION PROCEDURES:

In accordance with the DOE regulation implementing the Privacy Act, at Title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with DOE's Privacy Act regulation, proper identification is required before a request is processed.

CONTESTING RECORD PROCEDURES:

Same as Notification Procedures above.

RECORD SOURCE CATEGORIES:

The individual's Personnel Security File, and DOE staff.

SYSTEM EXEMPTED FROM CERTAIN PROVISIONS OF THE ACT:

This system is exempt under subsections (k)(1), (k)(2), and (k)(5) of the Privacy Act, to the extent that information within the System meets the criteria of those subsections of the Act. Such information has been exempted from the provisions of subsections (c)(3), (d), and (e)(1) of the Act; see the Department's Privacy Act regulation at Title 10, Code of Federal Regulations, part 1008.

DOE-48

SYSTEM NAME:

Security Education and/or Infraction Reports.

SECURITY CLASSIFICATION:

Classified.

SYSTEM LOCATION:

U.S. Department of Energy, Headquarters, 1000 Independence Avenue, SW., Washington, DC 20585.

U.S. Department of Energy, NNSA Service Center Albuquerque, PO Box 5400, Albuquerque, NM 87185-5400.

U.S. Department of Energy, Amarillo Site Office, Highway 60 FM2373, Amarillo, TX 79120.

U.S. Department of Energy, Carlsbad Field Office, 4021 National Parks Highway, Carlsbad, NM 88220.

U.S. Department of Energy, Chicago Operations Office, 9800 South Cass Avenue, Argonne, IL 60439.

U.S. Department of Energy, Idaho Operations Office, 850 Energy Drive, Idaho Falls, ID 83401.

U.S. Department of Energy, Kansas City Site Office, 2000 E. 95th Street, Kansas City, MO 64141-3202.

U.S. Department of Energy, Sandia Site Office, Pennsylvania & H Street, Albuquerque, NM 87185-5400.

U.S. Department of Energy, Los Alamos Site Office, 528 35th Street, Los Alamos, NM 87544.

U.S. Department of Energy, NNSA Service Center Nevada, PO Box 98518, Las Vegas, NV 89193-8518.

U.S. Department of Energy, Oak Ridge Operations Office, PO Box 2001, Oak Ridge, TN 37831.

U.S. Department of Energy, NNSA Service Center Oakland, 1301 Clay Street, Oakland, CA 94612-5208.

U.S. Department of Energy, Pittsburgh Naval Reactors Office, PO Box 109, West Mifflin, PA 15122-0109.

U.S. Department of Energy, Richland Operations Office, 825 Jadwin Avenue, PO Box 550, Richland, WA 99352.

U.S. Department of Energy, Rocky Flats Field Office, 10808 Highway 93, Unit A, Golden, CO 80403-8200.

U.S. Department of Energy, Savannah River Operations Office, PO Box A, Aiken, SC 29801.

U.S. Department of Energy, Schenectady Naval Reactors, PO Box 1069, Schenectady, NY 12301.

CATEGORIES OF INDIVIDUALS COVERED BY THE SYSTEM:

Department of Energy (DOE) and National Nuclear Security Administration employees and DOE contractor employees possessing DOE access authorizations.

CATEGORIES OF RECORDS IN THE SYSTEM:

Records of security education briefings, and investigative and summary reports of security infraction incidents.

AUTHORITY FOR MAINTENANCE OF THE SYSTEM:

42 U.S.C. 7101 et seq. and 50 U.S.C. 2401 et seq.

PURPOSE(S):

The records are maintained and used by the Department to inform individuals of their responsibilities for protecting classified matter, and the procedures established by the Department to ensure authorized disclosure.

ROUTINE USES OF RECORDS MAINTAINED IN THE SYSTEM, INCLUDING CATEGORIES OF USERS AND THE PURPOSES OF SUCH USES:

1. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a Federal agency, in response to its written request, to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, State or Federal agency when records alone or in conjunction with other information, indicates a violation or potential violation of law whether civil, criminal, or regulatory in nature, and whether arising by general statute or particular program pursuant thereto.

6. A record from this system of records may be disclosed to a member of Congress submitting a request involving the constituent when the constituent has requested assistance from the member with respect to the subject matter of the record. The member of Congress must provide a copy of the constituent's request for assistance.

7. A record from the system may be disclosed as a routine use to DOE contractors in performance of their contracts, and their officers and employees who have a need for the record in the performance of their duties. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as paper files and electronic media.

RETRIEVABILITY:

Records may be retrieved by name.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Security, U.S. Department of Energy, 1000 Independence Avenue, SW., Washington, DC 20585.

Field Offices: The Managers and Directors of the “System Locations” above are the system managers for their respective portions of this system.

NOTIFICATION PROCEDURES:

In accordance with the DOE regulation implementing the Privacy Act, at Title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Training officers, security personnel, individual's supervisor, and local, state, and Federal authorities.

SYSTEM EXEMPTED FROM CERTAIN PROVISIONS OF THE ACT:

None.

DOE-49

SYSTEM NAME:

Security Communications File.

SECURITY CLASSIFICATION:

Classified and Unclassified.

SYSTEM LOCATION:

U. S. Department of Energy, 1000 Independence Avenue, SW., Washington, DC 20585.

CATEGORIES OF INDIVIDUALS COVERED BY THE SYSTEM:

Individuals who communicated verbal, electronic, written or telephonic expressions of interest about DOE and National Nuclear Security Administration (NNSA) personnel, facilities or activities in a manner that causes security concerns.

CATEGORIES OF RECORDS IN THE SYSTEM:

Threat communications received from individuals as well as individuals who have been identified from articles in the news media as being potential threats to DOE officials, DOE employees and DOE contractor employees. Also includes profiles and informational reports on any of the individuals who may have made threats against DOE personnel or property.

AUTHORITY FOR MAINTENANCE OF THE SYSTEM:

42 U.S.C. 7101 et seq., 50 U.S.C. 2401 et seq., and the implementing directive of E.O. 12958.

PURPOSE(S):

The records are maintained and used by DOE to maintain a database and profiles of all individuals who have made threats of any kind, and through any medium, against DOE officials, DOE employees, DOE contractor employees, DOE facilities and/or DOE buildings.

ROUTINE USES OF RECORDS MAINTAINED IN THE SYSTEM, INCLUDING CATEGORIES OF USERS AND THE PURPOSES OF SUCH USES:

1. A record from the system may be disclosed as a routine use to the appropriate local, State or Federal agency when records alone or in conjunction with other information, indicates a violation or potential violation of law whether civil, criminal, or regulatory in nature, and whether arising by general statute or particular program pursuant thereto.

2. A record from the system may be disclosed as a routine use to a Federal, state or local agency to obtain information relevant to a Departmental decision concerning the hiring or retention of an employee, the issuance of a security clearance, the letting of a contract, or the issuance of a license, grant, or other benefit. The Department must deem such disclosure to be compatible with the purpose for which the Department collected the information.

3. A record from this system may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

4. A record from the system may be disclosed as a routine use to DOE contractors in performance of their contracts, and their officers and employees who have a need for the record in the performance of their duties. Those provided information under this routine use are subject to the same limitations applicable to DOE officers and employees under the Privacy Act.

5. A record from the system of records may be disclosed to a member of Congress submitting a request involving the constituent when the constituent has requested assistance from the member concerning the subject matter of the record. The member of Congress must provide a copy of the constituent's request for assistance.

POLICIES AND PRACTICES FOR STORING, RETRIEVING, ACCESSING, RETAINING, AND DISPOSING OF RECORDS IN THE SYSTEM:

STORAGE:

Records may be stored as paper records, microfiche, and electronic media.

RETRIEVABILITY:

Records may be retrieved by name, social security number, date of birth, and other miscellaneous personal identifiers.

SAFEGUARDS:

Paper records are maintained in locked General Services Administration approved security containers. Electronic records are controlled through established DOE computer center procedures (personnel screening and physical security), and they are password protected. Passwords are known only by the system manager. Access is limited to those whose official duties require access to the records on a strict need-to-know basis and other law enforcement authorities, as applicable.

RETENTION AND DISPOSAL:

Records retention and disposal authorities are contained in the National Archives and Records Administration (NARA) General Records Schedule and DOE records schedules that have been approved by NARA.

SYSTEM MANAGER(S) AND ADDRESS:

U.S. Department of Energy, Director, Office of Security, 1000 Independence Avenue, SW., Washington, DC 20585.

NOTIFICATION PROCEDURES:

In accordance with the DOE regulation implementing the Privacy Act, at Title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The subject individual, complainants, witnesses, agency files and records, official federal, state, or local records, and publicly available material.

SYSTEM EXEMPTED FROM CERTAIN PROVISIONS OF THE ACT:

This system is exempt under subsections (k)(1), (k)(2), and (k)(5) of the Privacy Act, to the extent that information within the System meets the criteria of those subsections of the Act. Such information has been exempted from the provisions of subsections (c)(3), (d), and (e)(1) of the Act; see the Department's Privacy Act regulation at Title 10, Code of Federal Regulations, part 1008.

DOE-50

SYSTEM NAME:

Personnel Assurance Program (PAP) Records.

SECURITY CLASSIFICATION:

Unclassified.

SYSTEM LOCATION:

U.S. Department of Energy, NNSA Service Center Albuquerque, PO Box 5400, Albuquerque, NM 87115-5400.

U.S. Department of Energy, Amarillo Site Office, Pantex Plant, PO Box 30030, Amarillo, TX 79120.

U.S. Department of Energy, Sandia Site Office, AL, PO Box 5400, Albuquerque, NM 87158-5400.

U.S. Department of Energy, Los Alamos Site Office, 528 35th Street, Los Alamos, NM 87544.

U.S. Department of Energy, NNSA Service Center Nevada, PO Box 98518, Las Vegas, NV 89193-8518.

U.S. Department of Energy, NNSA Service Center Oakland, 1301 Clay Street, Oakland, CA 94612-5208.

CATEGORIES OF INDIVIDUALS COVERED BY THE SYSTEM:

Department of Energy (DOE) including National Nuclear Security Administration (NNSA) or contractor employees performing work that affords both technical knowledge and access to assembled nuclear explosives or certain nuclear weapon components.

CATEGORIES OF RECORDS IN THE SYSTEM:

Results of medical examination; employment review; credit/consumer reports; data pertaining to access authorizations (clearances); training records pertaining to individuals' duties involving assembled nuclear explosives or certain nuclear weapon components; employee name; department division; job title; L-code (mail code); telephone number; pager number employee number; and social security number.

AUTHORITY FOR MAINTENANCE OF THE SYSTEM:

42 U.S.C. 7101 et seq.; 50 U.S.C. 2401 et seq.; Executive Orders 10450, 10865, and 12356; and 10 CFR part 711, Personnel Assurance Program.

PURPOSE(S):

The records are maintained and used by the Department to ensure that individuals assigned to nuclear explosive duties do not have emotional, mental, or physical incapacities that could result in a threat to nuclear explosive safety. The PAP establishes the requirements and responsibilities for screening, selecting, and continuously evaluating employees assigned to or being considered for assignment to nuclear explosive duties.

ROUTINE USES OF RECORDS MAINTAINED IN THE SYSTEM, INCLUDING CATEGORIES OF USERS AND THE PURPOSES OF SUCH USES:

1. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a Federal agency, in response to its written request, to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, State or Federal agency when records alone or in conjunction with other information, indicates a violation or potential violation of law whether civil, criminal, or regulatory in nature, and whether arising by general statute or particular program pursuant thereto.

6. A record from this system of records may be disclosed to a member of Congress submitting a request involving the constituent when the constituent has requested assistance from the member with respect to the subject matter of the record. The member of Congress must provide a copy of the constituent's request for assistance.

7. A record from this system of records may be disclosed to foreign governments or international organizations in accordance with treaties, international conventions, or executive agreements

8. A record from the system may be disclosed as a routine use to DOE contractors in performance of their contracts, and their officers and employees who have a need for the record in the performance of their duties. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as paper files and electronic media.

RETRIEVABILITY:

Records may be retrieved by name.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Deputy Administrator for Defense, U.S. Department of Energy, NNSA, 1000 Independence Avenue, SW., Washington, DC 20585.

Field Offices: The Managers and Directors of the “System Locations” listed above are the system managers for their respective portions of this system.

NOTIFICATION PROCEDURES:

In accordance with the DOE regulation implementing the Privacy Act, at Title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Medical records, occupational training records, and personnel security records.

SYSTEM EXEMPTED FROM CERTAIN PROVISIONS OF THE ACT:

None.

DOE-51

SYSTEM NAME:

Employee and Visitor Access Control Records.

SECURITY CLASSIFICATION:

Unclassified.

SYSTEM LOCATION:

U.S. Department of Energy, Headquarters, 1000 Independence Avenue, SW., Washington, DC 20585.

U.S. Department of Energy, NNSA Service Center Albuquerque, PO Box 5400, Albuquerque, NM 87185-5400.

U.S. Department of Energy, Amarillo Site Office, Highway 60 FM2373, Amarillo, TX 79177.

U.S. Department of Energy, Carlsbad Field Office, 4021 National Parks Highway, Carlsbad, NM 88220.

U.S. Department of Energy, Chicago Operations Office, 9800 South Cass Avenue, Argonne, IL 60439.

U.S. Department of Energy, Idaho Operations Office, 850 Energy Drive, Idaho Falls, ID 83401.

U.S. Department of Energy, Kansas City Site Office, 2000 E. 95th Street, Kansas City, MO 64141-3202.

U.S. Department of Energy, Sandia Site Office, Pennsylvania & H Street, Albuquerque, NM 87185-5400.

U.S. Department of Energy, Los Alamos Site Office, 528 35th Street, Los Alamos, NM 87544.

U.S. Department of Energy, NNSA Service Center Nevada, PO Box 98518, Las Vegas, NV 89193-8518.

U.S. Department of Energy, Oak Ridge Operations Office, PO Box 2001, Oak Ridge, TN 37831.

U.S. Department of Energy, NNSA Service Center Oakland, 1301 Clay Street, Oakland, CA 94612-5208.

U.S. Department of Energy, Pittsburgh Naval Reactors Office, PO Box 109, West Mifflin, PA 15122-0109.

U.S. Department of Energy, Richland Operations Office, 825 Jadwin Avenue, PO Box 550, Richland, WA 99352.

U.S. Department of Energy, Rocky Flats Field Office, 10808 Highway 93, Unit A, Golden, CO 80401.

U.S. Department of Energy, Savannah River Operations Office, PO Box A, Aiken, SC 29801.

U.S. Department of Energy, Schenectady Naval Reactors, PO Box 1069, Schenectady, NY 12301-1069.

CATEGORIES OF INDIVIDUALS COVERED BY THE SYSTEM:

Department of Energy (DOE) and National Nuclear Security Administration (NNSA) employees, DOE and NNSA contractor employees and other individuals seeking access to DOE facilities and classified records.

CATEGORIES OF RECORDS IN THE SYSTEM:

Records of individuals visiting DOE facilities, employees' identification files, and photographs.

AUTHORITY FOR MAINTENANCE OF THE SYSTEM:

42 U.S.C. 7101 et seq. and 50 U.S.C. 2401 et seq.

PURPOSE(S):

The records are maintained and used by the Department to track and control individuals accessing Departmental facilities and classified information areas.

ROUTINE USES OF RECORDS MAINTAINED IN THE SYSTEM, INCLUDING CATEGORIES OF USERS AND THE PURPOSES OF SUCH USES:

1. A record from the system may be disclosed as a routine use to the appropriate local, State or Federal agency when records alone or in conjunction with other information, indicates a violation or potential violation of law whether civil, criminal, or regulatory in nature, and whether arising by general statute or particular program pursuant thereto.

2. A record from this system of records may be disclosed to a member of Congress submitting a request involving the constituent when the constituent has requested assistance from the member with respect to the subject matter of the record. The member of Congress must provide a copy of the constituent's request for assistance.

3. A record from the system may be disclosed as a routine use to DOE contractors in performance of their contracts, and their officers and employees who have a need for the record in the performance of their duties. Those provided information under this routine use are subject to the same limitations applicable to Department officers and employees under the Privacy Act.

4. Records from this system may be disclosed to Department of Defense contractors and National Aeronautics and Space Administration to authorize access to classified information and areas.

POLICIES AND PRACTICES FOR STORING, RETRIEVING, ACCESSING, RETAINING, AND DISPOSING OF RECORDS IN THE SYSTEM:

STORAGE:

Records may be stored as paper files and electronic media.

RETRIEVABILITY:

Records may be retrieved by name and social security number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office Security, U.S. Department of Energy, 1000 Independence Avenue, SW., Washington, DC 20585.

Field Offices: The Managers and Directors of the “System Locations” listed above are the system managers for their respective portions of this system.

NOTIFICATION PROCEDURES:

In accordance with the DOE regulation implementing the Privacy Act, at Title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Subject individual, Department of Defense, DOE offices and contractors, National Aeronautics and Space Administration, and other Government agencies.

SYSTEM EXEMPTED FROM CERTAIN PROVISIONS OF THE ACT:

None.

DOE-52

SYSTEM NAME:

Access Control Records of International Visits, Assignments, and Employment at DOE facilities and Contractor Sites.

SECURITY CLASSIFICATION:

Classified and unclassified.

SYSTEM LOCATION:

The centralized data system is located at Los Alamos National Laboratories.

U.S. Department of Energy, Headquarters, Office of Security and Emergency Operations, Office of Foreign Visits and Assignments, 1000 Independence Avenue, Washington, DC 20585.

U.S. Department of Energy, Albany Research Center, 1450 Queen Avenue, SW., Albany, OR 97321.

U.S. Department of Energy, NNSA Service Center Albuquerque, PO Box 5400, Albuquerque, NM 87185-5400.

U.S. Department of Energy, Amarillo Site Office, Highway 60 FM 2373, Amarillo, TX 79120.

U.S. Department of Energy, Bonneville Power Administration, 1520 Kelley Place, Walla Walla, WA 99362.

U.S. Department of Energy, Chicago Operations Office, 9800 South Cass Avenue, Argonne, IL 60439.

U.S. Department of Energy, Dayton Area Office, Dayton, OH 45343.

U.S. Department of Energy, Environmental Measurements Laboratory, 201 Varick Street, 5th Floor, New York, NY 10014-4811.

U.S. Department of Energy, Fernald Field Office, 7400 Willey Road, Cincinnati, OH 45030.

U.S. Department of Energy, Grand Junction Office, 2597 V ¾th Road, Grand Junction, CO 81503.

U.S. Department of Energy, General Atomics, PO Box 85608, San Diego, CA 92186.

U.S. Department of Energy, Hanford Environmental Health Foundation, 3080 George Washington Way, Richland, WA, 99352.

U.S. Department of Energy, Idaho National Engineering Laboratory, 850 Energy Drive, Idaho Falls, ID 83401.

U.S. Department of Energy, Idaho Operations Office, 850 Energy Drive, Idaho Falls, ID 83401.

U.S. Department of Energy, Kansas City Site Office, 2000 E. 95th Street, Kansas City, MO 64141-3202.

U.S. Department of Energy, Sandia Site Office, Pennsylvania & H Street, Albuquerque, NM.

U.S. Department of Energy, Lawrence Berkeley Laboratory, 1 Cyclotron Road Berkeley, CA 94720.

U.S. Department of Energy, Livermore Site Office, 700 East Avenue, PO Box 808, L-1, Livermore, CA 94551.

U.S. Department of Energy, Los Alamos Site Office, 528 35th Street, Los Alamos, NM 87544.

U.S. Department of Energy, Los Alamos National Laboratory, University of California, SM #30 Bikini Road, Los Alamos, NM 87545.

U.S. Department of Energy, Miamisburg Area Office, 1 Mound Road, Miamisburg, OH 45342.

U.S. Department of Energy, NNSA Service Center Nevada, PO Box 98518, Las Vegas, NV 89193-8518.

U.S. Department of Energy, National Energy Technology Center (Pittsburgh), PO Box 10940, Pittsburgh, PA 15236.

U.S. Department of Energy National Petroleum Technology Office, William Center Tower One, 1 West Third Street, Suite 1400, Tulsa, OK 74103.

U.S. Department of Energy, National Renewable Energy Laboratory Area Office, 1617 Cole Blvd., Golden, CO 80401.

U.S. Department of Energy, Oak Ridge National Laboratory, Bethel Valley Road, Oak Ridge, TN, 37831.

U.S. Department of Energy, Oak Ridge Operations Office, PO Box 2001, Oak Ridge, TN 37831.

U.S. Department of Energy, NNSA Service Center Oakland, 1301 Clay Street, Oakland, CA 94612-5208.

U.S. Department of Energy, Ohio Field Office, 1 Mound Road, Miamisburg, OH 45342.

U. S. Department of Energy, Pacific Northwest National Laboratory, 902 Battelle Boulevard PO Box 999, Richland, WA 99352.

U.S. Department of Energy, Richland Operations Office, 825 Jadwin Avenue, P.O. 550, Richland, WA 99352.

U.S. Department of Energy, Rocky Flats Field Office, 10808 Highway 93, Unit A, Golden, CO 80403-8200.

U.S. Department of Energy, Sandia Site Office, Eubank Street SE, Albuquerque, NM 87185-5800.

U.S. Department of Energy, Sandia Site Office, Livermore, 7011 East Avenue, Livermore, CA 94551-0969.

U.S. Department of Energy, Savannah River Ecology Laboratory, Drawer E, Aiken, SC 29802.

U.S. Department of Energy, Savannah River Technology Center, Drawer E, Aiken, SC 29802.

U.S. Department of Energy, Savannah River Operations Office, PO Box A, Aiken, SC 29801.

U.S. Department of Energy, Scientific and Technical Information, 175 Oak Ridge Turnpike, Oak Ridge, TN 37830.

U.S. Department of Energy, Stanford Linear Accelerator Center, 2575 Sand Hill Road, Menlo Park, CA 94205.

U.S. Department of Energy, Strategic Petroleum Reserve Project Office; 900 Commerce Road East, New Orleans, LA 70123.

U.S. Department of Energy, Thomas Jefferson National Accelerator Facility, 12000 Jefferson Avenue, Newport News, VA 23606.

U.S. Department of Energy, University of Rochester, 250 East River Road, Rochester, NY 14623.

U.S. Department of Energy, Waste Isolation Pilot Plant, 370 Wipp Road, Carlsbad, NM.

U.S. Department of Energy, West Valley Project Office, PO Box 191, West Valley, NY 14171.

U.S. Department of Energy, Western Area Power Administration, 12155 W. Alamino Parkway, Lakewood, CO 80401.

U.S. Department of Energy, Office of Repository Development, PO Box 364629, North Las Vegas, NV 89036-8629.

CATEGORIES OF INDIVIDUALS COVERED BY THE SYSTEM:

All non-U.S. citizens seeking access to DOE facilities, laboratories, contractor sites, or Department of Energy (DOE) and National Nuclear Security Administration (NNSA) sponsored events for unclassified purposes to include employees of DOE or DOE contractors; prospective DOE or DOE contractor employees; employees of other U.S. Government agencies or their contractors of universities, of companies (professional or service staff), or of other institutions; foreign students at U.S. institutions; officials or other persons employed by foreign governments or other foreign institutions who may or may not be involved in cooperation under international agreements; permanent resident aliens; representatives or agents of foreign national governments seeking access to DOE facilities, laboratories, or contractor sites or DOE-sponsored events for purposes of high-level protocol; national security; International Atomic Energy Agency, or international relations.

CATEGORIES OF RECORDS IN THE SYSTEM:

Personal data: Full name (including Also Known As (A.K.A.’s), visitor request number, gender, place of birth, city and country, date of birth, country(ies) of citizenship, date of last visit to country of citizenship, passport number and passport, expiration date, immigration status, type of visa and expiration date, country of current residence and how long at current residence, language interpretation needs, work phone, e-mail and fax, name of current employer, place of work, street, city, state, zip code, country; position title or description of requesters duties. Visit/Assignment Request Information: date of request, purpose of request (including subjects to be discussed or researched and specific activities involved); requesters current whereabouts, (i.e., is proposed visitor currently in the U.S.), specific visa status and purpose, (i.e., exchange visitor (J-1) Visa), time duration of proposed visit, assignment or activity (desired start and end dates ), identification of specific international agreement(s) or delegations related to the proposed request, name, organization, telephone number of DOE contact, name of financial sponsor, cost if sponsor is other than DOE. Visit/Assignment Facility Information: Name, location and room number of facility or organization to be accessed during visit/assignment, name of the host responsible for the visit/assignment, host's telephone number, building and room numbers, number of days on site, visit assignment relationship to program, subject codes, subjects to be discussed or statement of research, determination of computer access, and sensitive subject designation. Visit/Assignment Program Information and Remark: Designation of high-level protocol visit, cost to DOE, visit or assignment purpose code, purpose and justification of visit assignment including benefits to DOE program(s) and certification of DOE mission advancement, technology transfer determination, name of requesting official or contractor, title and organization of requesting officer, signature of requesting official or contractor, date signed, name of site manager and local headquarters approving official, title and organization of local headquarters approving official, signature(s) of site field, headquarters approving official, date signed and remarks, the kind of business or organization of assignee's employer (e.g. government, company, Laboratory, university), education background of requestor including college or university training with degrees and dates conferred; field of research, and family members who will accompany or join the applicant later). Management Reviews and Approvals: level, type or topic of review, name of reviewer and or approval authority(ies), the date of the review approval, and remarks.

AUTHORITY FOR MAINTENANCE OF THE SYSTEM:

42 U.S.C. 7101 et seq. and 50 U.S.C. 2401 et seq.

PURPOSE(S):

Records are maintained and used by the Department to document, track, manage, analyze, and or report on foreign visit and assignment access to DOE facilities including Headquarters, Field Offices, National Laboratories, and Contractor Sites.

ROUTINE USES OF RECORDS MAINTAINED IN THE SYSTEM, INCLUDING CATEGORIES OF USERS AND THE PURPOSES OF SUCH USES:

1. A records from this system may be disclosed as a routine use to Department of Defense contractors responsible for security controlling access to sensitive information and sensitive equipment, and sensitive property areas.

2. A record from this system may be disclosed as a routine use to contractors, grantees, participants in cooperative agreements, collaborating researchers, or their employees, in performance of national security, international visit and assignment, or foreign access related responsibilities.

3. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, State or Federal agency when records alone or in conjunction with other information, indicates a violation or potential violation of law whether civil, criminal, or regulatory in nature, and whether arising by general statute or particular program pursuant thereto.

6. A record from this system of records may be disclosed to a member of Congress submitting a request involving the constituent when the constituent has requested assistance from the member with respect to the subject matter of the record. The member of Congress must provide a copy of the constituent's request for assistance.

7. A record from this system of records may be disclosed to foreign governments or international organizations in accordance with treaties, international conventions, or executive agreements.

8. A record from the system may be disclosed as a routine use to DOE contractors in performance of their contracts, and their officers and employees who have a need for the record in the performance of their duties. Those provided information under this routine use are subject to the same limitations applicable to Department officers and employees under the Privacy Act.

9. A record from this system of records may be disclosed as a routine use to members of the DOE Advisory committees and interagency boards charged with responsibilities pertaining to international visits and assignments and/or national security.

POLICIES AND PRACTICES FOR STORING, RETRIEVING, ACCESSING, RETAINING, AND DISPOSING OF RECORDS IN THE SYSTEM:

STORAGE:

Records may be stored as paper records, microfiche, and electronic media.

RETRIEVABILITY:

Records may be retrieved by name and other personal identifiers.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters, Director, Office of Security, U.S. Department of Energy, 1000 Independence Avenue, Washington DC 20585.

Field Offices: The Managers and Directors of the “System Locations” listed above are system managers for their respective portions of this system.

NOTIFICATION PROCEDURES:

In accordance with the DOE regulation implementing the Privacy Act, at Title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Foreign national individuals requesting access to DOE facilities including contractor sites, reports from federal investigation agencies, DOE Office of Counterintelligence, Department of State, Department of Defense, and Immigration and Naturalization Service.

SYSTEM EXEMPTED FROM CERTAIN PROVISIONS OF THE ACT:

None.

DOE-53

SYSTEM NAME:

Access Authorization for ADP Equipment.

SECURITY CLASSIFICATION:

Unclassified.

SYSTEM LOCATION:

U.S. Department of Energy, Headquarters, Energy Information Administration, 1000 Independence Avenue, SW., Washington, DC 20585.

CATEGORIES OF INDIVIDUALS COVERED BY THE SYSTEM:

Users of the Energy Information Administration computer system, including DOE employees and contractor employees and other authorized users of the system.

CATEGORIES OF RECORDS IN THE SYSTEM:

Name, employer, citizenship, user identification number, office address and telephone number, organizational code, computer usage figures, data accessed, and other management-related information.

AUTHORITY FOR MAINTENANCE OF THE SYSTEM:

42 U.S.C. 7101 et seq.; 50 U.S.C. 2401 et seq.; OMB Circular A-71; Department of Commerce Federal Information Processing Standards Publications (FIPS PUBS) on computer security; GSA Procurement Regulations Amendment 155, adding Section 1-1.327.

PURPOSE(S):

The records are maintained and used by the EIA to identify EIA computer users and control access to EIA computer and information resources. The information is frequently reviewed and updated to ensure records are current and accurate.

ROUTINE USES OF RECORDS MAINTAINED IN THE SYSTEM, INCLUDING CATEGORIES OF USERS AND THE PURPOSES OF SUCH USES:

A record from the system may be disclosed as a routine use to DOE contractors in performance of their contracts, and their officers and employees who have a need for the record in the performance of their duties. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as electronic media.

RETRIEVABILITY:

Records may be retrieved by name, and user identification number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Administrator, Energy Information Administration, U.S. Department of Energy, 1000 Independence Avenue, SW., Washington, DC 20585.

NOTIFICATION PROCEDURES:

In accordance with the DOE regulation implementing the Privacy Act, at Title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at location where the work is performed. In accordance with the DOE Privacy Act regulation, proper identification is required before a request is processed.

CONTESTING RECORD PROCEDURES:

Same as Notification Procedures above.

RECORD SOURCE CATEGORIES:

Subject individual, with some information assigned by the ITG Staff.

SYSTEM EXEMPTED FROM CERTAIN PROVISIONS OF THE ACT:

None.

DOE-54

SYSTEM NAME:

Investigative Files of the Inspector General.

SECURITY CLASSIFICATION:

Unclassified and classified.

SYSTEM LOCATION:

U.S. Department of Energy, Office of Inspector General, Headquarters, Forrestal Building, 1000 Independence Avenue, SW., Washington, DC 20585.

CATEGORIES OF INDIVIDUALS COVERED BY THE SYSTEM:

Subjects of an investigation, witnesses in an investigation, sources of investigative information, investigative personnel, and other individuals involved in an Office of Inspector General investigation.

CATEGORIES OF RECORDS IN THE SYSTEM:

Criminal, civil, and administrative investigative records and files.

AUTHORITY FOR MAINTENANCE OF THE SYSTEM:

42 U.S.C. 7101 et seq.; 50 U.S.C. 2401 et seq.; The Inspector General Act of 1978, as amended, 5 U.S.C. App. 3.

PURPOSE(S):

The records are maintained and used by the Department in furtherance of the responsibilities of the Inspector General. These responsibilities include conducting and supervising investigations relating to Departmental programs and operations; promoting economy, efficiency, and effectiveness in the administration of such programs and operations; and preventing and detecting fraud and abuse in such programs and operations. The records are used in investigations of individuals and entities suspected of having committed illegal or unethical acts. The records also are used in any resulting criminal prosecutions, civil proceedings, or administrative actions.

ROUTINE USES OF RECORDS MAINTAINED IN THE SYSTEM, INCLUDING CATEGORIES OR USERS AND PURPOSES OF SUCH USES:

1. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a Federal agency, in response to its written request, to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, State or Federal agency when records alone or in conjunction with other information, indicates a violation or potential violation of law whether civil, criminal, or regulatory in nature, and whether arising by general statute or particular program pursuant thereto.

6. A record from this system of records may be disclosed to a member of Congress submitting a request involving the constituent when the constituent has requested assistance from the member with respect to the subject matter of the record. The member of Congress must provide a copy of the constituent's request for assistance.

7. A record from this system of records may be disclosed to foreign governments or international organizations in accordance with treaties, international conventions, or executive agreements.

8. A record from the system may be disclosed as a routine use to DOE contractors in performance of their contracts, and their officers and employees who have a need for the record in the performance of their duties. Those provided information under this routine use are subject to the same limitations applicable to Department officers and employees under the Privacy Act.

9. A record from this system of records may be disclosed as a routine use to authorized officials within Offices of Inspectors General listed in the Inspector General Act of 1978, the Department of Justice, the Federal Bureau of Investigation, or the U.S. Marshals Service, as necessary, for investigative qualitative assessment reviews.

POLICIES AND PRACTICES FOR STORING, RETRIEVING, ACCESSING, RETAINING, AND DISPOSING OF RECORDS IN THE SYSTEM:

STORAGE:

Records may be stored as paper and electronic media.

RETRIEVABILITY:

Records may be retrieved by name of subject(s), case number, title of investigative report, name of complainant, name of subject(s), and names of witnesses.

SAFEGUARDS:

Paper records are maintained in locked cabinets and desks. Electronic records are controlled through established DOE computer center procedures (personnel screening and physical security), and they are password protected known only to the system manager. Classified information is maintained in locked General Services Administration approved class 6 security containers. Access is limited to those whose official duties require access to the records.

RETENTION AND DISPOSAL:

Records retention and disposal authorities are contained in the National Archives and Records Administration (NARA) General Records Schedule and DOE record schedules that have been approved by NARA.

SYSTEM MANAGER(S) AND ADDRESS:

Assistant Inspector General for Investigations U.S. Department of Energy 1000 Independence Avenue, SW., Washington, DC 20585.

NOTIFICATION PROCEDURES:

In accordance with the DOE regulation implementing the Privacy Act, at Title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Subject individuals; individuals and organizations that have pertinent knowledge about the subject; those authorized by the individual to furnish information; confidential informants; the Department of Justice; Federal Bureau of Investigation (FBI); and other Federal, State, and local agencies.

SYSTEM EXEMPTED FROM CERTAIN PROVISIONS OF THE ACT:

This system is exempt under (j)(2) of the Privacy Act to the extent that the information within the system meets the criteria of those subsections of the Act. Such information has been exempted from the provisions of subsections: (c)(3) and (4), (d)(1), (2), (3), and (4), (e)(1), (2), and (3), (e)(4) (G) and (H), (e)(5) and (8), (f), (g) of the Act; see the Department's Privacy Act regulation at Title 10, Code of Federal Regulations part 1008.

This system is exempt under (k)(1), (k)(2), and (k)(5) of the Privacy Act, to the extent that information within the System meets the criteria of those subsections of the Act. Such information has been exempted from the provisions of subsections (c)(3), (d), and (e)(1), (e)(4) (G), (H) and (f) of the Act; See the Department's Privacy Act regulation at Title 10, Code of Federal Regulations, part 1008.

DOE-55

SYSTEM NAME:

Freedom of Information and Privacy Act (FOIA/PA) Requests for Records.

SECURITY CLASSIFICATION:

Unclassified.

SYSTEM LOCATION:

U.S. Department of Energy (Headquarters), 1000 Independence Avenue, SW., Washington, DC 20585.

U.S. Department of Energy, NNSA Service Center Albuquerque, PO Box 5400, Albuquerque, NM 87185-5400.

U.S. Department of Energy, Bonneville Power Administration, PO Box 3621, Portland, OR 97208.

U.S. Department of Energy, Chicago Operations Office, 9800 South Cass Avenue, Argonne, IL 60439.

U.S. Department of Energy, Grand Forks Energy Technology Center, PO Box 8213, University Station, Grand Forks, ND 58201.

U.S. Department of Energy, Idaho Operations Office, 850 Energy Drive, Idaho Falls, ID 83401.

U.S. Department of Energy, National Energy Technology Laboratory (Morgantown), 3610 Collins Ferry Road, Morgantown, WV 26507-0940.

U.S. Department of Energy, National Energy Technology Laboratory (Pittsburgh), PO Box 10940, Pittsburgh, PA 15122.

U.S. Department of Energy, National Petroleum Technology Office, William Center Tower One, 1 West Third Street, Suite 1400, Tulsa, OK 74103.

U.S. Department of Energy, NNSA Service Center Nevada, PO Box 98518, Las Vegas, NV 89193-8518.

U.S. Department of Energy, Oak Ridge Operations Office, PO Box E, Oak Ridge, TN 37830.

U.S. Department of Energy, Ohio Field Office, 1 mound Road, Miamisburg, OH 45342.

U.S. Department of Energy, Pittsburgh Naval Reactors, PO Box 109, Pittsburgh, PA 15122.

U.S. Department of Energy, Richland Operations Office, PO Box 550, Richland, WA 99352.

U.S. Department of Energy, San Francisco Operations Office, 1333 Broadway, Oakland, CA 94612.

U.S. Department of Energy, Savannah River Operations Office, PO Box A, Aiken, SC 29801.

U.S. Department of Energy, Schenectady Naval Reactors Office, PO Box 1069, Schenectady, NY 12301.

U.S. Department of Energy, Southeastern Power Administration, 1166 Athens Tech Road, Elberton, GA 30635-4578.

U.S. Department of Energy, Southwestern Power Administration, Williams Tower One, One West Third Street, Tulsa, OK 74103.

U.S. Department of Energy, Western Area Power Administration, PO Box 3402, Golden, CO 80401.

U.S. Department of Energy, Office of Repository Development, PO Box 364629, North Las Vegas, NV 89036-8629.

CATEGORIES OF INDIVIDUALS COVERED BY THE SYSTEM:

Individuals requesting copies of records from Department of Energy (DOE) and the National Nuclear Security Administration (NNSA) under the provisions of the FOIA and the Privacy Act (PA) of 1974.

CATEGORIES OF RECORDS IN THE SYSTEM:

Name, address, and telephone number; description or identification of records requested, furnished and/or denied; FOIA and PA division employee assigned responsibility for processing request; dates of request and actions; interim and final actions taken on request; persons or offices assigned actions on requests; copy of records requested, furnished and/or denied; fee data, including payment delinquencies; final determinations of appeals; name/title of officials responsible for denial of records; and case notes.

AUTHORITY FOR MAINTENANCE OF THE SYSTEM:

42 U.S.C. 7101 et seq.; 50 U.S.C. 2401 et seq.; Freedom of Information Act 5 U.S.C. 552, and the Privacy Act of 1974, 5 U.S.C. 552a.

PURPOSE(S):

The records are used and maintained by the Department to record, control, and determine the status of FOIA and PA requests; produce statistical reports; and as a data source for management information.

ROUTINE USES OF RECORDS MAINTAINED IN THE SYSTEM, INCLUDING CATEGORIES OF USERS AND THE PURPOSE OF SUCH USES:

1. A record from this system of records may be disclosed to another Federal agency when consultation or referral is required to process requests.

2. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from this system of records may be disclosed to a member of Congress submitting a request involving the constituent when the constituent has requested assistance from the member with respect to the subject matter of the record. The member of Congress must provide a copy of the constituent's request for assistance.

4. A record from the system may be disclosed as a routine use to DOE contractors in performance of their contracts, and their officers and employees who have a need for the record in the performance of their duties. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as paper, microfiche, video, audio, and electronic media.

RETRIEVABILITY:

Records may be retrieved by name of requester and assigned request control number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Freedom of Information Act and Privacy Act Group, U.S. Department of Energy, 1000 Independence Avenue, SW, Washington, DC 20585.

Field Offices: The Freedom of Information and Privacy Act Officers of the “Systems locations” listed above are the system managers for their respective portions of this system.

NOTIFICATION PROCEDURES:

In accordance with the DOE regulation implementing the Privacy Act, at Title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification procedures above.

RECORD SOURCE CATEGORIES:

Individuals requesting copies of records and individuals responsible for processing and/or making determination on requests.

SYSTEMS EXEMPTED FROM CERTAIN PROVISIONS OF THE ACT:

None.

DOE-56

SYSTEM NAME:

Congressional Constituent Inquiries.

SECURITY CLASSIFICATION:

Unclassified.

SYSTEM LOCATION:

U.S. Department of Energy (Headquarters), 1000 Independence Avenue, SW, Washington, DC 20585.

U.S. Department of Energy, NNSA Service Center Albuquerque, PO Box 5400, Albuquerque, NM PO 5400, Albuquerque, NM 87185-5400.

U.S. Department of Energy, Bonneville Power Administration, PO Box 3621, Portland, OR 97208.

U.S. Department of Energy, Chicago Operations Office, 9800 South Cass Avenue, Argonne, IL 60439.

U.S. Department of Energy, Idaho Operations Office, 850 Energy Drive, Idaho Falls, ID 83401.

U.S. Department of Energy, National Energy Technology Laboratory (Morgantown), PO Box 880, Morgantown, WV 26505.

U.S. Department of Energy, National Energy Technology Laboratory (Pittsburgh), PO Box 10940, Pittsburgh, PA 15122; U.S. Department of Energy, National Petroleum Technology Office, William Center Tower One, 1 West Third Street, Tulsa, OK 74103.

U.S. Department of Energy, NNSA Service Center Nevada, PO Box 98518, Las Vegas, NV 89193-8518.

U.S. Department of Energy, NNSA Service Center Oakland, 1301 Clay Street, 700 N, Oakland, CA 94612-5208.

U.S. Department of Energy, Oak Ridge Operations Office, PO Box E, Oak Ridge, TN 37830.

U.S. Department of Energy, Pittsburgh Naval Reactors, PO Box 109, Pittsburgh, PA 15122.

U.S. Department of Energy, Richland Operations Office, PO Box 550, Richland, WA 99352.

U.S. Department of Energy, Rocky Flats Field Office, 10808 Highway 93, Unit A, Golden, CO 80403-8200.

U.S. Department of Energy, Savannah River Operations Office, PO Box A, Aiken, SC 29801.

U.S. Department of Energy, Schenectady Naval Reactors Office, PO Box 1069, Schenectady, NY 12301.

U.S. Department of Energy, Southeastern Power Administration, 1166 Athens Tech Road, Elberton, GA 30635-4578.

U.S. Department of Energy, Southwestern Power Administration, Williams Tower One, One West Third Street, Tulsa, OK 74103.

U.S. Department of Energy, Western Area Power Administration, PO Box 3402, Golden, CO 80401.

U.S. Department of Energy, Office of Repository Development, PO Box 364629, North Las Vegas, NV 89036-8629.

CATEGORIES OF INDIVIDUALS COVERED BY THE SYSTEM:

Individuals who have requested assistance from their Congressional Representative, and the member of Congress who corresponded with the Department on behalf of the constituent.

CATEGORIES OF RECORDS IN THE SYSTEM:

Name and address of constituent and date of letter by a Member of Congress on behalf of the constituent; materials forwarded by a member of Congress; and DOE response.

AUTHORITY FOR MAINTENANCE OF THE SYSTEM:

42 U.S.C. 7101 et seq. and 50 U.S.C. 2401 et seq.

PURPOSE(S):

The records are maintained and used by the Department to record Congressional inquiries on behalf of constituents, to ensure proper document control of the response, and to record the Department's responses to such inquiries.

ROUTINE USES OF RECORDS MAINTAINED IN THE SYSTEM, INCLUDING CATEGORIES OF USERS AND THE PURPOSES OF SUCH USES:

1. A record from this system may be disclosed as a routine use to another Federal agency when consultation or referral is required to process requests.

2. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

3. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

4. A record from the system may be disclosed as a routine use to the appropriate local, State or Federal agency when records alone or in conjunction with other information, indicates a violation or potential violation of law whether civil, criminal, or regulatory in nature, and whether arising by general statute or particular program pursuant thereto.

5. A record from this system of records may be disclosed to a member of Congress submitting a request involving the constituent when the constituent has requested assistance from the member with respect to the subject matter of the record. The member of Congress must provide a copy of the constituent's request for assistance.

6. A record from the system may be disclosed as a routine use to DOE contractors in performance of their contracts, and their officers and employees who have a need for the record in the performance of their duties. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as paper records and electronic records.

RETRIEVABILITY:

Records may be retrieved by name of constituent and name of member of Congress.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of the Executive Secretariat, U.S. Department of Energy, 1000 Independence Avenue, SW., Washington, DC 20585.

Field: The Managers or Directors of the “System Location(s)” listed above are the system managers for their respective portions of the system.

NOTIFICATION PROCEDURES:

In accordance with the DOE regulation implementing the Privacy Act, at Title 10 Code of Federal Regulations, part 1008, a request by an individual to determine if a system of records contains information about him/her should be directed to the Director, Headquarters, Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Subject individual, member of Congress, and the author of the DOE response.

SYSTEMS EXEMPTED FROM CERTAIN PROVISIONS OF THE ACT:

None.

DOE-57

SYSTEM NAME:

Congressional Profiles.

SECURITY CLASSIFICATION:

Unclassified.

SYSTEM LOCATION:

U.S. Department of Energy Headquarters, 1000 Independence Avenue, SW., Washington, DC 20585.

U.S. Department of Energy, Alaska Power Administration, San Point Way, NE Seattle, WA 98115.

U.S. Department of Energy, NNSA Service Center Albuquerque, PO Box 5400, Albuquerque, NM PO 5400, Albuquerque, NM 87185-5400.

U.S. Department of Energy, Bartlesville Energy Technology Center, PO Box 1398, Bartlesville, OK 74003.

U.S. Department of Energy, Bonneville Power Administration, PO Box 3621, Portland, OR 97208.

U.S. Department of Energy, Chicago Operations Office, 9800 South Cass Avenue, Argonne, IL 60439.

U.S. Department of Energy, Grand Forks Energy Technology Center, PO Box 8213, University Station, Grand Forks, ND 58201.

U.S. Department of Energy, Idaho Operations Office, 850 Energy Drive, Idaho Falls, ID 83401.

U.S. Department of Energy, Los Alamos Site Office, 528 35th Street, Los Alamos, NM 87544.

U.S. Department of Energy, National Energy Technology Laboratory (Morgantown), PO Box 880, Morgantown, WV 26505.

U.S. Department of Energy, National Energy Technology Laboratory (Pittsburgh), PO Box 10940, Pittsburgh, PA 15122.

U.S. Department of Energy, National Petroleum Technology Office, William Center Tower One, 1 West Third Street, Suite 1400, Tulsa, OK 74103.

U.S. Department of Energy, NNSA Service Center Nevada, PO Box 98518, Las Vegas, NV 89193-8518.

U.S. Department of Energy, Oak Ridge Operations Office, PO Box E, Oak Ridge, TN 37830.

U.S. Department of Energy, NNSA Service Center Oakland, 1301 Clay Street, Oakland, CA 94162-5208.

U.S. Department of Energy, Pittsburgh Naval Reactors, PO Box 109, Pittsburgh, PA 15122.

U.S. Department of Energy, Richland Operations Office, PO Box 550, Richland, WA 99352.

U.S. Department of Energy, Rocky Flats Field Office, 10808 Highway 93, Unit A, Golden, CO 80403-8200.

U.S. Department of Energy, NNSA Service Center Oakland, 1301 Clay Street, Oakland, CA 94612-5208.

U.S. Department of Energy, Savannah River Operations Office, PO Box A, Aiken, SC 29801.

U.S. Department of Energy, Schenectady Naval Reactors Office, PO Box 1069, Schenectady, NY 12301.

U.S. Department of Energy, Southeastern Power Administration, 1166 Athens Tech Road, Elberton, GA 30635-4578.

U.S. Department of Energy, Southwestern Power Administration, Williams Tower One, One West Third Street, Tulsa, OK 74103.

U.S. Department of Energy, Western Area Power Administration, PO Box 3402, Golden, CO 80401.

U.S. Department of Energy, Office of Repository Development, PO Box 364629, North Las Vegas, NV 89036-8629.

CATEGORIES OF INDIVIDUALS COVERED BY THE SYSTEM:

Current Members of Congress.

CATEGORIES OF RECORDS IN THE SYSTEM:

Name, picture from Congressional Yellow Book, personal background obtained from published sources, demographic information by state or district, committee assignments, and information about energy interests obtained from published sources, information from member's office, abstracts from Congressional Record, committee hearings and other public sources.

AUTHORITY FOR MAINTENANCE OF THE SYSTEM:

5 U.S.C. 301; Department of Energy Organization Act, including authorities incorporated by reference in Title III of the Department of Energy Organization Act; Executive Order 12009.

PURPOSE(S):

The information is maintained and used by the Department to maintain biographical data on all members of Congress, including a list of their sensitive energy issues or energy related legislation.

ROUTINE USES OF RECORDS MAINTAINED IN THE SYSTEM, INCLUDING CATEGORIES OF USERS AND THE PURPOSES OF SUCH USES:

A record from this system of records may be disclosed to a member of Congress submitting a request involving the constituent when the constituent has requested assistance from the member with respect to the subject matter of the record. The member of Congress must provide a copy of the constituent's request for assistance.

POLICIES AND PRACTICES FOR STORING, RETRIEVING, ACCESSING, RETAINING, AND DISPOSING OF RECORDS IN THE SYSTEM:

STORAGE:

Records may be stored as paper records and electronic media.

RETRIEVABILITY:

Records may be retrieved by name.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Assistant Secretary for Congressional and Intergovernmental Affairs, U.S. Department of Energy, 1000 Independence Avenue, SW., Washington, DC 20585.

NOTIFICATION PROCEDURES:

In accordance with the DOE regulation implementing the Privacy Act, at Title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Published sources, committee hearings, and the members' offices.

SYSTEM EXEMPTED FROM CERTAIN PROVISIONS OF THE ACT:

None.

DOE-58

SYSTEM NAME:

General Correspondence Files of the Office of the Secretary, Deputy Secretary and Under Secretary of Energy.

SECURITY CLASSIFICATION:

Unclassified.

SYSTEM LOCATION:

U.S. Department of Energy (Headquarters), 1000 Independence Avenue, SW, Washington, DC 20585.

CATEGORIES OF INDIVIDUALS COVERED BY THE SYSTEM:

Members of Congress, representatives of organizations, and other federal and state agencies and the general public.

CATEGORIES OF RECORDS IN THE SYSTEM:

Name, address of correspondent, and copies of the agency response. This is the portion of the Department of Energy (DOE) correspondence files that relates to correspondence with individuals.

AUTHORITY FOR MAINTENANCE OF THE SYSTEM:

42 U.S.C. 7101 et seq. and 50 U.S.C. 2401 et seq.

PURPOSE(S):

The records are maintained and used by the Department to document and manage information from or to correspondents outside of DOE and to ensure proper document control of the DOE response.

ROUTINE USES OF RECORDS MAINTAINED IN THE SYSTEM, INCLUDING CATEGORIES OF USERS AND THE PURPOSES OF SUCH USES:

1. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to the appropriate local, State or Federal agency when records alone or in conjunction with other information, indicates a violation or potential violation of law whether civil, criminal, or regulatory in nature, and whether arising by general statute or particular program pursuant thereto.

4. A record from this system of records may be disclosed to a member of Congress submitting a request involving the constituent when the constituent has requested assistance from the member with respect to the subject matter of the record. The member of Congress must provide a copy of the constituent's request for assistance.

5. A record from the system may be disclosed as a routine use to DOE contractors in performance of their contracts, and their officers and employees who have a need for the record in the performance of their duties. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as paper records and electronic media.

RETRIEVABILITY:

Records may be retrieved by name.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of the Executive Secretariat, U.S. Department of Energy, 1000 Independence Avenue, SW, Washington, DC 20585.

Field: The Managers and Directors of the “System Locations” listed above are the system managers for their respective portions of the system.

NOTIFICATION PROCEDURES:

In accordance with the DOE regulation implementing the Privacy Act, at Title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with DOE's Privacy Act regulation, proper identification is required before a request is processed.

CONTESTING RECORD PROCEDURES:

Same as Notification Procedures above.

RECORD SOURCE CATEGORIES:

Subject individuals and drafter of DOE response.

SYSTEM EXEMPTED FROM CERTAIN PROVISIONS OF THE ACT:

None.

DOE-59

SYSTEM NAME:

Mailing Lists for Requesters of Energy Related Information.

SECURITY CLASSIFICATION:

Unclassified.

SYSTEM LOCATION:

DOE Headquarters, 1000 Independence Avenue, SW, Washington, DC 20585.

CATEGORIES OF INDIVIDUALS COVERED BY THE SYSTEM:

Persons requesting energy related information.

CATEGORIES OF RECORDS IN THE SYSTEM:

Name and address of the subject individual; some mailing lists may also indicate specific interests of or publications requested by the individual.

AUTHORITY FOR MAINTENANCE OF THE SYSTEM:

5 U.S.C. 301; Department of Energy Organization Act, including authorities incorporated by reference in Title III of the Department of Energy Organization Act; Executive Order 12009.

PURPOSE(S):

The system is maintained and used by the Department to distribute DOE related material to DOE employees, DOE contractors, and others requesting information from DOE.

ROUTINE USES OF RECORDS MAINTAINED IN THE SYSTEM, INCLUDING CATEGORIES OF USERS AND THE PURPOSES OF SUCH USES:

A record from the system may be disclosed as a routine use to DOE contractors in performance of their contracts, and their officers and employees who have a need for the record in the performance of their duties. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as paper records, microfiche and electronic media.

RETRIEVABILITY:

Records may be retrieved by record identification and code number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: U.S. Department of Energy, Director, Print Media and Mail Services Group, Washington DC 20585.

NOTIFICATION PROCEDURES:

In accordance with the DOE regulation implementing the Privacy Act, at Title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with DOE's Privacy Act regulation, proper identification is required before a request is processed.

CONTESTING RECORD PROCEDURES:

Same as Notification Procedures above.

RECORD SOURCE CATEGORIES:

The subject individual, generally as the result of a request for information by that individual.

SYSTEM EXEMPTED FROM CERTAIN PROVISIONS OF THE ACT:

None.

DOE-61

SYSTEM NAME:

Census of High Energy Physicists.

SECURITY CLASSIFICATION:

Unclassified.

SYSTEM LOCATION:

U.S. Department of Energy, Office of Science, 19901 Germantown Road, Germantown, Maryland 20874-1290.

CATEGORIES OF INDIVIDUALS COVERED BY THE SYSTEM:

Scientists and graduate students in the field of high energy physics.

CATEGORIES OF RECORDS IN THE SYSTEM:

Name, date of birth, education, employment history, research activities, and technical specialties.

AUTHORITY FOR MAINTENANCE OF THE SYSTEM:

42 U.S.C. 7101 et seq. and 50 U.S.C. 2401 et seq.

PURPOSE(S):

The information is maintained and used by the Department to provide a database for statistical and demographic studies of the high energy physics research community.

ROUTINE USES OF RECORDS MAINTAINED IN THE SYSTEM, INCLUDING CATEGORIES OF USERS AND THE PURPOSES OF SUCH USES:

1. A record from the system may be disclosed as a routine use to physicists, research organizations, and various Government organizations engaged in supporting physics research to obtain information for statistical and demographic purposes, on individuals and institutions engaged in high energy physics research.

2. A record from the system may be disclosed as a routine use to DOE contractors in performance of their contracts, and their officers and employees who have a need for the record in the performance of their duties. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as electronic media.

RETRIEVABILITY:

Records may be retrieved by name of individual.

SAFEGUARDS:

Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Associate Director for High Energy and Nuclear Physics, U.S. Department of Energy, 19901 Germantown Road, Germantown, Maryland 20874-1290.

NOTIFICATION PROCEDURES:

In accordance with the DOE regulation implementing the Privacy Act, Title 10, Code of Federal Regulations, part 1008, a request by an individual to determine if a system of records contains information about him/her should be directed to the Director, Headquarters Freedom of Information Act and Privacy Act Group, U.S. Department of Energy, or the Privacy Act Officer at the appropriate address identified above under “System Locations.” The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

SYSTEM EXEMPTED FROM CERTAIN PROVISIONS OF THE ACT:

None.

DOE-62

SYSTEM NAME:

Historical Files—Published Information Concerning Selected Persons in the Energy Field.

SECURITY CLASSIFICATION:

Unclassified.

SYSTEM LOCATION:

U.S. Department of Energy, History Division, Office of the Executive Secretariat, 1000 Independence Avenue, SW., Washington, DC 20585.

CATEGORIES OF INDIVIDUALS COVERED BY THE SYSTEM:

Selected senior staff officials of the Manhattan Project, Atomic Energy Commission, Nuclear Regulatory Commission, Energy Research and Development Administration, DOE, and other selected individuals prominent in the energy field.

CATEGORIES OF RECORDS IN THE SYSTEM:

Newspaper and magazine articles, press releases, announcements, and speeches.

AUTHORITY FOR MAINTENANCE OF THE SYSTEM:

42 U.S.C. 7101 et seq. and 50 U.S.C. 2401 et seq.

PURPOSE(S):

The information is maintained and used by the Department to record historical records of the DOE and predecessor agencies, including the Atomic Energy Commission, Federal Energy Administration, and the Energy Research and Development Administration. Records are used to prepare histories in responding to informational inquiries from DOE officials and members of the public.

ROUTINE USES OF RECORDS MAINTAINED IN THE SYSTEM, INCLUDING CATEGORIES OF USERS AND THE PURPOSES OF SUCH USES:

1. A record from the system may be disclosed as a routine use to members of the public and the media when responding to requests for information.

2. A record from the system may be disclosed as a routine use to another Federal agency when consultation or referral is required to process requests.

3. A record from the system may be disclosed as a routine use to DOE contractors in performance of their contracts, and their officers and employees who have a need for the record in the performance of their duties. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as paper records.

RETRIEVABILITY:

Records may be retrieved by name.

SAFEGUARDS:

Paper records are maintained in locked cabinets and desks. Access is limited to those whose official duties require access to the records.

RETENTION AND DISPOSAL:

Records retention and disposal authorities are contained in the National Archives and Records Administration (NARA) General Records Schedule and DOE record schedules that have been approved by NARA.

SYSTEM MANAGER(S) AND ADDRESS:

Chief Historian, History Group, Office of the Executive Secretariat, U.S. Department of Energy, 1000 Independence Avenue, SW, Washington, DC 20585.

NOTIFICATION PROCEDURES:

In accordance with the DOE regulation implementing the Privacy Act, at Title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

DOE press releases, DOE News Clips (a daily compilation of energy related newspaper and magazine articles), and other published sources.

SYSTEM EXEMPTED FROM CERTAIN PROVISIONS OF THE ACT:

None.

DOE-66

SYSTEM NAME:

Power Sales to Individuals.

SECURITY CLASSIFICATION:

Unclassified.

SYSTEM LOCATION:

U.S. Department of Energy, Western Area Power Administration, PO Box 3402, Golden, CO 80401.

U.S. Department of Energy, Western Area Power Administration, 1800 South Rio Grand, Montrose, CO 81401.

U.S. Department of Energy, Colorado River Storage Region, 257 E200S, Suite 475, Salt Lake City, UT 84111.

U.S. Department of Energy, Desert Southwest Region, 615 S. 43rd Avenue, Phoenix, AZ 85009.

U.S. Department of Energy, Rocky Mountain Region, 5555 E. Crossroads Boulevard, Loveland, CO 80538-8986.

U.S. Department of Energy, Sierra Nevada Region, 114 Parkshore Drive, Folsom, CA 95630-4710.

U.S. Department of Energy, Upper Great Plains Region, 2900 4th Avenue North, Billings, MT 59101-1266.

CATEGORIES OF INDIVIDUALS COVERED BY THE SYSTEM:

Individuals purchasing power from the Western Area Power Administration.

CATEGORIES OF RECORDS IN THE SYSTEM:

Executed contracts, agreements, amendments, extensions, and related correspondence.

AUTHORITY FOR MAINTENANCE OF THE SYSTEM:

42 U.S.C. 7101 et seq. and 50 U.S.C. 2401 et seq.

PURPOSE(S):

The records are maintained and used by the Department to bill individuals for sale of purchase power.

ROUTINE USES OF RECORDS MAINTAINED IN THE SYSTEM, INCLUDING CATEGORIES OF USERS AND THE PURPOSES OF SUCH USES:

1. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, State or Federal agency when records alone or in conjunction with other information, indicates a violation or potential violation of law whether civil, criminal, or regulatory in nature, and whether arising by general statute or particular program pursuant thereto.

6. A record from this system of records may be disclosed to a member of Congress submitting a request involving the constituent when the constituent has requested assistance from the member with respect to the subject matter of the record. The member of Congress must provide a copy of the constituent's request for assistance.

7. A record from the system may be disclosed as a routine use to DOE contractors in performance of their contracts, and their officers and employees who have a need for the record in the performance of their duties. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as paper records.

RETRIEVABILITY:

Records may be retrieved by name.

SAFEGUARDS:

Paper records are maintained in locked cabinets and desks. Access is limited to those whose official duties require access to the records.

RETENTION AND DISPOSAL:

Records retention and disposal authorities are contained in the National Archives and Records Administration (NARA) General Records Schedule and DOE record schedules that have been approved by NARA.

SYSTEM MANAGER(S) AND ADDRESS:

Administrator, Western Area Power Administration, U.S. Department of Energy, PO Box 3402, Golden, CO 80401.

Regional Offices: The Managers and Directors of the “System Locations” listed above are the system managers for their respective locations.

NOTIFICATION PROCEDURES:

In accordance with the DOE regulation implementing the Privacy Act, at Title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Subject individuals.

SYSTEM EXEMPTED FROM CERTAIN PROVISIONS OF THE ACT:

None.

DOE-71

SYSTEM NAME:

The Radiation Accident Registry.

SECURITY CLASSIFICATION:

Unclassified.

SYSTEM LOCATION:

U.S. Department of Energy, Oak Ridge Operations Office, PO Box 2001, Oak Ridge, TN 37831.

CATEGORIES OF INDIVIDUALS COVERED BY THE SYSTEM:

Those persons accidentally exposed to acute dose of ionizing radiation as defined by exposure dose criteria agreed to by the Department of Energy (DOE) and the Nuclear Regulatory Commission (NRC) by an interagency agreement. The dose criteria established by this agreement include one or more of the following: Greater than or equal to 25 REM (Roentgen Equivalent in Man) to the whole body, active blood forming organs or gonads; greater than or equal to 600 REM to skin of the whole body or extremities; greater than or equal to 75 REM to other tissues or organs from an external source; and greater than or equal to ½ NCRP maximum permissible organ burden internally; all those medical administrations of radioisotopes that result in a dose or organ burden equal to or greater than those given above.

CATEGORIES OF RECORDS IN THE SYSTEM:

Official accident reports including reports of those accidents that have occurred within the jurisdiction of the NRC and have been transferred to the DOE for the Accident Registry according to the DOE/NRC agreement; names, addresses, social security numbers, date of birth, and sex; medical records compiled at the time of the accident (such records include physician and hospital records, diagnostic and laboratory test reports, radiographs, EKGs, and radiation exposure report); medical records of illnesses, examinations, including routine follow-up examinations, and investigations that have occurred since the radiation exposure; photographs or facsimiles of radiation-induced injuries; search and contact information for registrants not identified and/or located; consent to release information forms completed by registrants; death certificates; anecdotal information; and correspondence relating to the accident and/or the individuals involved.

AUTHORITY FOR MAINTENANCE OF THE SYSTEM:

42 U.S.C. 7101 et seq.; 50 U.S.C. 2401 et seq.; DOE Order 5500.2B, Emergency Categories, Classes, and Notification and Reporting Requirements, April 30, 1991; 42 U.S.C. 7274i. Program to monitor Department of Energy workers exposed to hazardous and radioactive substances.

PURPOSE(S):

The information is maintained and used by the Department to provide a current record of radiation accidents; to identify specific populations for use in epidemiological and clinical studies; and to conduct medical surveillance during the lifetime of the registrants.

ROUTINE USES OF RECORDS MAINTAINED IN THE SYSTEM, INCLUDING CATEGORIES OF USERS AND THE PURPOSES OF SUCH USES:

1. A record from this system of records may be disclosed to a member of Congress submitting a request involving the constituent when the constituent has requested assistance from the member with respect to the subject matter of the record. The member of Congress must provide a copy of the constituent's request for assistance.

2. A record from this system of records may be disclosed to contractor personnel, grantees, and cooperative agreement holders of components of the Department of Health and Human Services, including the National Institute for Occupational Safety and Health and the National Center for Environmental Health of the Centers for Disease Control and Prevention, and the Agency for Toxic Substances and Disease Registry to facilitate health hazard evaluations, epidemiological studies, or public health activities required by law pursuant to a Memoranda of Understanding between the Department and the Department of Health and Human Services or its components. Those provided information under this routine use are subject to the same limitations applicable to Department officers and employees under the Privacy Act.

3. A record from this system of records may be disclosed as a routine use to DOE contractors, grantees, participants in cooperative agreements, and collaborating researchers, or the employees of these parties, in performance of health studies or related health or environmental duties pursuant to their contracts, grants, and cooperating or collaborating research agreements; federal, state and local health and medical agencies or authorities; to subcontractors in order to determine a subject's vital status or cause of death; to health care providers to verify a diagnosis or cause of death; or to third parties to obtain current addresses for participants in health-related studies, surveys and surveillances. Those provided information under this routine use are subject to the same limitations applicable to Department officers and employees under the Privacy Act.

4. A record from this system of records may be disclosed as a routine use to members of DOE advisory committees, the Department of Health and Human Services Advisory Committee on Projects Related to Department of Energy Facilities and to designated employees of federal, state, or local government or government-sponsored entities authorized to provide advice to the Department concerning health, safety, or environmental issues. Those provided information under this routine use are subject to the same limitations applicable to Department officers and employees under the Privacy Act.

5. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

6. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

7. A record from the system may be disclosed as a routine use to the appropriate local, State or Federal agency when records alone or in conjunction with other information, indicates a violation or potential violation of law whether civil, criminal, or regulatory in nature, and whether arising by general statute or particular program pursuant thereto.

8. A record from this system of records may be disclosed to foreign governments or international organizations, in accordance with treaties, international conventions, or executive agreements.

9. A record from this system may be disclosed to Department of Health and Human Services, their contractors, grantees, and cooperative agreement holders, pursuant to the Energy Employees Occupational Illness Compensation Program Act of 2000, to estimate radiation doses and other workplace exposures received by Department of Energy and contractor employees. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as paper records, microfilm, and electronic media.

RETRIEVABILITY:

Records may be retrieved by name and social security number.

SAFEGUARDS:

Paper records are maintained in locked cabinets and desks. Electronic records are controlled through established DOE computer center procedures (personnel screening and physical security), and they are password protected known only to the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Manager, U.S. Department of Energy, Oak Ridge Operations Office, PO Box 2001, Oak Ridge, TN 37831.

NOTIFICATION PROCEDURES:

In accordance with the DOE regulation implementing the Privacy Act, at Title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

RECORD SOURCE CATEGORIES:

The individual, medical records, physicians, medical institutions, and reports of incident/accident/accident investigations from private and public sources, radiation dosimetry records, security clearance records, and employment records.

SYSTEM EXEMPTED FROM CERTAIN PROVISIONS OF THE ACT:

None.

DOE-72

SYSTEM NAME:

The Department of Energy Radiation Study Registry.

SECURITY CLASSIFICATION:

Unclassified.

SYSTEM LOCATION:

U.S. Department of Energy, Oak Ridge Operations Office, PO Box 2001, Oak Ridge, TN 37831.

CATEGORIES OF INDIVIDUALS COVERED BY THE SYSTEM:

Present and former employees, Department of Energy (DOE) contractor employees, including employees of the National Nuclear Security Administration (NNSA) predecessor agencies and organizations, including the Manhattan District, U.S. Atomic Energy Commission, and Energy Research and Development Administration; and present and former civilian employees in the DOE Naval Reactor Program who received a whole body exposure of ionizing radiation equal to or in excess of 5 REM in any 1 year.

CATEGORIES OF RECORDS IN THE SYSTEM:

Rosters of names of individuals meeting the above criteria for inclusion in the Registry submitted through the DOE field operation officers from DOE owned and operated facilities and sites. In addition to names of such individuals, these rosters include social security number or other identifying information, sex, race, date of birth, date and/or place of death, first date of hire, last date of termination, continuity of hire, year in which they received first dose greater than or equal to 5 REM, actual radiation doses in excess of 5 REM, and total career radiation exposure dose.

Original or copied lifetime medical records from plant and private physicians and hospitals including routine physical examinations, reports of diagnostic and laboratory tests, radiographs, EKGs, etc., or abstracted portions of such records as are required for the purposes of this study.

Contact information for registrants who are no longer employed at qualified sites or who are deceased.

AUTHORITY FOR MAINTENANCE OF THE SYSTEM:

42 U.S.C. 7101 et seq.; 50 U.S.C. 2401 et seq.; DOE Order 5500.2B, Emergency Categories, Classes, and Notification and Reporting Requirements, April 30, 1991; 42 U.S.C. 7274i.

PURPOSE(S):

The information is maintained and used by the Department to identify specific populations for use in epidemiological and clinical studies; and to conduct medical surveillance during the lifetime of the registrants.

ROUTINE USES OF THE RECORDS MAINTAINED IN THE SYSTEM, INCLUDING CATEGORIES OF USERS AND THE PURPOSE OF SUCH USES:

1. A record from the system may be disclosed as a routine use to DOE contractors in performance of their contracts, and their officers and employees who have a need for the record in the performance of their duties. Those provided information under this routine use are subject to the same limitations applicable to Department officers and employees under the Privacy Act.

2. A record from this system of records may be disclosed to a member of Congress submitting a request involving the constituent when the constituent has requested assistance from the member with respect to the subject matter of the record. The member of Congress must provide a copy of the constituent's request for assistance.

3. A record from this system of records may be disclosed to contractor personnel, grantees, and cooperative agreement holders of components of the Department of Health and Human Services, including the National Institute for Occupational Safety and Health and the National Center for Environmental Health of the Centers for Disease Control and Prevention, and the Agency for Toxic Substances and Disease Registry to facilitate health hazard evaluations, epidemiological studies, or public health activities required by law pursuant to a Memoranda of Understanding between the Department and the Department of Health and Human Services or its components. Those provided information under this routine use are subject to the same limitations applicable to Department officers and employees under the Privacy Act.

4. A record from this system of records may be disclosed as a routine use to members of DOE advisory committees, the Department of Health and Human Services Advisory Committee on Projects Related to Department of Energy Facilities and to designated employees of federal, state, or local government or government-sponsored entities authorized to provide advice to the Department concerning health, safety, or environmental issues. Those provided information under this routine use are subject to the same limitations applicable to Department officers and employees under the Privacy Act.

5. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

6. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

7. A record from this system of records may be disclosed as a routine use to the United States Enrichment Corporation and its contractors in performance of their contracts, and their officers and employees who have a need for the record in the performance of their duties subject to the same limitations applicable to DOE officers and employees under the Privacy Act at the following sites: (1) Portsmouth Gaseous Diffusion Plant at Piketon, Ohio, and (2) Paducah Site Office at Paducah, Kentucky.

8. A record from this system be disclosed to Department of Health and Human Services, their contractors, grantees, and cooperative agreement holders, pursuant to the Energy Employees Occupational Illness Compensation Program Act of 2000, to estimate radiation doses and other workplace exposures received by Department of Energy and contractor employees. Those provided information under this routine use are subject to the same limitations applicable to Department officers and employees under the Privacy Act.

9. A record from this system may be disclosed as a routine use to the personnel, contractors, grantees, and cooperative agreement holders of the Department of Labor, the Department of Health and Human Services, the Department of Justice, and other Federal agencies and their components, designated by the President to implement the Federal compensation program established by the Energy Employees Occupational Illness Compensation Program Act, for the purpose of assisting in the adjudication or processing of a claim under that Act. Those provided information under this routine use are subject to the same limitations applicable to Department officers and employees under the Privacy Act.

POLICIES AND PRACTICES FOR STORING, RETRIEVING, ACCESSING, RETAINING, AND DISPOSING OF THE RECORDS IN THE SYSTEM:

STORAGE:

Records may be stored as paper records, microfilm, and electronic media.

RETRIEVABILITY:

Records may be retrieved by name and social security number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Manager, U.S. Department of Energy, Oak Ridge Operations Office, PO Box 2001, Oak Ridge, TN 37831.

NOTIFICATION PROCEDURES:

In accordance with the DOE regulation implementing the Privacy Act, at Title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

RECORD SOURCE CATEGORIES:

The individual, medical records, physicians, medical institutions, and reports of incident/accident/accident investigations from private and public sources, radiation dosimetry records, security clearance records, and employment records.

SYSTEM EXEMPTED FROM CERTAIN PROVISIONS OF THE ACT:

None.

DOE-73

SYSTEM NAME:

The US-DTPA Registry.

SECURITY CLASSIFICATION:

Unclassified.

SYSTEM LOCATION:

U.S. Department of Energy, Oak Ridge Operations Office, PO Box 2001, Oak Ridge, TN 37831.

CATEGORIES OF INDIVIDUALS COVERED BY THE SYSTEM:

Individuals who are or suspected of internal contamination with transuranic elements and have received diethylene triamine pentaacetic acid (DTPA) in the calcium or zinc form during the course of chelation therapy. Administration of the agent DTPA is limited to physicians who are co-investigators with the DOE contractor staff on the Investigative New Drug License of the Food and Drug Administration.

CATEGORIES OF RECORDS IN THE SYSTEM:

The records compiled by the physician administering DTPA in the event of an exposure that was known to have or was suspected of having caused transuranic contamination internally requiring chelation therapy with DTPA. These records include a description of the exposure, the results of serial bioassays and investigations conducted to evaluate the level of internal contamination and the efficacy of subsequent chelation by DTPA.

Name, social security numbers or other identifiers and vital status of treated persons. The name and address of the individual's last known private physicians are included in the DTPA Registry to facilitate the search and contact of individuals; medical records of illnesses, examinations, including routine follow-up examinations, and investigations that have occurred since the initial administration of DTPA; and death certificate.

AUTHORITY FOR MAINTENANCE OF THE SYSTEM:

42 U.S.C. 7101 et seq.; 50 U.S.C. 2401 et seq.; 42 U.S.C. 7274i.

PURPOSE(S):

The records are maintained and used by the Department to provide a current record of individuals treated with DTPA. To identify by epidemiological methods any long-term effects associated with DTPA therapy; and to provide information to Food and Drug Administration in accordance with the Investigative New Drug licenses and issuances, epidemiological and clinical studies; and to conduct medical surveillance during the lifetime of the registrants.

ROUTINE USES OF RECORDS MAINTAINED IN THE SYSTEM, INCLUDING, CATEGORIES OF USERS AND THE PURPOSES OF SUCH USES:

1. A record from the system may be disclosed as a routine use to DOE contractors in performance of their contracts, and their officers and employees who have a need for the record in the performance of their duties. Those provided information under this routine use are subject to the same limitations applicable to Department officers and employees under the Privacy Act.

2. A record from this system of records may be disclosed to a member of Congress submitting a request involving the constituent when the constituent has requested assistance from the member with respect to the subject matter of the record. The member of Congress must provide a copy of the constituent's request for assistance.

3. A record from this system of records may be disclosed to contractor personnel, grantees, and cooperative agreement holders of components of the Department of Health and Human Services, including the National Institute for Occupational Safety and Health and the National Center for Environmental Health of the Centers for Disease Control and Prevention, and the Agency for Toxic Substances and Disease Registry to facilitate health hazard evaluations, epidemiological studies, or public health activities required by law pursuant to Memoranda of Understanding between the Department and the Department of Health and Human Services or its components. Those provided information under this routine use are subject to the same limitations applicable to Department officers and employees under the Privacy Act.

4. A record from this system of records may be disclosed as a routine use to members of DOE Advisory Committees, the Department of Health and Human Services Advisory Committee on Projects Related to Department of Energy Facilities, and to designated employees of federal, state, or local government or government-sponsored entities authorized to provide advice to the Department concerning health, safety, or environmental issues. Those provided information under this routine use are subject to the same limitations applicable to Department officers and employees under the Privacy Act.

5. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

6. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

7. A record from the system may be disclosed as a routine use to the appropriate local, State or Federal agency when records alone or in conjunction with other information, indicates a violation or potential violation of law whether civil, criminal, or regulatory in nature, and whether arising by general statute or particular program pursuant thereto.

8. A record from this system be disclosed to Department of Health and Human Services, their contractors, grantees, and cooperative agreement holders, pursuant to the Energy Employees Occupational Illness Compensation Program Act of 2000, to estimate radiation doses and other workplace exposures received by Department of Energy and contractor employees. Those provided information under this routine use are subject to the same limitations applicable to Department officers and employees under the Privacy Act.

9. A record from this system may be disclosed as a routine use to the personnel, contractors, grantees, and cooperative agreement holders of the Department of Labor, the Department of Health and Human Services, the Department of Justice, and other Federal agencies and their components, designated by the President to implement the Federal compensation program established by the Energy Employees Occupational Illness Compensation Program Act, for the purpose of assisting in the adjudication or processing of a claim under that Act. Those provided information under this routine use are subject to the same limitations applicable to Department officers and employees under the Privacy Act.

STORAGE:

Records may be stored as paper records, microfilm, and electronic media.

RETRIEVABILITY:

Records may be retrieved by name and social security number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Manager, U.S. Department of Energy, Oak Ridge Operations Office, PO Box 2001, Oak Ridge, TN 37831.

NOTIFICATION PROCEDURES:

In accordance with the DOE regulation implementing the Privacy Act, at Title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

RECORD SOURCE CATEGORIES:

The individual, medical records, physicians, medical institutions, and reports of incident/accident/accident investigations from private and public sources, radiation dosimetry records, security clearance records, and employment records.

SYSTEM EXEMPTED FROM CERTAIN PROVISIONS OF THE ACT:

None.

DOE-75

SYSTEM NAME:

Call Detail Records.

SECURITY CLASSIFICATION:

Unclassified.

SYSTEM LOCATION:

U.S. Department of Energy (DOE) Headquarters, 1000 Independence Avenue, SW., Washington, DC 20585.

U.S. Department of Energy (Headquarters), 1000 Independence Avenue, SW., Washington, DC 20585.

U.S. Department of Energy, NNSA Service Center Albuquerque, PO Box 5400, Albuquerque, NM 87185-5400.

U.S. Department of Energy, Bonneville Power Administration, PO Box 3621, Portland, OR 97208.

U.S. Department of Energy, Chicago Operations Office, 9800 South Cass Avenue, Argonne, IL 60439.

U.S. Department of Energy, Idaho Operations Office, 850 Energy Drive, Idaho Falls, ID 83401.

U.S. Department of Energy, National Energy Technology Laboratory (Morgantown), PO Box 880, Morgantown, WV 26505.

U.S. Department of Energy, National Energy Technology Laboratory (Pittsburgh), PO Box 10940, Pittsburgh, PA 15122.

U.S. Department of Energy, National Petroleum Technology Office, William Center Tower One, 1 West Third Street, Tulsa, OK 74103.

U.S. Department of Energy, NNSA Service Center Oakland, 1301 Clay Street, 700 N, Oakland, CA 94612-5208.

U.S. Department of Energy, Oak Ridge Operations Office, PO Box E, Oak Ridge, TN 37830.

U.S. Department of Energy, Pittsburgh Naval Reactors, PO Box 109, Pittsburgh, PA 15122.

U.S. Department of Energy, Richland Operations Office, PO Box 550, Richland, WA 99352.

U.S. Department of Energy, Rocky Flats Field Office, 10808 Highway 93, Unit A, Golden, CO 80403-8200.

U.S. Department of Energy, Savannah River Operations Office, PO Box A, Aiken, SC 29801.

U.S. Department of Energy, Schenectady Naval Reactors Office, PO Box 1069, Schenectady, NY 12301.

U.S. Department of Energy, Southeastern Power Administration, 1166 Athens Tech Road, Elberton, GA 30635-4578.

U.S. Department of Energy, Southwestern Power Administration, Williams Tower One, One West Third Street, Tulsa, OK 74103.

U.S. Department of Energy, Western Area Power Administration, PO Box 3402, Golden, CO 80401.

U.S. Department of Energy, Office of Repository Development, PO Box 364629, North Las Vegas, NV 89036-8629.

CATEGORIES OF INDIVIDUALS COVERED BY THE SYSTEM:

Employees of Department of Energy (DOE) including employees of the National Nuclear Security Administration (NNSA) and those employees of other Federal agencies and contractors who are located on the DOE premises and who have assigned station numbers in the on-premise telecommunications system.

CATEGORIES OF RECORDS IN THE SYSTEM:

Originating and terminating call data records relating to use of DOE telephones, including calling station number; Date, time call originated, duration of call, and called number; directory records indicating assignment of telephone numbers to employees; and records relating to location of telephones. Reports may be generated from stored call detail records and may include, but are not limited to, station usage summaries, trunk usage summaries, traffic and network busy hour studies, on-net and off-net pricing, exception reports, bill certification, and cost allocation.

AUTHORITY FOR MAINTENANCE OF THE SYSTEM:

42 U.S.C. 7101 et seq. and 50 U.S.C. 2401 et seq.

PURPOSE(S):

The information is maintained and used by the Department to help manage and control the costs of operating the Department's telephone systems. To this end, the program will collect information about the use of the agency's telephone system for local, long distance, and other toll calls and may attempt to assign responsibility to individual person for particular calls. The information also assists the Department in choosing more efficient and cost effective ways of communicating; in making decisions about acquiring hardware, software, and services; and in developing management strategies for more efficient use of existing telecommunications capabilities. Other uses are to deter use of the telephone systems for unofficial purposes, and to recover the cost of unofficial calls.

ROUTINE USES OF RECORDS MAINTAINED IN THE SYSTEM, INCLUDING CATEGORIES OF USERS AND THE PURPOSES OF SUCH USES:

1. A record from this system may be disclosed as a routine use to representatives of the General Services Administration who are conducting records management inspections under the authority of 44 U.S.C. 2904 and 2906.

2. A record from this system may be disclosed as a routine use to “consumer reporting agencies” as defined in the Fair Credit Reporting Act, 15 U.S.C. 2904 and 2906.

3. A record from the system may be disclosed as a routine use to the appropriate local, State or Federal agency when records alone or in conjunction with other information, indicates a violation or potential violation of law whether civil, criminal, or regulatory in nature, and whether arising by general statute or particular program pursuant thereto.

4. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

5. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

6. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

7. A record from this system of records may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

8. A record from this system of records may be disclosed to a member of Congress submitting a request involving the constituent when the constituent has requested assistance from the member with respect to the subject matter of the record. The member of Congress must provide a copy of the constituent's request for assistance.

9. A record from this system of records may be disclosed to foreign governments or international organizations in accordance with treaties, international conventions, or executive agreements

10. A record from the system may be disclosed as a routine use to DOE contractors in performance of their contracts, and their officers and employees who have a need for the record in the performance of their duties. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as paper records, microfilm, and electronic media.

RETRIEVABILITY:

Records may be retrieved by individual telephone extension number.

SAFEGUARDS:

Paper and microfilm records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Management Communincations, U.S. Department of Energy, 19901 Germantown Road, Germantown, MD 20874.

Field Offices: The Managers and Directors of the “System Locations” listed above are the system managers for their respective locations.

NOTIFICATION PROCEDURES:

In accordance with the DOE regulation implementing the Privacy Act, at Title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at location where the work is performed. In accordance with the DOE Privacy Act regulation, proper identification is required before a request is processed.

CONTESTING RECORD PROCEDURES:

Same as Notification Procedures above.

RECORD SOURCE CATEGORIES:

Categories include telephone assignment records; call detail listings; results of administrative inquiries relating to assignment of responsibility for placement of special local and long-distance calls.

SYSTEMS EXEMPTED FROM CERTAIN PROVISIONS OF THE ACT:

None.

DOE-77

SYSTEM NAME:

Physical Fitness Test Records.

SECURITY CLASSIFICATION:

Unclassified.

SYSTEM LOCATION:

U.S. Department of Energy, (Headquarters), 19901 Germantown Road, Germantown, MD 20874-1290.

U.S. Department of Energy, NNSA Service Center Albuquerque, PO Box 5400, Albuquerque, NM 87185-5400.

U.S. Department of Energy, Bonneville Power Administration, PO Box 3621, Portland, OR 97208.

U.S. Department of Energy, Chicago Operations Office, 9800 South Cass Avenue, Argonne, IL 60439.

U.S. Department of Energy, Idaho Operations Office, 785 DOE Place, Idaho Falls, ID 83402.

U.S. Department of Energy, National Energy Technology Laboratory (Morgantown), PO Box 880, Morgantown, WV 26505.

U.S. Department of Energy, National Energy Technology Laboratory (Pittsburgh), PO Box 10940, Pittsburgh, PA 15122.

U.S. Department of Energy, National Petroleum Technology Office, William Center Tower One, 1 West Third Street, Suite 1400, Tulsa, OK 744103.

U.S. Department of Energy, NNSA Service Center Nevada, PO Box 98518, Las Vegas, NV 89193-8518.

U.S. Department of Energy, NNSA Service Center Oakland, 1301 Clay Street, Oakland, CA 94612-5208.

U.S. Department of Energy, Oak Ridge Operations Office, PO Box 2001, Oak Ridge, TN 37831-8501.

U.S. Department of Energy, Pittsburgh Naval Reactors, PO Box 109, Pittsburgh, PA 15122.

U.S. Department of Energy, Richland Operations Office, PO Box 550, Richland, WA 99352.

U.S. Department of Energy, Rocky Flats Field Office, 10808 Highway 93, Unit A, Golden, CO 80403-8200.

U.S. Department of Energy, Savannah River Operations Office, PO Box A, Aiken, SC 29801.

U.S. Department of Energy, Schenectady Naval Reactors Office, PO Box 1069, Schenectady, NY 12301.

U.S. Department of Energy, Southeastern Power Administration, 1166 Athens Tech Road, Elberton, GA 30635-4578.

U.S. Department of Energy, Southwestern Power Administration, Williams Tower One, One West Third Street, Tulsa, OK 74103.

U.S. Department of Energy, Western Area Power Administration, PO Box 3402, Golden CO 80401.

U.S. Department of Energy, Office of Repository Development, PO Box 364629, North Las Vegas, NV 89036-8629.

CATEGORIES OF INDIVIDUALS COVERED BY THE SYSTEM:

DOE contractor employees (armed uniformed guards).

CATEGORIES OF RECORDS IN THE SYSTEM:

Record of individual's ability to complete the physical fitness test as set forth in applicable DOE directives.

AUTHORITY FOR MAINTENANCE OF THE SYSTEM:

42 U.S.C. 7101 et seq. and 50 U.S.C. 2401 et seq.

PURPOSE(S):

The records are maintained and used by the Department to record physical fitness tests of Department of Energy (DOE) federal and contractor employees.

ROUTINE USES OF RECORDS MAINTAINED IN THE SYSTEM, INCLUDING CATEGORIES OF USERS AND THE PURPOSES OF SUCH USES:

1. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, State or Federal agency when records alone or in conjunction with other information, indicates a violation or potential violation of law whether civil, criminal, or regulatory in nature, and whether arising by general statute or particular program pursuant thereto.

6. A record from this system of records may be disclosed to a member of Congress submitting a request involving the constituent when the constituent has requested assistance from the member with respect to the subject matter of the record. The member of Congress must provide a copy of the constituent's request for assistance.

7. A record from the system may be disclosed as a routine use to DOE contractors in performance of their contracts, and their officers and employees who have a need for the record in the performance of their duties. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as paper records and electronic media.

RETRIEVABILITY:

Records may be retrieved by name.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Security, U.S. Department of Energy, 1000 Independence Avenue, SW, Washington, DC 20585.

Field Offices: The Managers and Directors of the “System Locations” listed above are the system managers for their respective portions.

NOTIFICATION PROCEDURES:

In accordance with the DOE regulation implementing the Privacy Act, at Title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at location where the work is performed. In accordance with the DOE Privacy Act regulation, proper identification is required before a request is processed.

RECORD SOURCE CATEGORIES:

The subject individual, physicians, and persons administering the tests.

SYSTEM EXEMPTED FROM CERTAIN PROVISIONS OF THE ACT:

None.

DOE-81

SYSTEM NAME:

Counterintelligence Administrative and Analytical Records and Reports.

SECURITY CLASSIFICATION:

Classified and unclassified.

SYSTEM LOCATION:

U.S. Department of Energy (Headquarters), Office of Counterintelligence, 1000 Independence Avenue, SW., Washington, DC 20585.

U.S. Department of Energy, NNSA Service Center Albuquerque, PO Box 5400, Albuquerque, NM 87185-5400.

U.S. Department of Energy, Chicago Operations Office, 9800 Cass Ave., Argonne, IL 60439.

U.S. Department of Energy, Idaho Operations Office, 850 Energy Drive, Idaho Falls, ID 83401.

U.S. Department of Energy, Livermore Site Office, PO Box 808, L-062, Livermore, CA 94551.

U.S. Department of Energy, Lockheed Martin Idaho Technology, PO Box 1625, M/S 2800, Idaho Falls, ID 83415-2800.

U.S. Department of Energy, Los Alamos National Laboratory, Mail Station 5000, PO Box 1663, Los Alamos National Laboratory, NM 87545.

U.S. Department of Energy, Martin Lockheed Energy Systems, PO Box 2009, Oak Ridge, TN 37831-8107.

U.S. Department of Energy, Mason & Hangar—Silar Mason, Co., Inc., Pantex Plant, Bldg 11-54, PO Box 30020, Amarillo, TX 79177.

U.S. Department of Energy, NNSA Service Center Nevada, PO Box 98518, Las Vegas, NV 89193-8518.

U.S. Department of Energy, Oak Ridge Operations Office, PO Box E, Oak Ridge, TN 37830.

U.S. Department of Energy, NNSA Service Center Oakland, 1301 Clay Street, Oakland, CA 94612.

U.S. Department of Energy, Ohio Field Office. Mound Plant, PO Box 3000, OSE-4, Miamisburg, OH 45343.

U.S. Department of Energy, Pacific Northwest Laboratory, 902 Battelle Blvd., PO Box 999, Richland, WA 99352.

U.S. Department of Energy, Richland Operations Office, PO Box 550, Richland, WA 99352.

U.S. Department of Energy, Rocky Flats Field Office, 10808 Highway 93, Unit A, Golden, CO 880403-8200.

U.S. Department of Energy, Savannah River Operations Office, PO Box A, Aiken, SC 29801.

U.S. Department of Energy, Sandia National Laboratory, PO Box 969, M/S 9020, Livermore, CA 94551-0969.

U.S. Department of Energy, Sandia National Laboratory, Org 7400, PO Box 5800, M/S 0173, Albuquerque, NM 87185.

U.S. Department of Energy, Westinghouse Hanford Co., PO Box 1970, Richland, WA 99352.

U.S. Department of Energy, Worldwide Security Service Ltd., Rocky Flats Environmental Technology Site, PO Box 464, T893B, Golden, CO 80402-0464

CATEGORIES OF INDIVIDUALS COVERED BY THE SYSTEM:

Current and former Department of Energy (DOE) employees including employees of the National Nuclear Security Administration (NNSA), contractor employees, and consultants; persons suspected of violating DOE regulations or laws; and, where there are indications of contact with a current or former DOE employee, contractor employee or consultant, persons who are reasonably believed to be officers or employees of, or otherwise acting for or on behalf of, a foreign power; members of an organization reasonably believed to be owned or controlled directly or indirectly by a foreign power; reasonably believed to be targets, hostages, or victims of international terrorist organizations; or reasonably believed to be engaged in or about to engage in clandestine intelligence activities, sabotage, assassinations, or international terrorist activities involving DOE programs, personnel, facilities, information or materials.

CATEGORIES OF RECORDS IN THE SYSTEM:

Analytical, training and investigative records, reports and files; travel reports; reports on foreign contacts; records, reports and files received from other DOE elements and other Federal agencies.

AUTHORITY FOR MAINTENANCE OF THE SYSTEM:

42 U.S.C. 7101 et seq.; 50 U.S.C. 2401 et seq.; Federal Personnel Manual, Chapters 731 and 736.

PURPOSE(S):

The information is maintained and used by the Department in furtherance of the responsibilities of the Office of Counterintelligence (OCI), which include analysis of the foreign intelligence threat; conducting administrative inquiries and investigations to identify and neutralize the foreign intelligence threat to classified and sensitive DOE programs, personnel, information and activities; reporting on foreign contacts and travel, including briefings and debriefings; conducting counterintelligence investigations and producing intelligence on hostile and foreign intelligence entities; counterintelligence related training; and other activities relating to OCI's responsibilities.

ROUTINE USES OF RECORDS MAINTAINED IN THE SYSTEM, INCLUDING CATEGORIES OF USERS AND THE PURPOSES OF SUCH USES:

1. A record from this system may be disclosed as a routine use to the Federal Bureau of Investigation when such records indicate a violation or probable violation of the law.

2. A record from this system may be disclosed as a routine use to other counterintelligence agency components with whom the Office of Counterintelligence is preparing joint analysis of counterintelligence-related threats which may impact the Department.

3. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

4. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

5. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

6. A record from this system of records may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

7. A record from the system may be disclosed as a routine use to the appropriate local, State or Federal agency when records alone or in conjunction with other information, indicates a violation or potential violation of law whether civil, criminal, or regulatory in nature, and whether arising by general statute or particular program pursuant thereto.

8. A record from this system of records may be disclosed to a member of Congress submitting a request involving the constituent when the constituent has requested assistance from the member with respect to the subject matter of the record. The member of Congress must provide a copy of the constituent's request for assistance.

9. A record from this system of records may be disclosed to foreign governments or international organizations in accordance with treaties, international conventions, or executive agreements.

10. A record from the system may be disclosed as a routine use to DOE contractors in performance of their contracts, and their officers and employees who have a need for the record in the performance of their duties. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as paper records and electronic media.

RETRIEVABILITY:

Records may be retrieved by name, social security number or other personal identifying data.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Counterintelligence, Analytical Division, U.S. Department of Energy, 1000 Independence Avenue, SW., Washington, DC 20585.

Field Offices: The Managers and Directors of the “System Locations” listed above are the system managers for their respective portions.

NOTIFICATION PROCEDURES:

In accordance with the DOE regulation implementing the Privacy Act, at Title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at location where the work is performed. In accordance with the DOE Privacy Act regulation, proper identification is required before a request is processed.

RECORD SOURCE CATEGORIES:

The subject individual; present and former DOE employees and contractor employees; publicly available material; other agencies within the Intelligence Community; other offices and elements within DOE; the FBI, and other federal, state and local law enforcement agencies; sources contacted during administrative inquiries and investigations; and official records.

SYSTEM EXEMPTED FROM CERTAIN PROVISIONS OF THE ACT:

This system is exempt under (k)(1), (k)(2), and (k)(5) of the Privacy Act to the extent that information within the system meets the criteria of those subsections of the Act. Such information has been exempted from the provisions of subsections (c)(3), and (4), (d), and (e)(1), (e)(4), (G) and (H) and (f) of the Act; See the DOE Privacy Act regulation at Title10, Code of Federal Regulations, part 1008.

DOE-82

SYSTEM NAME:

Grant and Contract Records for Research Projects, Science Education, and Related Activities.

SECURITY CLASSIFICATION:

Unclassified.

SYSTEM LOCATION:

Office of Science, U.S. Department of Energy, 1000 Independence Avenue, SW., Washington, DC 20585.

CATEGORIES OF INDIVIDUALS COVERED BY THE SYSTEM:

(1) Applicant/Grantee organization; Principal Investigator, i.e., the scientist or other individual designated by the applicant or proposer to direct the project; Senior Personnel, i.e., scientists or other individuals designated by the applicant or proposer to perform work on the project; Certifying Representative, i.e., the business representative having the authority to accept the obligation to comply with Department of Energy (DOE) terms and conditions if DOE makes a grant or contract award. (2) DOE officials DOE Project Officer, i.e., the individual who is responsible for the review and evaluation of the application or proposal and the monitoring of a resulting grant or contract; DOE Program Official, i.e., the individual who is responsible for review and approval of applications or proposals for funding; DOE Budget Official, i.e., the individual who is responsible for certifying funds availability for approved applications or proposals; DOE Contracting Officer or Contract Specialist, i.e., individuals who are responsible for awarding and administering grants or contracts. (3) Merit/Peer Reviewer, i.e., the individual (Federal or non-Federal) who provides a written review or evaluation of the application or proposal to the DOE Project Officer.

CATEGORIES OF RECORDS IN THE SYSTEM:

Grant applications, contract proposals, technical reviews by peer reviewer, records of grant and contract awards, financial data, and any other pertinent information needed for the tracking or approval of a grant or contract.

AUTHORITY FOR MAINTENANCE OF THE SYSTEM:

42 U.S.C. 7101 et seq. and 50 U.S.C. 2401 et seq.

PURPOSE(S):

The information is maintained and used by the Department to track and monitor the receipt, review, and disposition of grant applications and contract proposals from universities, non-profit organizations, large and small businesses, other Federal agencies, State and local governments, individuals, and DOE national laboratories seeking Federal financial support for research projects, training, and related activities. The system also tracks and monitors funding authorizations and associated financial data.

ROUTINE USES OF RECORDS MAINTAINED IN THE SYSTEM, INCLUDING CATEGORIES OF USERS AND THE PURPOSES OF SUCH USES:

1. A record from this system may be disclosed as a routine use to expert peer reviewers selected by DOE for their expertise in specific research areas to evaluate the application or proposal in accordance with established evaluation criteria.

2. A record from this system of records may be disclosed to a member of Congress submitting a request involving the constituent when the constituent has requested assistance from the member with respect to the subject matter of the record. The member of Congress must provide a copy of the constituent's request for assistance.

3. A record from the system may be disclosed as a routine use to DOE contractors in performance of their contracts, and their officers and employees who have a need for the record in the performance of their duties. Those provided information under this routine use are subject to the same limitations applicable to Department officers and employees under the Privacy Act.

4. A record from this system may be disclosed as a routine use to an applicant's principal investigator, sponsored programs office, business office, or similar element, via electronic media for the purpose of checking the status of its grant applications or contract proposals which have been submitted to DOE for support. Safeguards will be employed on a case by case basis to allow access only to authorized persons having a need to know.

POLICIES AND PRACTICES FOR STORING, RETRIEVING, ACCESSING, RETAINING AND DISPOSING OF RECORDS IN THE SYSTEM:

STORAGE:

Records may be stored as paper records and electronic media.

RETRIEVABILITY:

Records may be retrieved by application or proposal number, project number, award number, name of applicant or awardee, name of principal investigator, social security number, name of peer reviewer, DOE project officer, or budget and reporting classification code.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Director, Grants and Contracts Division, Office of Resource Management, Office of Science, U.S. Department of Energy, Washington, DC 20585.

NOTIFICATION PROCEDURES:

In accordance with the DOE regulation implementing the Privacy Act, at Title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures.

RECORD SOURCE CATEGORIES:

Grant applications and contract proposals.

SYSTEM EXEMPTED FROM CERTAIN PROVISIONS OF THE ACT:

None.

DOE-83

SYSTEM NAME:

Allegation-Based Inspections Files of the Office of Inspector General.

SECURITY CLASSIFICATION:

Unclassified and classified.

SYSTEM LOCATION:

Official Allegation-Based Inspections Files are located at:

U.S. Department of Energy, Office of Inspector General, Headquarters, 1000 Independence Avenue, SW., Washington, DC 20585.

U.S. Department of Energy, Office of Inspector General, PO Box 5400, Albuquerque, NM 87185-5400.

U.S. Department of Energy, Office of Inspector General, Building 703-41A, Aiken, SC 29802.

U.S. Department of Energy, Office of Inspector General, PO Box 2254, Livermore, CA 94551.

U.S. Department of Energy, Office of Inspector General, PO Box 62, Room 502, Oak Ridge, TN 37831.

CATEGORIES OF INDIVIDUALS COVERED BY THE SYSTEM:

Individuals who are the subjects of inspections or inquiries concerning allegations or complaints, individuals who have pertinent knowledge about the inspection or inquiry, individuals authorized to furnish information, confidential informants, complainants, Office of Inspector General inspections personnel, and other individuals involved in these inspections.

CATEGORIES OF RECORDS IN THE SYSTEM:

Inspection files predicated on allegations or complaints and which identify subjects or sources of information by name. Inspections performed relate to sensitive allegations of wrongdoing received concerning certain individuals, including agency employees, or other persons or entities with some relationship to the agency. Allegations include, but are not limited to, abuse of authority; misuse of government time, property, or position; conflicts of interest; whistleblower reprisal; or other non-criminal violations of law, rules, or regulations.

AUTHORITY FOR MAINTENANCE OF THE SYSTEM:

42 U.S.C. 7101 et seq.; 50 U.S.C. 2401 et seq.; The Inspector General Act of 1978, as amended, 5 U.S.C. App. 3.

PURPOSE(S):

The records are maintained and used by the Department in furtherance of the responsibilities of the Inspector General. These responsibilities include evaluating the effectiveness and efficiency of an operation, determining compliance with laws and regulations, evaluating Departmental program operations and results, preventing and detecting fraud and abuse in such programs and operations, and assuring the investigation of complaints by contractor employees alleging retaliation for making disclosures protected under 10 CFR part 708 and 41 U.S.C. 265.

ROUTINE USES OF RECORDS MAINTAINED IN THE SYSTEM, INCLUDING CATEGORIES OF USERS AND PURPOSES OF SUCH USES:

1. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, State or Federal agency when records alone or in conjunction with other information, indicates a violation or potential violation of law whether civil, criminal, or regulatory in nature, and whether arising by general statute or particular program pursuant thereto.

6. A record from this system of records may be disclosed to a member of Congress submitting a request involving the constituent when the constituent has requested assistance from the member with respect to the subject matter of the record. The member of Congress must provide a copy of the constituent's request for assistance.

7. A record from this system of records may be disclosed to foreign governments or international organizations in accordance with treaties, international conventions, or executive agreements.

8. A record from the system may be disclosed as a routine use to DOE contractors in performance of their contracts, and their officers and employees who have a need for the record in the performance of their duties. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as paper, microfilm, and electronic media.

RETRIEVABILITY:

Records may be retrieved by name of individual involved, case number, report title, or subject matter.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Assistant Inspector General for Inspections, U.S. Department of Energy, Room 5B-250, 1000 Independence Avenue, SW., Washington, DC 20585.

NOTIFICATION PROCEDURES:

In accordance with the DOE regulation implementing the Privacy Act, at Title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at location where the work is performed. In accordance with the DOE Privacy Act regulation, proper identification is required before a request is processed.

CONTESTING RECORD PROCEDURES:

Same as Notification Procedures above.

RECORD SOURCE CATEGORIES:

Subject individuals; individuals and organizations that have pertinent knowledge about a subject individual or corporate entity; those authorized by an individual to furnish information; confidential informants; and Federal Bureau of Investigation (FBI) and other Federal, state, and local entities.

SYSTEM EXEMPTED FROM CERTAIN PROVISION OF THE ACT:

This system is exempt under (k)(1) and (k)(2) of the Privacy Act to the extent that information within the System meets the criteria of those subsections of the Act. Such information has been exempted from the provisions of subsections (c)(3), (d), and (e)(1), (e)(4) (G) and (H) and (f) of the Act; See the DOE Privacy Act regulation at Title 10, Code of Federal Regulations, part 1008.

DOE-84

SYSTEM NAME:

Counterintelligence Investigative Records.

SECURITY CLASSIFICATION:

Classified and unclassified.

SYSTEM LOCATION:

Records maintained in DOE-84, except those pertaining to polygraph examinations and the e-mail analysis project, will be stored at the following locations:

U.S. Department of Energy, 1000 Independence Avenue, SW., Washington, DC 20585.

U.S. Department of Energy, NNSA Service Center Albuquerque, PO Box 5400, Albuquerque, NM, PO 5400, Albuquerque, NM 87185-5400.

U.S. Department of Energy, Chicago Operations Office, 9800 South Cass Avenue, Argonne, IL 60439.

U.S. Department of Energy, Idaho Operations Office, 850 Energy Drive, Idaho Falls, ID 83403.

U.S. Department of Energy, Livermore Site Office, 7000 East Avenue, PO Box 808, Livermore, CA 94551.

U.S. Department of Energy, Lockheed Idaho Technical Center, 765 Lindsay Boulevard, Idaho Falls, ID 83403.

U.S. Department of Energy, Los Alamos Site Office, M/S B-236, PO Box 1663, Los Alamos, NM 87545.

U.S. Department of Energy, NNSA Service Center Nevada PO Box 98518, Las Vegas, NV 89193-8518.

U.S. Department of Energy, Oak Ridge Operations Office, PO Box 2001, Oak Ridge, TN 37831.

U.S. Department of Energy, NNSA Service Center Oakland PO Box 808, Livermore, CA 94550.

U.S. Department of Energy, Ohio Field Office, PO Box 3020, Miamisburg, OH 45343.

Pacific Northwest National Laboratory, 902 Battelle Blvd., PO Box 999, Richland, WA 99352

U.S. Department of Energy, Richland Operations Office, PO Box 550, Richland, WA 99352;.

U.S. Department of Energy, Rocky Flats Field Office, PO Box 928, Golden, CO 80402.

U.S. Department of Energy, Rocky Flats, World Wide Security Services, Ltd, PO Box 40, Broomfield, CO 80038.

U.S. Department of Energy, Sandia National Laboratory—Albuquerque, PO Box 5400, Albuquerque, NM 87185-5800.

U.S. Department of Energy, Sandia National Laboratory—California, PO Box 969, Livermore, CA 94551.

U.S. Department of Energy, Savannah River Operations Office, PO Box A, Aiken, SC 29801; Savannah River, Westinghouse Savannah River Company, Bldg. 703-45A, Aiken, SC 29808.

Records maintained in DOE-84 in connection with DOE administered counterintelligence-scope polygraph examinations, will be maintained only at the following locations:

U.S. Department of Energy, Headquarters, 1000 Independence Avenue, SW., Washington, DC 20585.

U.S. Department of Energy, DOE Test Center, Albuquerque, NM 87106.

Records maintained in DOE-84 in connection with the DOE e-mail analysis project will be maintained only at the following locations:

U.S. Department of Energy, Headquarters, 1000 Independence Avenue, SW., Washington, DC 20585.

U.S. Department of Energy, Livermore Site Office, 7000 East Avenue, PO Box 808, Livermore, CA 94551.

U.S. Department of Energy, Los Alamos Site Office, PO Box 1663, Los Alamos, NM 87545.

U.S. Department of Energy, Pacific Northwest National Laboratory, 902 Battelle Blvd., PO Box 999, Richland, WA 99352.

U.S. Department of Energy, Sandia National Laboratory—Albuquerque, PO Box 5800, Albuquerque, NM 87185-5800.

U.S. Department of Energy, Sandia National Laboratory—California, PO Box 969, Livermore, CA 94551.

CATEGORIES OF INDIVIDUALS COVERED BY THE SYSTEM:

Current and former DOE employees including employees of the National Nuclear Security Administration (NNSA) and contractor employees; applicants for employment at DOE; individuals who may be assigned or detailed to Federal positions at DOE; consultants to DOE; users of the e-mail systems at the Sandia Site Office, Los Alamos National Laboratory, Livermore Site Office, and Pacific Northwest National Laboratory; persons suspected of violating DOE regulations or criminal laws; individuals who voluntarily request a polygraph examination in order to respond to questions that have arisen in the context of a counterintelligence investigation; and those individuals who are (a) reasonably believed to be officers or employees of, or otherwise acting for or on behalf of, a foreign power; (b) members of an organization reasonably believed to be owned or controlled directly or indirectly by a foreign power; (c) reasonably believed to be targets, hostages, or victims of international terrorist organizations; or (d) reasonably believed to be engaged or about to engage in clandestine intelligence activities, sabotage, assassinations, or international terrorist activities involving DOE programs, personnel, facilities, information, or materials and have made personal or impersonal contact with a current or former DOE employee, contractor employee or consultant.

CATEGORIES OF RECORDS IN THE SYSTEM:

Law enforcement records, reports and files; reports on foreign contacts; records, reports and files received from other DOE elements and other Federal agencies related to intelligence activities; counterintelligence evaluation records; polygraph examination records; reports and videotapes of the polygraph session; and electronic mail stored on CD.

AUTHORITY FOR MAINTENANCE OF THE SYSTEM:

42 U.S.C. 7101 et seq.; 50 U.S.C. 2401 et seq.; The Atomic Energy Act of 1954, as amended; National Defense Authorization Act of Fiscal Year 2000 Pub. L. 106-65; the Employee Polygraph Protection Act, Pub. L. 100-347; 29 U.S.C. 2006(b)(1)(B); the Electronic Communications Privacy Act, Pub. L. 99-508, 18 U.S.C. 2510 et seq.; Executive Order 12333, United States Intelligence Activities (December 4, 1981); Department of Energy Procedures for Intelligence Activities, approved by the Attorney General under Executive Order 12333 (October 19, 1992); Executive Order 12958, Classified National Security Information (April 17, 1995); Executive Order 12968, Access to Classified Information (August 2, 1995); and Presidential Decision Directive-61.

PURPOSE(S):

The information is maintained and used by the Department to conduct counterintelligence investigations. The records in this system also will be used by the Office of Counterintelligence when participating in joint law enforcement counterintelligence-related investigations with the FBI or other Federal law enforcement agencies or components thereof in order to detect and prevent foreign intelligence threats directed at or involving DOE classified and sensitive information, materials, programs, facilities, personnel, and other Department resources. Finally, the records in this system are collected and maintained by the Office of Counterintelligence in order to fulfill its statutory responsibilities under section 3154 of the National Defense Authorization Act for Fiscal Year 2000.

ROUTINE USES OF RECORDS MAINTAINED IN THE SYSTEM, INCLUDING CATEGORIES OF USERS AND PURPOSES OF SUCH USES:

1. A record from this system may be disclosed as a routine use to an appropriate Federal, State, local or foreign agency when a record within this system of records, alone or in conjunction with other information, indicates a violation or potential violation of law whether civil, criminal, or regulatory in nature, and whether arising by general statute of particular program pursuant thereto.

2. A record from this system of record may be disclosed, as a routine use, to a Federal, state or local agency that maintains relevant information to obtain information relevant to a Department decision concerning the hiring or retention of an employee, the issuance of a security clearance, the letting of a contract, or the issuance of a license, grant, or other benefit. The Department must deem such disclosure to be compatible with the purpose for which the Department collected the information.

3. A record from this system may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

4. A record from this system may be disclosed as a routine use to DOE contractors in performance of their contracts, and their officers and employees who have a need for the record in the performance of their duties. The contractor and its officers receiving information under this routine use are subject to the same limitations applicable to DOE officers and employees under the Privacy Act.

POLICIES AND PRACTICES FOR STORING, RETRIEVING, ACCESSING, RETAINING, AND DISPOSING OF RECORDS IN THE SYSTEM:

STORAGE:

Records may be stored as paper records, electronic media, and videotapes.

RETRIEVABILITY:

Records may be retrieved by name and/or social security number.

SAFEGUARDS:

Paper records and videotapes are maintained in locked cabinets. Electronic records are controlled through established DOE computer center procedures (personnel screening and physical security), secured for classified information and are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) ANDDRESS:

Director, Office of Counterintelligence, U.S. Department of Energy, 1000 Independence Avenue, SW, Washington, DC 20585. Field Offices: The Managers of the “System Locations” listed above are the system managers for their respective portions of this system.

NOTIFICATION PROCEDURES:

In accordance with the DOE regulation implementing the Privacy Act, at Title 10 Code of Federal Regulations, part 1008, a request by an individual to determine if a system of records contains information about him/her should be directed to the Director, Headquarters Freedom of Information Act and Privacy Act Group, U. S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where work is performed. In accordance with the DOE Privacy Act regulation, proper identification is required before a request is processed.

CONTESTING RECORD PROCEDURES:

Same as Notification Procedures above.

RECORD SOURCE CATEGORIES:

The subject individual, present and former DOE employees and DOE contractor employees, applicants for employment, individuals assigned or detailed to Federal positions at DOE, and consultants; any user of the DOE e-mail systems at Sandia Site Office, Los Alamos National Laboratory, Livermore Site Office, and Pacific Northwest National Laboratory; publicly available material; other agencies within the Intelligence Community; other offices within the DOE; the FBI, and other federal, state and local law enforcement agencies; and sources contacted during investigations.

SYSTEM EXEMPTED FROM CERTAIN PROVISIONS OF THE ACT:

This system is exempt pursuant to subsections (j)(2) and (k)(1), (2) and (5) of the Privacy Act, 5 U.S.C. 552a, to the extent that information within the system meets the requirements of those subsections of the Act. Under subsection (j)(2) of the Privacy Act, this system has been exempted from subsections (c)(3) and (4), (d), (e)(1), (2), and (3), (e)(4)(G) and (H), (e)(8), (f) and (g) of 5 U.S.C. 552a. See DOE the Privacy Act Regulation at 10 CFR 1008.12.

To the extent the information in this system of records is exempt pursuant to 5 U.S.C. 552a(k)(1), (2) and (5), the system has been further exempted from subsections (c)(3), (d), (e)(1), (e)(4)(G) and (H) and (f) of 5 U.S.C. 552a under the Privacy Act of 1974. See the DOE Privacy Act Regulation at 10 CFR 1008.12(b).

DOE-86

SYSTEM NAME:

Human Radiation Experiments Records.

SECURITY CLASSIFICATION:

Unclassified.

SYSTEM LOCATION:

U.S. Department of Energy, Office of Human Radiation Experiments, 1000 Independence Avenue, SW, Washington, DC 20585.

U.S. Department of Energy, Coordination and Information Center, 3084 S. Highland St., Las Vegas, NV 89109.

CATEGORIES OF INDIVIDUALS COVERED BY THE SYSTEM:

Persons who participated in the organizing, conducting, and financing of the Human Radiation Experiments and environmental releases of radiation described in Executive Order 12891, 59 FR 2935 (January 20, 1994). Records are also maintained on persons who were subjects of the experiments or were affected by the releases. Generally, the records pertain to persons in the following categories:

(1) Former and current employees of the DOE, its predecessor agencies and their contractors and subcontractors; (2) members of the public; (3) persons exposed to radiation as a result of proximity to nuclear facilities or the intentional or accidental release of radiation.

CATEGORIES OF RECORDS IN THE SYSTEM:

Records pertaining to the planning, organizing, financing, conducting, effects and results of experiments and environmental releases, gathered from DOE, its predecessor agencies and their contractors and subcontractors. Such records include correspondence, memoranda, published and unpublished reports, notes, logs, proposals, contracts, minutes of meetings of the Atomic Energy Commission and its advisory committees and subcommittees dealing with radiation, correspondence with members of the public, transcripts of interviews of persons associated with the organizing, financing and conducting of the experiments, reports of Congressional hearings, personal notes, diaries and papers, archival collections, interagency memoranda and agreements, consent forms, medical and laboratory reports, transcripts of medical conferences, and newspaper and magazine articles.

AUTHORITY FOR MAINTENANCE OF THE SYSTEM:

42 U.S.C. 7101 et seq.; 50 U.S.C. 2401 et seq.; 42 U.S.C. 7151; 42 U.S.C. 2201 and 42 U.S.C. 5813 and 5817.

PURPOSE(S):

The purpose of this system of records is to assist members of the public in piecing together their own (or immediate family) history of possible involvement in government-sponsored radiation experiments.

ROUTINE USES OF RECORDS MAINTAINED IN THE SYSTEM, INCLUDING CATEGORIES OF USERS AND THE PURPOSES OF SUCH USES:

1. A record from this system may be disclosed as a routine use to the Advisory Committee on Human Radiation Experiments to perform its assigned task of evaluating the scientific and ethical aspects of the Human Radiation Experiments and environmental releases. A record from this system of records may be disclosed to that Committee to provide it with information concerning experiments or releases of radiation that were sponsored, financed or conducted by DOE, its predecessors, or other Federal agencies, and their contractors and subcontractors. Those provided information under this routine use are subject to the same limitations applicable to Department officers and employees under the Privacy Act.

2. A record from this system may be disclosed as a routine use pertaining to another Federal agency if it appears from the record, or other available information, that the other Federal agency conducted the Human Radiation Experiment or environmental release or that referral to the other Federal agency is appropriate for remedial purposes.

3. A record from this system may be disclosed as a routine use to DOE contractors and subcontractors conducting epidemiological, industrial safety or hygiene studies to ascertain or determine: (a) How radiation exposure effects the health and well being of individuals or groups of individuals; and (b) the risks of working with, or being in proximity to, nuclear equipment, devices and facilities and how such risks may be ameliorated. Those provided information under this routine use are subject to the same limitations applicable to Department officers and employees under the Privacy Act.

4. A record from this system may be disclosed as a routine use to the Centers for Disease Control and Prevention, other Federal and state health agencies, and Federal and state agencies involved with industrial or employee safety to be used for epidemiological or industrial safety or hygiene studies to ascertain or determine: (a) How radiation exposure effects the health and well being of individuals or groups of individuals; and (b) the risks of working with, or being in proximity to, nuclear equipment, devices and facilities, and how such risks may be ameliorated.

5. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

6. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

7. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

8. A record from this system of records may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

9. A record from the system may be disclosed as a routine use to the appropriate local, State or Federal agency when records alone or in conjunction with other information, indicates a violation or potential violation of law whether civil, criminal, or regulatory in nature, and whether arising by general statute or particular program pursuant thereto.

10. A record from this system of records may be disclosed to a member of Congress submitting a request involving the constituent when the constituent has requested assistance from the member with respect to the subject matter of the record. The member of Congress must provide a copy of the constituent's request for assistance.

11. A record from the system may be disclosed as a routine use to DOE contractors in performance of their contracts, and their officers and employees who have a need for the record in the performance of their duties. Those provided information under this routine use are subject to the same limitations applicable to Department officers and employees under the Privacy Act.

12. A record from this system of records may be disclosed to officials and contractor personnel of the Agency for Toxic Substances and Disease Registry in carrying out that agency's authorized activities at DOE's facilities pursuant to section 104(I) of the Comprehensive Environmental Response, Compensation, and Liability Act.

13. A record from this system may be disclosed as a routine use to the personnel, contractors, grantees, and cooperative agreement holders of the Department of Labor, the Department of Health and Human Services, the Department of Justice, and other Federal agencies and their components, designated by the President to implement the Federal compensation program established by the Energy Employees Occupational Illness Compensation Program Act, for the purpose of assisting in the adjudication or processing of a claim under that Act. Those provided information under this routine use are subject to the same limitations applicable to Department officers and employees under the Privacy Act.

POLICIES AND PRACTICES FOR STORING, RETRIEVING, ACCESSING, RETAINING AND DISPOSING OF RECORDS IN THE SYSTEM:

STORAGE:

Records may be stored as paper records and electronic media.

RETRIEVABILITY:

The records may be retrieved by name or other personal identifier as dictated by the needs of the particular researcher.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

U.S. Department of Energy, Deputy Assistant Secretary for Environment, Safety and Health, 1000 Independence Avenue, SW., Washington, DC 20585

U.S. Department of Energy, Manager, NNSA Service Center Nevada, PO Box 98518, Las Vegas, NV 89193-8518

NOTIFICATION PROCEDURES:

In accordance with the DOE regulation implementing the Privacy Act, at Title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures.

RECORD SOURCE CATEGORIES:

Persons conducting or otherwise having a role in the organization and financing of experiments or releases, present and former DOE and predecessor agency contractors and subcontractors, physicians, medical records, dosimetry records, subject individuals, DOE and its predecessor agency officials and operating offices.

SYSTEM EXEMPTED FROM CERTAIN PROVISIONS OF THE ACT:

None.

DOE-88

SYSTEM NAME:

Epidemiologic and Other Health Studies, Surveys and Surveillances.

SECURITY CLASSIFICATION:

None.

SYSTEM LOCATION:

U.S. Department of Energy, Office of Environment, Safety and Health, Office of Health Studies, Germantown, Md. 20874-1290. Portions also may be located with contractors, other entities involved in conducting or managing health studies, surveys, and surveillances, or other Department offices listed below:

U.S. Department of Energy, NNSA Service Center Albuquerque, PO Box 5400, Albuquerque, NM 87185-5400

U.S. Department of Energy, Bonneville Power Administration, PO Box 3621, Portland, OR 97208.

U.S. Department of Energy, Chicago Operations Office, 9800 South Cass Avenue, Argonne, IL 60439.

U.S. Department of Energy, Golden Field Office, 1617 Cole Boulevard, Golden, CO 80401.

U.S. Department of Energy, Grand Junction Office, 2597 B 3/4 Road, Grand Junction, CO 81503.

U.S. Department of Energy, Headquarters, 1000 Independence Avenue, SW, Washington, DC 20585.

U.S. Department of Energy, Idaho Operations Office, 850 Energy Drive, Idaho Falls, ID 83401.

U.S. Department of Energy, National Energy Technology Laboratory (Morgantown), 3610 Collins Ferry Road Morgantown, WV 26507-0880.

U.S. Department of Energy, National Energy Technology Laboratory (Pittsburgh), PO Box 10940, Pittsburgh, PA 15236-0940.

U.S. Department of Energy, National Petroleum Technology Office, William Center Tower One, 1 West Third Street, Tulsa, OK 74103.

U.S. Department of Energy, NNSA Service Center Nevada, PO Box 98518, Las Vegas, NV 89193-8518.

U.S. Department of Energy, Oak Ridge Operations Office, PO Box 2001, Oak Ridge, TN 37831.

U.S. Department of Energy, NNSA Service Center Oakland, 1301 Clay Street, Oakland, CA 94612-5208.

U.S. Department of Energy, Ohio Field Office, 1 Mound Road, Miamisburg, OH 45342.

U.S. Department of Energy, Pacific Northwest National Laboratory, 902 Battelle Boulevard, PO Box 999, Richland, WA 99352.

U.S. Department of Energy, Pittsburgh Naval Reactors, PO Box 109, West Mifflin, PA 15122-0109.

U.S. Department of Energy, Richland Operations Office, 825 Jadwin Avenue, PO Box 550, Richland, WA 99352.

U.S. Department of Energy, Rocky Flats Field Office, 10808 Highway 93, Unit A, Golden, CO 80402-0928.

U.S. Department of Energy, Savannah River Operations Office, PO Box A, Aiken, SC 29801.

U.S. Department of Energy, Schenectady Naval Reactors Office, PO Box 1069, Schenectady, NY 12301.

U.S. Department of Energy, Southeastern Power Administration, 1166 Athens Tech Road, Elberton, GA 30635-4578.

U.S. Department of Energy, Southwestern Power Administration, Williams Tower One, One West Third Street, Tulsa, OK 74103.

U.S. Department of Energy, Strategic Petroleum Reserve Project Office, 900 Commerce Road East, New Orleans, LA 70123.

U.S. Department of Energy, Western Area Power Administration, PO Box 3402, Golden, CO 80401.

U.S. Department of Energy, Office of Repository Development, PO Box 364629, North Las Vegas, NV 89036-8629.

CATEGORIES OF INDIVIDUALS COVERED BY THE SYSTEM:

Data about individuals who were included in any authorized epidemiologic or other health study, survey, or surveillance. Such persons include current and former employees of the Department, its predecessor agencies, and their contractors and subcontractors, as well as other individuals included in health studies, surveys, and surveillances pertaining to any potential health hazard (including electromagnetic fields) associated with energy production, transmission, or use. Accordingly, persons having access, or in proximity, to the Department's facilities, persons involved in or effected by energy production activities, and members of the general population selected as control groups also may be included.

CATEGORIES OF RECORDS IN THE SYSTEM:

Specific types of records collected and maintained are determined by the needs of the individual study, survey, or surveillance. Examples include, but are not limited to, questionnaires, demographic information, work history, medical and reproductive history, birth data, radiation and other exposure history, laboratory test results, data from prior studies, surveys, and surveillances, alcohol and tobacco use history, and illness absence information. Information may be collected directly from individuals, as well as extracted as necessary from personnel files and lists, training files, medical records, legal case files, bioassay records, industrial hygiene files, payroll and leave records, radiation and other hazard exposure records, occupational and industrial accident records, employee insurance claims, personnel security clearance questionnaires, personnel assurance program records, and related sources.

AUTHORITY FOR MAINTENANCE OF THE SYSTEM:

42 U.S.C. 7101 et seq.; 50 U.S.C. 2401 et seq.; 42 U.S.C. 7151 and 7297; 42 U.S.C. 2201(c), 2201(I)(3), 5813 and 5817.

PURPOSE(S):

The information is maintained and used by the Department to conduct epidemiological and other health studies, surveys and surveillances, conducted by the Department and the Department of Health and Human Services performing studies for the Department, their contractors, grantees, and collaborating researchers. The health studies pertain to individual and aggregate population health risks from exposures to radiation, or other chemical, physical, or biological hazards that may occur or may have occurred as a result of the Department's, or its predecessor agencies' operations, or as a result of energy production, transmission, or use. Individually identifiable information does not appear in published epidemiological studies or other published health studies, surveys, and surveillances. However, the system will contain records compiled in completing published and unpublished studies, surveys, and surveillances from which information may be retrieved by name or other personal identifier.

ROUTINE USES OF RECORDS MAINTAINED IN THE SYSTEM, INCLUDING CATEGORIES OF USERS AND THE PURPOSES OF SUCH USES:

1. A record from this system may be disclosed as a routine use to contractor personnel, grantees, and cooperative agreement holders of components of the Department of Health and Human Services, including the National Institute for Occupational Safety and Health, the National Center for Environmental Health of the Centers for Disease Control and Prevention, and the Agency for Toxic Substances and Disease Registry pursuant to a Memoranda of Understanding between the Department and the Department of Health and Human Services or its components. Those provided information under this routine use are subject to the same limitations applicable to Department officers and employees under the Privacy Act.

2. A record from this system of records may be disclosed as a routine use to contractors, grantees, participants in cooperative agreements and collaborating researchers, or the employees of these parties, when conducting health studies or related health or environmental duties pursuant to their contracts, grants, and cooperating or collaborating research agreements. In order to perform such studies, the Department, its contractors, grantees, participants in cooperative agreements, and collaborating researchers may disclose a record: To Federal, State, and local health and medical agencies or authorities; to subcontractors in order to determine a subject's vital status or cause of death; to health care providers to verify a diagnosis or cause of death; or to third parties to obtain current addresses for participants in health-related studies, surveys and surveillances. All recipients of such records are required to comply with the Privacy Act, to follow prescribed measures to protect personal privacy, and to disclose or use personally identifiable information only for the above described research purposes. Those provided information under this routine use are subject to the same limitations applicable to Department officers and employees under the Privacy Act.

3. A record from this system of records may be disclosed to members of Department advisory committees, the Department of Health and Human Services Advisory Committee on Projects Related to Department of Energy Facilities, and to designated employees of Federal, State, or local government, or government-sponsored entities, authorized to provide advice to the Department concerning health, safety, or environmental issues. All recipients of such records are required to comply with the Privacy Act, to follow prescribed measures to protect personal privacy, and to disclose or use personally identifiable information only for the purpose of providing advice to the Department or to the Department of Health and Human Services. Those provided information under this routine use are subject to the same limitations applicable to Department officers and employees under the Privacy Act.

4. A record from this system of records may be disclosed as a routine use, to DOE contractors in performance of their contracts, and their officers and employees who have a need for the record in the performance of their duties subject to the same limitations applicable to DOE officers and employees under the Privacy Act.

5. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

6. A record from this system may be disclosed as a routine use in court or administrative proceedings to the tribunals, counsel, other parties, witnesses, and the public (in publicly available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

7. A record from the system may be disclosed as a routine use to the appropriate local, State or Federal agency when records alone or in conjunction with other information, indicates a violation or potential violation of law whether civil, criminal, or regulatory in nature, and whether arising by general statute or particular program pursuant thereto.

8. A record from this system be disclosed to Department of Health and Human Services, their contractors, grantees, and cooperative agreement holders, pursuant to the Energy Employees Occupational Illness Compensation Program Act of 2000, to estimate radiation doses and other workplace exposures received by Department of Energy and contractor employees. The Secretary of Health and Human Services and the Secretary of Energy shall each make available to researchers and the general public information on the assumptions, methodology, and data used in establishing radiation doses consistent with the protection of private medical records. Those provided information under this routine use are subject to the same limitations applicable to Department officers and employees under the Privacy Act.

9. A record from this system may be disclosed as a routine use to the personnel, contractors, grantees, and cooperative agreement holders of the Department of Labor, the Department of Health and Human Services, the Department of Justice, and other Federal agencies and their components, designated by the President to implement the Federal compensation program established by the Energy Employees Occupational Illness Compensation Program Act, for the purpose of assisting in the adjudication or processing of a claim under that Act. Those provided information under this routine use are subject to the same limitations applicable to Department officers and employees under the Privacy Act.

POLICIES AND PRACTICES FOR STORING, RETRIEVING, ACCESSING, RETAINING, AND DISPOSING OF RECORDS IN THE SYSTEM:

STORAGE:

Records may be stored as microfilm, paper records, and electronic media.

RETRIEVABILITY:

Records may be retrieved by name, study/surveillance-assigned control number, social security number, or other personal identifier, as dictated by the needs of the particular researcher.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Director, Office of Epidemiologic Studies, U.S. Department of Energy, 19901 Germantown Road, Germantown, MD 20874-1290.

NOTIFICATION PROCEDURES:

In accordance with the DOE regulation implementing the Privacy Act, at Title 10 Code of Federal Regulations, part 1008, a request by an individual to determine if a system of records contains information about him/her should be directed to the Director, Headquarters Freedom of Information Act and Privacy Act Group, U.S. Department of Energy, or the Privacy Act Officer at the appropriate address identified above under “System Locations.” For records maintained by Laboratory or Area Office, request should be directed to the Privacy Act Officer at the Operations Office that has jurisdiction over that office or facility. The request should include the requester's complete name, time period for which records are sought, and the office locations(s) where the requester believes the records are located.

RECORDS ACCESS PROCEDURES:

Same as Notification Procedures above. Records are generally kept at location where the work is performed. In accordance with the DOE Privacy Act regulation, proper identification is required before a request is processed.

CONTESTING RECORD PROCEDURES:

Same as Notification Procedures.

RECORD SOURCE CATEGORIES:

Subject individual and the individual's employer, including DOE and its predecessor agencies and their contractors and subcontractors.

SYSTEMS EXEMPTED FROM CERTAIN PROVISIONS OF THE ACT:

None.

[FR Doc. 03-15351 Filed 6-27-03; 8:45 am]

BILLING CODE 6450-01-P